OFFICE OF PERSONNEL MANAGEMENT

SES Positions That Were Career Reserved During CY 2015

AGENCY: U.S. Office of Personnel Management (OPM).

ACTION: Notice.

SUMMARY: As required by section 3132(b)(4) of title 5, United States Code, this gives notice of all positions in the Senior Executive Service (SES) that were career reserved during calendar year 2015.

FOR FURTHER INFORMATION CONTACT: Eloise Jefferson, Senior Executive Resources Services, Senior Executive Services and Performance Management, Employee Services, 202-606-2246.

SUPPLEMENTARY INFORMATION: Below is a list of titles of SES positions that were career reserved at any time during calendar year 2015, regardless of whether those positions were still career reserved as of December 31, 2015. Section 3132(b)(4) of title 5, United States Code, requires that the head of each agency publish such lists by March 1 of the following year. The Office of Personnel Management is publishing a consolidated list for all agencies.

Agency | Organization | Title
ADMINISTRATIVE CONFERENCE OF THE UNITED STATES | Administrative Conference of the United States | Executive Director. General Counsel.
ADVISORY COUNCIL ON HISTORIC PRESERVATION | Office of the Executive Director | Executive Director.
DEPARTMENT OF AGRICULTURE | Office of Communications | Deputy Director, Creative Development.
| Office of the Chief Information Officer | Deputy Chief Information Officer for Operations and Infrastructure.
|  | Associate Chief Information Officer, International Technology Services.
| Office of the Chief Financial Officer | Associate Chief Financial Officer for Financial Policy and Planning.
|  | Deputy Chief Financial Officer.
|  | Associate Chief Financial Officer, Financial Systems Planning and Management.
| National Finance Center | Director, Financial Services Division.
|  | Director, Information Technology Management Division.
|  | Deputy Director, National Finance Center.
| Office of the General Counsel | Assistant General Counsel, Natural Resources and Environment Division.
|  | Associate General Counsel, General Law and Research Division.
| Office of the Chief Economist | Chairperson.
|  | Director, Office of Risk Assessment and Cost-Benefit Analysis.
|  | Director Global Change Program Office.
|  | Director, Office of Energy Policy and New Uses.
| Office of Human Resources Management | Provost, United States Department of Agriculture Virtual University.
|  | Executive Director, Executive Resources Management Division.
| Office of Advocacy and Outreach | Director, Office of Advocacy and Outreach.
| Office of Operations | Director.
|  | Deputy Director.
| Office of Procurement and Property Management | Associate Director, Procurement and Property Management.
|  | Director, Procurement and Property Management.
| Rural Business Service | Deputy Administrator, Business Programs (2).
| Rural Housing Service | Director, Human Resources.
|  | Chief Financial Officer.
|  | Deputy Administrator, Centralized Servicing Center.
|  | Deputy Administrator, Multi-Family Housing.
|  | Deputy Administrator for Operations and Management.
|  | Director, Loans Receivable Center of Excellence.
| Agricultural Marketing Service | Associate Administrator.
|  | Deputy Administrator, Information Technology Services.
|  | Deputy Administrator, Livestock and Seed Programs.
|  | Deputy Administrator, Dairy Programs.
|  | Deputy Administrator, Fruit and Vegetable Programs.
|  | Deputy Administrator, Science and Technology Programs.
|  | Deputy Administrator for National Organic Programs.
|  | Deputy Administrator, Cotton and Tobacco Programs.
|  | Deputy Administrator, Transportation and Marketing Programs.
|  | Deputy Administrator, Poultry Programs.
|  | Deputy Administrator, Compliance and Analysis.
| Animal and Plant Health Inspection Service | Chief Advisor (Government, Academia and Industry Partnership).
|  | Executive Director, Center for Plant Health Science and Technology.
|  | Associate Deputy Administrator, Wildlife Services.
|  | Deputy Administrator, Animal Care.
|  | Deputy Administrator, Wildlife Services.
|  | Associate Deputy Administrator for Marketing and Regulatory Programs—Business Services.
|  | Deputy Administrator for Marketing and Regulatory Programs—Business Services.
|  | Chief Financial Officer.
|  | Assistant Deputy Administrator, Emergency and Domestic Programs.
|  | Associate Deputy Administrator for Animal Care.
|  | Human Resources Officer.
|  | Director, National Wildlife Research Center.
|  | Director, Investigative and Enforcement Services.
|  | Director, Information Technology Division.
|  | Director, Center for Veterinary Biologics.
|  | Associate Deputy Administrator, Emerging and International Programs.
|  | Deputy Administrator, Legislative and Public Affairs.
|  | Deputy Administrator for International Services.
|  | Deputy Administrator, Biotechnology Regulatory Programs.
|  | Associate Deputy Administrator, Veterinary Services.
|  | Executive Director, Western Region, Wildlife Services.
|  | Director, Eastern Region, Wildlife Services.
| Veterinary Services | Executive Director, Science, Technology and Analysis Service.
|  | Associate Deputy Administrator, National Animal Health Policy Programs.
|  | Director, Western Region, Veterinary Services.
|  | Executive Director, Surveillance Preparedness and Response Service, Veterinary Services.
| Plant Protection and Quarantine Service | Executive Director, Eastern Region, Plant Protection and Quarantine.
|  | Executive Director, Policy Management.
|  | Executive Director, Western Region, Plant Protection and Quarantine.
| Office of the Under Secretary for Food Safety | Deputy Under Secretary for Food Safety.
| Food Safety and Inspection Service | International Affairs Liaison Officer.
|  | Executive Associate for Regulatory Operations, Office of Field Operations.
|  | Chief Information Officer.
|  | Chief Financial Officer.
|  | Assistant Administrator, Office of Field Operations.
|  | Deputy Administrator.
|  | Deputy Assistant Administrator, Office of Data Integration and Food Program.
|  | Assistant Administrator, Office of Data Integration and Food Protection.
|  | Assistant Administrator, Office of Management.
|  | Assistant Administrator, Office of Public Affairs, Education and Outreach.
|  | Executive Associate for Public Health.
|  | Executive Associate for Regulatory Operations, Office of Field Operations.
|  | Deputy Assistant Administrator, Office of Management.
|  | United States Manager for Codex.
|  | Assistant Administrator, Office of Investigation, Enforcement and Auditing.
|  | Deputy Assistant Administrator, Office of Public Health Science.
|  | Deputy Assistant Administrator, Office of Field Operations.
|  | Assistant Administrator.
|  | Assistant Administrator, Office of International Affairs.
|  | Executive Associate for Laboratory Services, Office of Public Health Science.
|  | Executive Associate for Regulatory Operations, Office of Field Operations.
|  | Deputy Assistant Administrator, Office of International Affairs.
|  | Executive Associate for Regulatory Operations, Office of Field Operations.
|  | Deputy Assistant Administrator, Office of Policy and Program Development.
|  | Chief Operating Officer.
|  | Assistant Administrator, Office of Policy and Program Development.
|  | Deputy Assistant Administrator, Office of Investigation, Enforcement and Audit.
|  | Assistant Administrator, Office of Catfish Inspection Programs.
| Food and Nutrition Service | Associate Administrator for Management and Finance.
|  | Financial Manager.
|  | Program Manager (Associate Administrator for Regional Operations and Support).
|  | Director, Office of Research, Nutrition and Analysis.
|  | Program Manager (Deputy Administrator for Management).
| Foreign Agricultural Service | Associate Administrator (Chief Operating Officer).
|  | Deputy Administrator, Office of Global Analysis.
| Farm Service Agency | Assistant Deputy Administrator Farm Programs.
|  | Director, Business and Program Integration.
|  | Director, Office of Budget and Finance.
|  | Director, Human Resources Division.
|  | Deputy Director, Office of Budget and Finance.
|  | Deputy Administrator for Farm Loan Programs.
| Risk Management Agency | Deputy Administrator for Insurance Services Division.
|  | Deputy Administrator for Research and Development.
| Office of the Under Secretary for Research, Education, and Economics | Director Office of the United States Department of Agriculture Chief Scientist.
| Agricultural Research Service | Associate Administrator, Research Operations and Management.
|  | Chief Information Officer.
|  | Assistant Administrator for Technology Transfer.
|  | Director, Office of Pest Management Policy.
|  | Deputy Administrator for Administrative and Financial Management.
|  | Associate Deputy Administrator for Administrative and Financial Management.
|  | Chief Financial Officer.
| Office of National Programs | Associate Administrator, National Programs.
|  | Deputy Administrator, Crop Production and Protection.
|  | Deputy Administrator, Nutrition, Food Safety and Quality.
|  | Deputy Administrator, Animal Production and Protection.
|  | Deputy Administrator for Natural Resources and Sustainable Agriculture Systems.
| Northeast Area Office | Director, Beltsville Agricultural Research Center.
|  | Director, Northeast Area Office.
|  | Director, Eastern Regional Research Center.
|  | Associate Director, Northeast Area (2).
| Southeast Area Office | Director, South East Area.
|  | Director, Southern Regional Research Center.
|  | Associate Director, Southeast Area (2).
| Midwest Area Office | Director, National Center for Agriculture Utilization.
|  | Associate Director, Midwest Area(2).
|  | Director, Midwest Area.
| Mid-south Area Office | Director, Mid-South Area.
| Plains Area Office | Director, United States Meat Animal Research Center.
|  | Associate Director, Plains Area Office (2).
|  | Director, Plains Area.
| Pacific West Area Office | Director, Pacific West Area Office.
|  | Associate Director, Pacific West Area.
|  | Director, Western Human Nutrition Research Center.
|  | Associate Director, Pacific West Area Office.
|  | Director, Western Regional Research Center.
| National Institute of Food and Agriculture | Deputy Director, Office of Information Technology. Deputy Director, Office of Grants and Financial Management.
|  | Deputy Director, Institute of Bioenergy, Climate, and Environment.
|  | Deputy Director, Institute of Food Safety and Nutrition.
| Economic Research Service | Director, Market and Trade Economics Division.
|  | Administrator, Economic Research Service.
|  | Associate Administrator, Economic Research Service.
|  | Director, Food Economics Division.
|  | Director, Resource and Rural Economics Division.
|  | Director, Information Services Division.
| National Agricultural Statistics Service | Director, National Operations Center.
|  | Administrator, National Agricultural Statistics Service.
|  | Associate Administrator.
|  | Director, Western Field Operations.
|  | Director, Methodology Division.
|  | Director, Statistics Division.
|  | Director, Census and Survey Division.
|  | Director, Information Technology Division.
|  | Director Eastern Field Operations.
| Natural Resources Conservation Service | Special Assistant to Chief. Human Resources Officer.
|  | Deputy Chief for Programs.
|  | Director, Financial Assistance Programs Division.
|  | Regional Conservationist (Northeast).
|  | Director, Resource Economics, Analysis and Policy Division.
|  | Director, Resource Inventory Division.
|  | Deputy Chief for Strategic Planning and Accountability.
|  | Director, Easement Programs Division.
|  | Associate Chief for Operations/Chief Operating Officer.
|  | Director, Soil Science Division.
|  | Director, Conservation Engineering Division.
|  | Chief Financial Officer.
|  | Director, Ecological Sciences Division.
| Forest Service | Associate Deputy Chief, Research and Development.
|  | Director, Law Enforcement and Investigations.
|  | Director, Acquisition Management.
|  | Associate Deputy Chief for Business Operations.
|  | Director, Fire and Aviation Staff.
|  | Chief Financial Officer.
|  | Deputy Chief, Business Operations.
| Office of Research | Director, Resource Use Sciences.
|  | Director, Sustainable Forest Management.
|  | Director, Science Policy, Planning, and Information Staff.
|  | Director, Environmental Sciences.
| Office of National Forest System | Director, Ecosystem Management Coordination.
|  | Director, Lands Management Staff.
|  | Director, Engineering.
|  | Director, Forest Management Staff.
|  | Director, Rangeland Management.
|  | Director, Minerals and Geology Management Staff.
|  | Director, Water, Fish, Wasteland, Air and Rare Plants.
| Office of State and Private Forestry | Senior Advisor to the Deputy Chief, State and Private Forestry.
|  | Director, Cooperative Forestry.
|  | Director, Forest Health Protection.
| Field Units | Director, Forest Products Laboratory (Madison).
|  | Director, Southern Research Station (Asheville).
|  | Director, Rocky Mountain Forest and Range Experiment Station (Fort Collins).
|  | Director, Pacific Southwest Forest and Range Experiment Station (Vallejo).
|  | Director, Pacific Northwest Research Station.
|  | Station Director, North Eastern Forest Experiment Station (Newtown Square).
|  | Northeast Area Director, State and Private Forestry.
| Office of International Forest System | Director, International Institute of Tropical Forest (Rio Piedras).
DEPARTMENT OF AGRICULTURE OFFICE OF THE INSPECTOR GENERAL | Office of the Inspector General Office of Assistant Inspector General for Management | Counsel to the Inspector General. Deputy Inspector General. Assistant Inspector General for Management.
| Office of Assistant Inspector General for Audit | Deputy Assistant Inspector General for Audit. Deputy Assistant Inspector General for Audit.
|  | Assistant Inspector General for Audit.
|  | Deputy Assistant Inspector General for Audit.
| Office of Assistant Inspector General for Investigations | Assistant Inspector General for Investigations. Deputy Assistant Inspector General for Investigations.
AMERICAN BATTLE MONUMENTS COMMISSION | Office of Executive Director Office of European Region | Deputy Secretary. Director, European Region.
ARCHITECTURAL AND TRANSPORTATION BARRIERS COMPLIANCE BOARD (UNITED STATES ACCESS BOARD) | Architectural and Transportation Barriers Compliance Board (United States Access Board) | Director, Office of Technical and Information Services. Executive Director.
BROADCASTING BOARD OF GOVERNORS | International Broadcasting Bureau | Deputy for Engineering Resource Control. Deputy for Network Operations.
|  | Associate Director for Management.
|  | Chief Executive Officer.
CHEMICAL SAFETY AND HAZARD INVESTIGATION BOARD | Office of the Chief Operating Officer | Chief Operating Officer.
DEPARTMENT OF COMMERCE | Office of the Deputy Secretary | Interim Executive Director.
| Office of the Chief Information Officer | Deputy Chief Information Officer for Management and Business Operations.
|  | Deputy Chief Information Officer, and Chief Technology Officer.
|  | Director of Cyber Security, and Chief Information Security Officer.
| Office of the General Counsel | Associate General Counsel.
|  | Chief, Ethics Division.
|  | Assistant General Counsel for Finance and Litigation.
| Office of the Chief Financial Officer and Assistant Secretary for Administration | Director, Office of Security. Director for Facilities and Environmental Quality.
|  | Director, Financial Reporting and Internal Controls.
|  | Director for Financial Management and Deputy Chief Financial Officer.
|  | Director, Office of Acquisition Management.
|  | Deputy Director, Office of Security.
|  | Deputy Director for Facilities and Environmental Quality.
|  | Deputy for Procurement Management, Policy and Performance Excellence.
|  | Director, Human Resources Operations Center.
|  | Executive Director, Business, United States of America.
|  | Director of the Office of Budget.
|  | Deputy for Acquisition Program Management.
|  | Deputy Assistant Secretary for Resource Management.
|  | Director, Office of the Secretary for Financial Management.
|  | Director for Human Resources Management and Chief Human Capital Officer.
|  | Deputy Director for Human Resources Management and Deputy Chief Human Capital Officer.
|  | Deputy Director, Office of Financial Management Systems.
| Office of the Deputy Assistant Secretary for Administration | Director, Human Capital Strategy and Diversity.
| Office of the Inspector General | Deputy Assistant Inspector General for Economic and Statistical Program Assessment.
|  | Assistant Inspector General for Administration.
|  | Assistant Inspector General for Systems Evaluation.
|  | Deputy Assistant Inspector General for Auditing.
| Office of Counsel to the Inspector General | Counsel to the Inspector General.
| Office of Inspections and Program Evaluation | Assistant Inspector General for Inspections and Program Evaluation.
| Office of Investigations | Assistant Inspector General for Investigations.
| Economics and Statistics Administration | Director for Policy and Planning.
|  | Chief Financial Officer and Director for Administration.
| Bureau of the Census | Senior Advisor for Service Delivery.
| Office of the Director | Chief Decennial Systems and Contracts Management Office.
|  | Associate Director for Performance Improvement.
|  | Senior Advisor for Business Transformation.
|  | Senior Advisor for Project Management.
| Officer of the Chief Information Officer | Chief Technology Officer. Assistant Director for Information Technology and Deputy Chief Information Officer.
|  | Chief, Application Services Division.
|  | Associate Director for Information Technology and Chief Information Officer.
| Office of the Chief Financial Officer and Assistant Secretary for Administration | Chief, Finance Division. Associate Director for Administration and Chief Financial Officer.
|  | Chief, Budget Division.
|  | Chief, Acquisition Division.
|  | Chief, Human Resources Division.
| Office of Associate Director for Field Operations | Chief, Office of Survey and Census Analytics. Associate Director for Field Operations.
|  | Chief, National Processing Center.
|  | Chief, Field Division.
| Office of Associate Director for Economic Programs | Chief, International Trade Management Division. Chief, Economic Indicators Division.
|  | Chief, Economic Reimbursable Surveys Division.
|  | Chief, Economy-Wide Statistics Division.
|  | Assistant Director for Economic Programs.
|  | Associate Director for Economic Programs.
|  | Chief, Economic Applications Division.
|  | Chief, Economic Management Division.
| Office of Associate Director for Decennial Census | Chief, Decennial Information Technology Division. Chief, American Community Survey Office.
|  | Assistant Director for Decennial Census Programs.
|  | Chief, Geography Division.
|  | Chief, Decennial Management Division.
|  | Associate Director for Decennial Census.
|  | Chief, Decennial Statistical Studies Division.
| Office of Associate Director for Demographic Programs | Chief, Social, Economic, and Housing Statistics Division. Chief, Demographic Statistical Methods Division.
|  | Assistant Director for Demographic Programs.
|  | Associate Director for Demographic Programs.
|  | Chief, Population Division.
|  | Chief, Demographic Surveys Division.
| Office of Associate Director for Research and Methodology | Chief, Center for Adaptive Design. Chief, Center for Survey Measurement.
|  | Assistant Director for Research and Methodology.
|  | Associate Director for Research and Methodology.
|  | Chief, Center for Economic Studies and Chief Economist.
|  | Chief, Statistical Research Division.
|  | Chief, Center for Administrative Records Research and Applications.
| Bureau of Economic Analysis | Associate Director for Industry Accounts.
|  | Chief, Information Officer.
|  | Chief, Balance of Payments Division.
|  | Chief, Direct Investment Division.
|  | Chief Administrative Officer.
| Office of the Director | Director, Bureau of Economic Analysis.
|  | Deputy Director, Bureau of Economic Analysis.
|  | Chief Statistician.
|  | Chief Economist.
| Office of Associate Director for Regional Economics | Associate Director for Regional Economics.
| Office of Associate Director for International Economics | Associate Director for International Economics.
| Office of Associate Director for National Income, Expenditure and Wealth Accounts | Chief, National Income and Wealth Division. Associate Director for National Income, Expenditure and Wealth Accounts.
| Bureau of Industry and Security | Chief Financial Officer and Director of Administration.
| Office of the Assistant Secretary for Export Enforcement | Deputy Director, Office of Export Enforcement. Deputy Assistant Secretary for Export Enforcement.
|  | Director, Office of Export Enforcement.
|  | Director, Office of Enforcement Analysis.
| Office of the Deputy Assistant Secretary | Chief Financial Officer and Chief Administrative Officer.
| Office of the Deputy Under Secretary | Chief Financial and Administrative Officer.
|  | Deputy Chief Financial and Administrative Officer.
| Office of the Deputy Assistant Secretary for Trade, Policy and Analysis | Director, Office of Standards and Investment Policy.
| Office of the Deputy Assistant Secretary for Antidumping Duty/Countervailing Duty Operations | Senior Director, Antidumping Duty/Countervailing Duty Enforcement Office VII. Associate Deputy Assistant Secretary for Antidumping Duty/Countervailing Duty Operations.
| Office of the Assistant Secretary for Global Markets | Director, Trade Compliance Center.
| Office of the Deputy Assistant Secretary for China | Executive Director for China.
| Office of the Director | Associate Director for Management.
| National Oceanic and Atmospheric Administration | Deputy Assistant Administrator for Programs and Administration. Chief, Resource and Operations Management.
| Office of Deputy Under Secretary | Director, Program Evaluation, Planning and Risk Management Office.
| National Oceanic and Atmospheric Administration Coastal Ocean Program Office | Director, Budget Office.
| Office of Sustainable Development and Intergovernmental Affairs | Director, Office of Education.
| Office of Finance and Administration | Chief Financial Officer. Deputy Chief Administrative Officer.
|  | Director, Finance Office/Comptroller.
|  | Deputy Director, Acquisition and Grants Office.
|  | Chief Administrative Officer.
|  | Deputy Director for Workforce Management.
|  | Director, Acquisition and Grants Office.
|  | Director for Workforce Management.
| Office of High Performance Computing and Communications | Chief Information Officer and Director for High Performance Computing and Communications. Deputy Chief Information Officer.
| National Ocean Service | Director, Office of National Geodetic Survey.
|  | Director, Center for Operational Oceanographic Products and Services.
|  | Director, Integrated Ocean Observing System.
|  | Associate Assistant Administrator for Management and Chief Financial Officer/Chief Administrative Officer.
| National Oceanic and Atmospheric Administration Coastal Services Center | Director, National Centers for Coastal Ocean Science.
| Hazardous Materials Response and Assessment Division | Director, Office of Response and Restoration.
| Office of the Assistant Administrator for Weather Services | Deputy Director, National Water Center. Director, Strategic Planning and Policy Office.
|  | Director, National Water Center.
|  | Director, Office of Dissemination.
|  | Office of Organizational Excellence.
|  | Director, Office of Central Processing.
|  | Director, Analyze, Forecast and Support Office.
|  | Director, Office of Facilities.
|  | Director, Office of Science and Technology Integration.
|  | Director, Office of Observations.
|  | Chief Operating Officer.
|  | Chief Engineer.
|  | Director, Office of Planning and Programming for Service Delivery.
|  | Chief Financial Officer/Chief Administrator Officer.
|  | Director, Space Weather Prediction Center.
| Office of the Chief Information Officer | Assistant Chief Information Officer for Weather Service.
| Office of the Federal Coordinator for Meteorology | Director, Office of the Federal Coordinator for Meteorology.
| Office of Hydrologic Development | Director, Office of Hydrologic Development.
| Hydrology Laboratory | Chief, Hydrology Laboratory.
| Office of Science and Technology | Director, Office of Science and Technology.
| Meteorological Development Laboratory | Director, Meteorological Development Laboratory.
| Systems Engineering Center | Director, Systems Engineering Center.
| Office of Operational Systems | Director, Office of Operational Systems.
| Telecommunications Operations Center | Chief, Telecommunications Operations Center.
| Maintenance, Logistics, and Acquisition Division | Chief, Operations Division.
| Radar Operations Center | Director, Radar Operations Center.
| National Data Buoy Center | Director, National Data Buoy Center.
| Office of Climate, Water, and Weather Services | Chief, Meteorological Services Division. Director, Office of Climate, Water, and Weather Services.
| Eastern Region | Director Eastern Region National Weather Service.
| Southern Region | Director, Southern Region.
| Central Region | Director, Central Region.
| Western Region | Director, Western Region.
| Alaska Region | Director, Alaska Region, Anchorage.
| National Centers for Environmental Prediction | Director, Environmental Modeling Center. Director, Ocean Prediction Center.
|  | Director, National Severe Storms Laboratory.
|  | Director, Weather Prediction Center.
|  | Director, National Centers for Environmental Prediction.
|  | Director, Aviation Weather Center.
| National Centers for Environmental Prediction Central Operations | Director, Central Operations.
| Climate Prediction Center | Director, Climate Prediction Center.
| Storm Prediction Center | Director, Storm Prediction Center.
| Tropical Prediction Center | Director, National Hurricane Center.
| Office of Assistant Administrator for Fisheries | Director, Office of Management and Budget.
| National Marine Fisheries Service | Director, Office of Habitat Conservation.
|  | Deputy Assistant Administrator for Regulatory Programs.
|  | Director, Office of Sustainable Fisheries.
|  | Science and Research Director, Southwest Region.
|  | Science and Research Director, Pacific Island Region.
|  | Director, International Affairs and Seafood Inspection.
| Office of Fisheries Conservation and Management | Director, Scientific Programs and Chief Science Advisor.
|  | Director, Office of Enforcement.
| Office of Protected Resources | Director, Office of Science and Technology.
| Northeast Fisheries Science Center | Science and Research Director, Northeast Region.
| Southeast Fisheries Science Center | Science and Research Director, Southeast Region.
| Northwest Fisheries Science Center | Science and Research Director, Northwest Region.
| Alaska Fisheries Science Center | Science and Research Director.
| Office of Assistant Administrator Satellite, Data Information Service | Director, Office of Projects, Partnerships and Analysis. Director, Satellite Ground Services.
|  | Deputy Director, National Center for Environmental Information.
|  | Director, National Center for Environmental Information.
|  | Deputy Director, Office of Satellite and Product Operations.
|  | Director, Joint Polar Satellite Systems.
|  | Deputy Assistant Administrator for Systems.
|  | System Program Director for Geostationary Operational Environmental Satellite-R Program.
|  | Chief Financial Officer/Chief Administrative Officer.
|  | Assistant Chief Information Officer for the National Environmental Satellite, Data, and Information Service.
| National Climatic Data Center | Director, National Climatic Data Center.
| National Oceanographic Data Center | Director, National Oceanographic Data Center.
| Office of Systems Development | Director, Office of Systems Development. Director, Systems Engineering Program.
| Office of Assistant Administrator, Ocean and Atmospheric Research | Chief Financial Officer/Chief Administrative Officer. Director, Climate Program Office.
|  | Director, Earth System Research Laboratory and Principal Science Advisor.
|  | Deputy Assistant Administrator for Laboratories, Cooperative Institutes and Director, Air Resources Laboratory.
|  | Director, Office of Ocean Exploration and Research.
| National Sea Grant College Program | Director, National Sea Grant College Program.
| Aeronomy Laboratory | Director, Chemical Science Division.
| Atlantic Ocean and Meteorology Laboratory | Director, Atlantic Oceanographic and Meteorological.
| Geophysical Fluid Dynamics Laboratory | Director, Office of Geophysical Fluid Dynamics Laboratory.
| Great Lake Environmental Research Laboratory | Director, Office of Great Lakes Environmental Research Laboratory.
| Pacific Marine Environmental Research Laboratory | Director, Office of Pacific Marine Environmental Laboratory.
| Environmental Technology Laboratory | Director, Physical Science Division.
| Forecast Systems Laboratory | Director, Global Systems Division.
| Climate Monitoring and Diagnostics Laboratory | Director, Global Monitoring Division.
| Office of the Assistant Secretary for Communications and Information | Chief Information Officer and Deputy Director of Administration. Chief Digital Officer.
|  | Chief Financial Officer and Director of Administration.
| Office of First Responder Network Authority | Chief Information Officer, First Responder Network Authority.
|  | Chief Technology Officer, First Responder Network Authority.
|  | Chief Administrative Officer, First Responder Network Authority.
|  | Chief Financial Officer, First Responder Network Authority.
| Office of International Affairs | Associate Administrator, Office of International Affairs.
| Institute for Telecommunication Sciences | Deputy Director for Systems and Networks.
| Office of the Under Secretary | Vice Chief Administrative Patent Judge.
|  | Regional Director, Denver.
|  | Chief, Trademark Trial and Appeal Board.
|  | Patent Trial and Appeal Board Executive.
|  | Vice Chief Administrative Patent Judge.
|  | Regional Director, Dallas.
|  | Regional Director, Detroit.
|  | Deputy Chief Administrative Patent Judge.
|  | Chief Administrative Patent Judge.
|  | Director, Office of Equal Employment Opportunity and Diversity.
|  | Deputy Chief Administrative Trademark Judge.
|  | Regional Director, San Jose.
| Office of Policy and International Affairs | Deputy Chief Policy Officer for Operations.
|  | Deputy Chief Policy Officer.
|  | Director, Governmental Affairs.
| Office of the General Counsel | Deputy General Counsel for Intellectual Property Law and Solicitor.
|  | Deputy General Counsel for General Law.
|  | Deputy General Counsel for Enrollment and Discipline.
|  | Deputy Solicitor and Assistant General Counsel for Intellectual Property Law.
| Patent Trial and Appeal Board | Patent Trial and Appeal Board Executive.
| Office of the Chief Administrative Officer | Deputy Chief Administrative Officer.
|  | Director, Human Capital Management.
|  | Director, Office of Administrative Services.
|  | Director, Office of Administrative Services.
| Office of the Chief Financial Officer | Director, Office of Finance.
|  | Director, Office of Procurement.
|  | Director, Office of Budget and Planning.
|  | Chief Financial Officer.
|  | Deputy Chief Financial Officer.
|  | Director, Office of Budget and Planning.
| Office of the Chief Information Officer | Director, Office of Program Administration Organization.
|  | Director, Office of Information Management Services.
|  | Chief Technology Officer.
|  | Director, Office of Infrastructure Engineering and Operations.
|  | Director, Application Engineering and Development.
|  | Deputy Chief Information Officer.
|  | Director of Organizational Policy and Governance.
|  | Director, Office of Policy and Governance.
| Office of the Commissioner for Trademarks | Deputy Commissioner for Trademark Examination Policy.
|  | Group Director, Trademark Law Offices.
|  | Deputy Commissioner for Trademark Operations.
|  | Deputy Commissioner of Trademark Administration.
|  | Deputy Commissioner for Trademark Operations.
|  | Group Director, Trademark Law Offices (2).
| Office of the Commissioner for Patents | Director, Office of Patent Quality Assurance. Regional Director.
|  | Program Director, International Patent Cooperation.
|  | Deputy Commissioner for Patent Operations.
|  | Director, Office of Patent Training.
|  | Associate Commissioner for Patent Resources and Planning.
|  | Deputy Director, Patent Training Academy.
|  | Associate Commissioner for Patent Examination Policy.
|  | Deputy Associate Commissioner for Patent Information Management.
|  | Director, Office of Patent Legal Administration.
|  | Director, Office of the Central Re-examination Unit.
|  | Associate Commissioner for Patent Information Management.
|  | Deputy Commissioner for Patent Administration.
|  | Assistant Deputy Commissioner for Patents (5).
|  | Deputy Commissioner for Patent Quality.
|  | Associate Commissioner for Innovation and Development.
|  | Deputy Commissioner for International Patent Cooperation.
| Office of Group Directors | Group Director—2800 (4).
|  | Group Director—2400 (2).
|  | Group Director—3700 (4).
|  | Group Director—2600 (4).
|  | Group Director—2100 (3).
|  | Group Director (2).
|  | Group Director—1600 (3).
|  | Group Director—3600 (4).
|  | Group Director—1700 (3).
|  | Regional Group Director.
|  | Group Director—2900.
| National Institute of Standards and Technology | Director, Standards Coordination Office. Associate Director for Laboratory Programs.
|  | Associate Director for Management Resources.
|  | Associate Director for Innovation and Industry Services.
|  | Boulder Laboratories Site Manager.
|  | Chief Safety Officer.
|  | Chief Cybersecurity Advisor.
|  | Deputy Director, Center for Nanoscale Science and Technology.
|  | Director, Center for Nanoscale Science and Technology.
|  | Deputy Director, National Institute of Standards and Technology Center for Neutron Research.
|  | Chief of Staff for National Institute for Standards and Technology.
|  | Director, National Institute of Standards and Technology Center for Neutron Research.
|  | Chief Facilities Management Officer.
|  | Chief Scientist.
|  | Deputy Director, Special Programs Office.
|  | Director, Special Programs Office.
|  | Director, Smart Grid and Cyber-Physical Systems Program Office.
| Office of the Director, National Institute of Standards and Technology | Director, Advanced Manufacturing Program Office. Senior Advisor for Laboratory Programs.
|  | Chief Manufacturing Officer.
|  | Director, Communications Technology Laboratory.
|  | Senior Advisor to the Director, Physical Measurement Laboratory.
|  | Chief Financial Officer for National Institute of Standards and Technology.
|  | Chief Information Officer for National Institute of Standards and Technology.
| Baldrige Performance Excellence Program | Director, Baldrige Performance Excellence Program.
| Manufacturing Extension Partnership Program | Deputy Director, Manufacturing Extension Partnership Program.
|  | Director, Manufacturing Extension Partnership Programs.
| Electronics and Electrical Engineering Laboratory | Deputy Director, Physical Measurement Laboratory.
| Manufacturing Engineering Laboratory | Deputy Director for Manufacturing.
| Chemical Science and Technology Laboratory Office | Director, Material Measurement Laboratory.
| Physics Laboratory Office | Director, Physical Measurement Laboratory.
| Building and Fire Research Laboratory | Director, Engineering Laboratory.
| National Technical Information Service | Deputy Director, National Technical Information Service.
| Information Technology Laboratory | Director, Information Technology Laboratory.
|  | Deputy Director, Information Technology Laboratory.
| Office of the Chief Financial Officer | Director for Acquisition and Grants Management.
DEPARTMENT OF COMMERCE OFFICE OF THE INSPECTOR GENERAL | Office of Inspector General Office of Audit and Evaluation | Deputy Inspector General. Assistant Inspector General for Audits. Assistant Inspector General for Acquisition and Special Program Audits.
|  | Principal Assistant Inspector General for Audit and Evaluation.
|  | Assistant Inspector General for Intellectual Property and Special Program Audits.
| Office of Economic and Statistical Program Assessment | Assistant Inspector General for Economic and Statistical Program Assessment.
| Office of Systems Acquisitions and Information Technology Security | Assistant Inspector General for Systems Acquisitions and Information Technology Security.
| Office of Program Assessment | Assistant Inspector General for Administration.
| Office of Investigations | Assistant Inspector General for Investigations.
| Office of Counsel | Counsel to the Inspector General.
CONSUMER PRODUCT SAFETY COMMISSION | Office of Executive Director | Assistant Executive Director for Compliance and Administrative Litigation.
|  | Director, Office of International Programs and Intergovernmental Affairs.
|  | Assistant Executive Director for Information and Tech Services.
| Office of Hazard Identification and Reduction | Associate Executive Director for Epidemiology. Associate Executive Director for Engineering Sciences.
|  | Associate Executive Director for Economic Analysis.
|  | Assistant Executive Director for Hazard Identification and Reduction.
|  | Deputy Assistant Executive Director for Hazard Identification and Reduction.
| Office of Import Surveillance | Director, Office of Import Surveillance.
COURT SERVICES AND OFFENDER SUPERVISION AGENCY FOR THE DISTRICT OF COLUMBIA | Court Services and Offender Supervision Agency for the District of Columbia | Associate Director for Research and Evaluation. Deputy Director. Associate Director for Human Resources.
|  | Associate Director for Administration.
|  | Chief Financial Officer.
|  | Management and Program Analysis Officer and Chief of Staff.
|  | Associate Director, Legislative, Intergovernmental and Public Affairs.
|  | Associate Director for Community Justice Programs.
|  | Associate Director for Community Supervision.
|  | Chief Information Officer.
| Pretrial Services Agency | Associate Director for Operations.
|  | Director.
|  | Deputy Director.
|  | Associate Director for Management and Administration.
OFFICE OF THE SECRETARY OF DEFENSE | Office of the Under Secretary of Defense (Policy) | Special Assistant (Career Broadening) (2).
| Office of Principal Deputy Under Secretary for Policy | Foreign Relations and Defense Policy Manager (Senior Advisor to the Principal Deputy Under Secretary of Defense for Policy).
| Office of the Assistant Secretary of Defense (Asian and Pacific Security Affairs) | Deputy Assistant Secretary of Defense (East Asia).
| Office of Director for Operational Test and Evaluation | Deputy Director for Live Fire Test and Evaluation.
| Office of the Deputy Chief Management Officer | Director, Oversight and Compliance. Director of Administration.
|  | Department of Defense Senior Intelligence Oversight Official and Deputy Director Oversight and Compliance.
|  | Director Management and Requirements Analysis Division.
|  | Director Policy and Decision Support Division.
|  | Director, Management Policy and Analysis Directorate.
|  | Director, Planning, Performance and Assessment Directorate.
|  | Director, Enterprise Performance Division.
| Office of the Under Secretary of Defense (Personnel and Readiness) | Chief of Staff.
| Office Assistant Secretary of Defense (Health Affairs) | General Counsel. Regional Director, Tricare Regional Office—South.
|  | Military Health System Chief Information Officer.
|  | Deputy Chief, Tricare Acquisitions Directorate.
| Office of the Under Secretary of Defense (Comptroller) | Deputy Chief Financial Officer.
| Washington Headquarters Services | Deputy Director, Human Resources Directorate.
|  | Deputy Director, Defense Facilities Directorate.
|  | Director, Facilities Services Directorate.
|  | Principal Assistant Responsible for Contracting.
|  | Director, Policy, Plans and Requirements.
|  | Director, Acquisition Directorate.
|  | Director, Department of Defense Consolidated Adjudications Facility.
|  | Director, Human Resources Directorate.
| Pentagon Force Protection Agency | Director, Pentagon Force Protection Agency.
|  | Assistant Director, Law Enforcement.
|  | Principal Deputy Director, Pentagon Force Protection Agency.
| Office of the General Counsel | Director, Office of Litigation.
|  | Director, Defense Office of Hearings and Appeals.
| Office of the Under Secretary of Defense (Acquisition, Technology, and Logistics) | Deputy Director, Office of the Secretary of Defense Studies and Federally Funded Research and Development Center Management.
|  | Director for Administration.
|  | Deputy Director, Treaty Compliance and Homeland Defense.
|  | Director, Defense Procurement and Acquisition Policy.
|  | Deputy Director, Enterprise Information.
|  | Principal Deputy Director, Administration.
|  | Deputy Director for Program Development and Implementation.
|  | Deputy Director, Acquisition Technology.
|  | Principal Deputy, Acquisition Resources and Analysis.
|  | Director, Acquisition Resources and Analysis.
|  | Deputy Director, Resource Analysis.
| Assistant Secretary of Defense (Acquisition) | Principal Deputy Assistant Secretary of Defense (Acquisition).
|  | Deputy Director, Naval Warfare.
|  | Deputy Director, Defense Acquisition Regulations System.
|  | Technical Director, Force Development.
|  | Deputy Director, Program Acquisition and Strategic Sourcing.
|  | Deputy Director, Assessments and Support.
|  | Deputy Director, Land Warfare and Munitions.
|  | Assistant Deputy Under Secretary of Defense (Acquisition Process and Policies).
|  | Special Assistant Concepts and Plans.
|  | Deputy Director, Contract Policy and International Contracting.
| Assistant to the Secretary of Defense for Nuclear and Chemical and Biological Defense Programs | Deputy Assistant Secretary of Defense (Nuclear Matters).
| Office of the Director of Defense Research and Engineering | Director, Human Performance, Training and Bio systems. Deputy Director, Information Systems and Cyber Security.
|  | Director, Space and Sensor Technology.
|  | Director for Weapons Systems.
|  | Principal Deputy Assistant Secretary of Defense (Research and Engineering)/Director, Plans and Programs.
| Defense Advanced Research Projects Agency | Deputy Director, Strategic Technology Office. Director, Support Services Office.
|  | Director, Contracts Management Office.
|  | Director, Tactical Technology Office.
|  | Deputy Director, Defense Advanced Research Projects Agency.
|  | Deputy Director, Special Programs.
|  | Special Assistant for Procurement Policy Strategy.
|  | Director, Strategic Resources.
| Office of the Joint Chiefs of Staff | Vice Director, C4 Cyber (2).
|  | Vice Director, Joint Force Development.
|  | Assistant Deputy Director for Command and Control.
|  | Vice Deputy Director Joint and Coalition Warfighting.
|  | Executive Director, Force Generation.
|  | Vice Assistant Deputy Director, Joint Development.
|  | Assistant Deputy Director, Synchronization and Integration.
| Missile Defense Agency | Director for Acquisition.
|  | Deputy Program Manager for Assessment and Integration, Ballistic Missile Defense System.
|  | Deputy Program Director, Beam Control.
|  | Program Director, Ground-Based Midcourse Defense.
|  | Program Director for Battle Management, Command and Control.
|  | Director for Operations.
|  | Deputy for Engineering.
|  | Director for Advanced Technology.
|  | Chief Engineer, Ground-Based Midcourse Defense.
|  | Program Director, Targets and Countermeasures.
|  | Director for Systems Engineering and Integration.
|  | Director, Contracting.
|  | Deputy Director, Joint National Integration Center.
| Defense Contract Audit Agency | Assistant Director, Human Capital and Resource Management.
|  | Deputy Regional Director Mid-Atlantic Region.
|  | Deputy Regional Director, Western Region.
|  | Deputy Regional Director, Central Region.
|  | Deputy Regional Director, Northeastern Region.
|  | Deputy Regional Director, Eastern Region.
|  | Director, Defense Contract Audit Agency.
|  | Director, Field Detachment.
|  | Regional Director, Mid-Atlantic.
|  | Regional Director, Western.
|  | Regional Director, Central.
|  | Regional Director, Northeastern.
|  | Regional Director, Eastern.
|  | Assistant Director, Policy and Plans.
|  | Assistant Director, Operations.
|  | Deputy Director, Defense Contract Audit Agency.
| Regional Managers | Assistant Director, Integrity and Quality Assurance.
| Defense Logistics Agency | Executive Director, Support, Policy and Strategic Programs.
|  | Chief Financial Officer/Director, Defense Logistics Agency.
|  | Deputy Director, Information Operations/Chief Technical Officer.
|  | Acquisition Executive, Defense Logistics Agency Acquisition.
|  | Executive Director, Operations and Sustainment.
|  | Executive Director, Joint Contingency Acquisition Support Office.
|  | Chief of Staff.
|  | Program Executive Officer, Defense Logistics Agency Information Operations.
|  | Vice Director, Defense Logistics Agency.
|  | Deputy Director, Defense Logistics Agency Acquisition.
|  | Director, Defense Logistics Agency Acquisition (J-7).
|  | Deputy Commander, Defense Logistics Agency Energy.
|  | Executive Director, Contracting and Acquisition Management.
|  | Executive Director, Troop Support Contracting and Acquisition Management.
|  | Director, Defense Logistics Agency Disposition Services.
|  | General Counsel.
|  | Director, Defense Logistics Agency Human Resources.
|  | Director, Defense Logistics Agency Information Operation.
|  | Principal Deputy Comptroller.
|  | Deputy Commander, Defense Logistics Agency Distribution.
|  | Deputy General Counsel, Defense Logistics Agency.
|  | Deputy Commander, Defense Logistics Agency Troop Support.
|  | Deputy Commander, Defense Logistics Agency Aviation.
|  | Deputy Commander, Defense Logistics Agency Land and Maritime.
| Defense Human Resources Activity | Director, Human Resources Operational Programs and Advisory Services.
|  | Deputy Director, Defense Manpower Data Center.
|  | Director, Defense Manpower Data Center.
|  | Chief Actuary, Defense Human Resources Activity.
| Defense Contract Management Agency | Executive Director, Financial and Business Operations and Comptroller.
|  | Deputy Chief Operations Officer.
|  | Executive Director, Contracts.
|  | Executive Director, Portfolio Management and Integration.
|  | Executive Director, Quality Assurance.
|  | General Counsel.
|  | Deputy Director, Defense Contract Management Agency.
|  | Chief Operations Officer.
|  | Deputy Executive Director, Portfolio Management and Integration.
| Defense Information Systems Agency | Deputy Chief Financial Executive/Comptroller.
|  | Principal Director for Computing Services.
|  | Director for Strategic Planning and Information.
|  | Inspector General.
|  | Congressional Liaison Officer.
|  | Chief Financial Executive/Comptroller.
|  | Director, Enterprise Information Services.
|  | Vice Principal Director, Operations.
|  | Director, Enterprise Engineering.
|  | Procurement Services Executive and Head of Contracting Activity.
|  | Base Realignment and Closure Transition Executive.
|  | Component Acquisition Executive.
|  | Principal Director, Operations Director.
|  | Director for Network Services.
|  | Vice Director for Network Services.
|  | Chief Technology Officer.
|  | Program Executive Officer, Communication.
|  | Chief, Corporate Planning and Mission Integration.
|  | Director, Department of Defense Information Network Readiness and Security Inspections.
|  | Senior Executive.
|  | Workforce Management Executive.
|  | Cyber Security, Risk Management and Authorizing Official Executive.
|  | Deputy Chief Technology Officer for Enterprise Services.
|  | Test and Evaluation Executive.
|  | Chief Information Assurance Executive and Program Executive Officer for Mission Assurance and Network Operations.
|  | Deputy Chief Technology Officer for Mission Assurance.
|  | Vice Procurement Services Executive/Deputy Chief, Defense Information Technology Contracting Organization.
| Defense Threat Reduction Agency | General Counsel.
|  | Director, Acquisition, Finance and Logistics Directorate.
|  | Chief Scientist.
|  | Director, Counter Weapons of Mass Destruction Technologies Department.
|  | Director, Operations, Readiness and Exercises Directorate.
|  | Director, Intelligence, Plans and Resource Integration Directorate.
|  | Director, Basic and Applied Sciences Department.
|  | Director, Research and Development Directorate.
|  | Director, Nuclear Technologies Department.
|  | Director, Cooperative Threat Reduction Department.
|  | Executive Director.
|  | Director, On-Site Inspection Department.
| Defense Commissary Agency | Director.
DEPARTMENT OF THE AIR FORCE | Office of Logistics and Engineering | Director, Engineering and Technical Management.
|  | Deputy Director of Operations.
|  | Director, Logistics, Engineering and Force Support.
|  | Director of Logistics and Logistics Services.
|  | Executive Director, Air Force Installation and Mission Support Center.
|  | Chief, Science and Technology.
|  | Deputy Director of Policy, Programs and Strategy, International Affairs.
|  | Deputy Director, Air, Space and Information Operations.
|  | Director, Air Force Civil Engineer Center.
|  | Director, Headquarters Air Force Information Management.
|  | Executive Director.
|  | Executive Director, Air National Guard.
|  | Director, Diversity and Inclusion.
|  | Deputy Director, Strategy, Concepts and Assessments.
|  | Director, Diversity and Inclusion.
|  | Chief Information Officer and Deputy Director, Plans and Integration.
|  | Deputy Assistant Secretary (Logistics).
|  | Associate Deputy Assistant Secretary for Programs.
|  | Director of Policy, Programs and Strategy, International Affairs.
|  | Deputy Director of Operations.
|  | Director, 448 Combat Sustainment Wing.
|  | Deputy Director of Logistics.
|  | Director, Civilian Force Management.
|  | Deputy Director, Security Forces.
|  | Director, Cyber Capabilities and Compliance.
|  | Deputy Director, Requirements.
|  | Director, Space Security and Defense Program.
|  | Deputy Director, Security, Special Program Oversight, and Information Protection.
|  | Deputy Director, Strategic Planning.
|  | Director of Contracting.
|  | Executive Director, Africa.
|  | Deputy Director Force Development and Air Force Senior Language Authority.
|  | Director, Engineering and Technical Management.
|  | Director, Installations, Logistics and Mission Support.
|  | Director of Communications and Information.
|  | Director, Installation Support.
|  | Deputy Director, Strategic Plans, Programs, Requirements and Analyses.
|  | Director, Financial Management and Comptroller.
| Office of the Secretary | Deputy Director, Legislative Liaison.
|  | Deputy Director, Warfighter Systems Integration and Deployment.
|  | Director, Air Force Rapid Capabilities Office.
|  | Deputy Director, Air Force Review Boards Agency.
|  | Deputy Director, Air Force Rapid Capabilities Office.
| Office of the Under Secretary | Associate Deputy Under Secretary of the Air Force (Space) and Deputy Director Principal, Department of Defense Space Advisor Staff.
|  | Deputy Under Secretary of the Air Force (Space Programs).
| Deputy Under Secretary (International Affairs) | Deputy Under Secretary (International Affairs). Director, Strategy, Operations, and Resources.
|  | Director of Policy, International Affairs.
| Office of Administrative Assistant to the Secretary | Deputy Administrator Assistant. Director, Headquarters Air Force Information Management.
|  | Executive Director, Office of Special Investigations.
|  | Director Security, Special Program Oversight and Information Protection.
|  | Administrative Assistant.
| Office of Small and Disadvantaged Business Utilization | Director, Office of Small and Disadvantaged Business Utilization.
| Office of Public Affairs | Deputy Director, Public Affairs.
| Office of Auditor General | Auditor General of the Air Force.
|  | Assistant Auditor General, Field Offices Directorate.
| Air Force Audit Agency (Field Operating Agency) | Assistant Auditor General, Operations and Support Audits. Assistant Auditor General, Acquisition, Logistics and Financial Audits.
| Air Force Office of Special Investigations (Field Operating Agency) | Deputy Director Security, Special Program Oversight and Information Protection.
|  | Executive Director, Defense Cyber Crime Center.
| Office of the General Counsel | Deputy General Counsel (Acquisition).
|  | Deputy General Counsel (International Affairs).
|  | Deputy General Counsel (Installations, Energy and Environment).
|  | Director, Global Combat Support.
|  | Principal Deputy General Counsel.
| Office of Assistant Secretary Air Force for Financial Management and Comptroller | Chief Information Officer.
| Office of Deputy Assistant Secretary Budget | Director, Budget Management and Execution. Associate Deputy Assistant Secretary (Budget).
|  | Director, Budget Investment.
| Office of Deputy Assistant Secretary Cost and Economics | Associate Deputy Assistant Secretary (Cost and Economics).
|  | Deputy Assistant Secretary (Cost and Economics).
| Office of Deputy Assistant Secretary Financial Operations | Deputy Assistant Secretary (Plans, Systems and Analysis). Associate Deputy Assistant Secretary (Financial Operations).
| Office of Assistant Secretary Air Force for Acquisition | Associate Deputy Assistant Secretary, (Science, Technology and Engineering).
|  | Deputy Assistant Secretary (Science, Technology and Engineering).
|  | Deputy Assistant Secretary (Acquisition Integration).
|  | Director, Information Dominance Programs.
|  | Deputy Air Force Program Executive Officer (Combat and Mission Support).
|  | Associate Deputy Assistant Secretary (Acquisition Integration).
|  | Director of Contracting (Special Access Programs.
|  | Associated Deputy Assistant Secretary (Acquisition Integration).
| Chief Information Office | Deputy Chief, Information Dominance and Deputy Chief Information Officer.
| Office Deputy Assistant Secretary Contracting | Associate Deputy Assistant Secretary (Contracting).
| Directorate of Space and Nuclear Deterrence | Associate Director, Nuclear Weapons and Counter proliferation.
|  | Deputy Assistant Chief of Staff, Strategic Deterrence and Nuclear Integration.
| Office of Assistant Secretary of the Air Force for Manpower and Reserve Affairs | Deputy Assistant Secretary for Reserve Affairs.
| Air Force Review Boards Agency (Air Force Review Boards Agency)—Field Operating Agency | Deputy for Air Force Review Boards.
| Office of Assistant Secretary Air Force, Installations, Environment, and Logistics | Deputy Assistant Secretary (Energy). Deputy Assistant Secretary (Logistics).
| Office of Deputy Assistant Secretary Installations | Deputy Assistant Secretary (Installations).
| Office of the Chief of Staff | Director, Air Force History and Museums Policy and Programs.
|  | Deputy Director of Staff.
| Air Force Office of Safety and Air Force Safety Center (Field Operating Agency) | Deputy Chief of Safety.
| Office of Judge Advocate General | Director, Administrative Law.
| Office of Test and Evaluation | Deputy Director, Test and Evaluation. Director, Test and Evaluation.
| Air Force Studies and Analyses Agency (Direct Reporting Unit (DRU)) | Principle Deputy Director, Studies and Analyses, Assessments and Lessons Learned.
|  | Director, Air Force Studies and Analyses, Assessments and Lessons Learned.
| Office of Deputy Chief of Staff, Warfighting Integration | Deputy Director, Information Services and Integration. Director, Architecture and Operational Support Modernization.
| Office of Deputy Chief of Staff, Installations and Logistics | Deputy Director, Security Forces. Assistant Deputy Chief of Staff, Installation and Logistics.
| Office of Civil Engineer | Deputy Director of Civil Engineers.
| Office of Logistics Readiness | Deputy Director of Logistics.
| Office of Resources | Director of Resource Integration.
|  | Associate Deputy of Logistics.
| Air Force Center for Environmental Excellence (Field Operating Agency) | Director, Air Force Civil Engineer Center.
| Deputy Chief of Staff, Plans and Programs | Assistant Deputy Chief of Staff, Strategic Plans and Requirements.
|  | Deputy Director of Strategic Planning.
| Office of Deputy Chief of Staff, Personnel | Deputy Director, Force Management Policy. Assistant Deputy Chief of Staff, Personnel.
|  | Director, Airman Development and Sustainment.
|  | Director, Plans and Integration.
|  | Deputy Director of Services.
|  | Deputy Director, Air Force Manpower, Organization and Resources.
|  | Director, Force Development.
|  | Deputy Director, Military Force Management.
|  | Deputy Director, Manpower, Organization and Resources.
| Air Force Personnel Center (Field Operating Agency) | Director, Personnel Operations. Executive Director, Air Force Personnel Center.
| Deputy Chief of Staff, Air and Space Operations | Deputy Director of Operational Planning, Policy, and Strategy.
|  | Deputy Director, Operations and Readiness.
|  | Director of Weather.
|  | Associate Deputy Chief of Staff, Operations, Plans and Requirements.
|  | Director, Irregular Warfare.
|  | Deputy Director, Operational Planning, Policy and Strategy.
| Office of Deputy Chief of Staff for Intelligence, Surveillance and Reconnaissance | Director of Intelligence, Surveillance, and Reconnaissance Innovations and Unmanned Aerial Systems (UAS) Task Force.
| Air Force Operational Test and Evaluation Center (Direct Reporting Unit) | Executive Director, Air Force Operational Test and Evaluation Center (2).
| Air Force Special Operations Command | Executive Director Air Force Special Operations Command.
| Air Force Materiel Command | Director, Manpower, Personnel and Services.
|  | Director, National Museum of the United States Air Force.
|  | Director, Financial Management.
|  | Director, Installations.
|  | Director of Engineering and Technical Management, F-35 Lightning II Joint Program Office.
|  | Executive Director, Air Force Material Command.
|  | Principal Deputy to the Staff Judge Advocate.
|  | Program Executive Officer, Business Enterprise Systems.
|  | Director, Enterprise Sourcing Group.
|  | Executive Director, Air Force Nuclear Weapons Center.
|  | Director, Communications, Installations, and Mission Support.
| Office of Contracting | Director, Contracting, Air Force Material Command.
| Office of Logistics | Deputy Director, Logistics, Installations and Mission Support.
| Office of Engineering and Technical Management | Director, Engineering and Technical Management.
| Office of Financial Management and Comptroller | Deputy Director, Financial Management and Comptroller.
| Office of Plans and Programs | Director, Acquisition, Intelligence, and Requirements.
| Office of Operations Directorate | Deputy Director, Air, Space and Information Operations.
| Air Force Materiel Command Law Office | Command Counsel. Director, Air Force Materiel Command Law Office.
| Air Force Office of Scientific Research | Director of Physics and Electronics Sciences. Director, Air Force Office of Scientific Research.
| Electronic Systems Center | Program Executive Officer, Battle Management.
|  | Director, Engineering and Technical Management, Electronic Systems Center.
| Aeronautical Systems Center | Director, Contracting, Aeronautical Systems Center.
|  | Executive Director, Air Force Life Cycle Management Center.
|  | Program Executive Officer, Mobility Aircraft.
|  | Program Executive Officer for Agile Combat Support.
|  | Director of Engineering, Joint Strike Fighter.
| Engineering Directorate | Director, Engineering, Air Force Life Cycle Management Center.
| Air Force Research Laboratory | Director, Plans and Programs, Air Force Research Laboratory.
|  | Executive Director, Air Force Research Laboratory.
|  | Director, Materials and Manufacturing, Air Force Material Command.
| Office of Air Force Research Laboratory, Munitions Directorate | Director, Munitions, Air Armament Center.
| Office of Information Directorate | Director, Information.
| Office of Directed Energy Directorate | Director, Directed Energy.
| Office of Materials and Manufacturing Directorate | Director, Materials and Manufacturing.
| Office of Sensors Directorate | Director, Sensors.
| Office of Human Effectiveness Directorate | Director, Human Effectiveness Directorate.
| Air Force Flight Test Center | Executive Director, Air Force Flight Test Center.
| Air Logistics Center, Oklahoma City | Director of Logistics, Air Force Specialty Codes.
|  | Executive Director, Air Force Specialty Codes.
|  | Director, 448th Combat Sustainment Wing.
|  | Director, Contracting, Air Logistics Center.
|  | Director, Engineering and Technical Management, Air Force Specialty Center—Engineering.
|  | Director, 448th Supply Chain Management Wing.
| Air Logistics Center, Warner Robins | Director, Contracting, Warner—Robins, Air Logistics Center.
| Air Logistics Center, Ogden | Director Contracting, Ogden—Air Logistics Center.
|  | Director, Engineering and Technical Management, Ogden—Air Logistics Center.
| Air Armament Center | Director, Engineering and Technical Management, Air Force Material Center.
| Air Combat Command | Director, Acquisition Management and Integration Center.
|  | Director, Air Force Global Cyber space Integration Center.
|  | Deputy Director of Logistics, Air Combat Command.
| Air Mobility Command | Deputy Director of Logistics, Air Mobility Command.
|  | Deputy Director, Installations and Mission Support, Air Mobility Command.
| Air Education and Training Command | Director, Logistics, Installations and Mission Support, Air Education and Training Command.
|  | Director, International Training and Education.
| Air Force Reserve Command | Director of Staff.
| United States Central Command | Deputy Director of Logistics and Engineering.
|  | Deputy Director of Operations Interagency Action Group (IAG).
|  | Deputy Director, Logistics and Engineering, United State Central Command.
|  | Director of Resources, Requirements, Budget and Assessment.
| Air Force Space Command | Executive Director, Air Force Space Command.
|  | Director, Space Protection Program Office.
|  | Director of Installations and Logistics, Air Force Space Command.
|  | Executive Director, Air Force Space Command.
| United States Special Operations Command | President, Joint Special Operations University. Director and Chief Information Officer for Special Operations Networks and Communications Center.
|  | Director, Plans, Policy and Strategy, United States Special Operations Command.
|  | Director of Acquisition, United States Special Operations Command.
|  | Deputy Director, Center for Special Operations Acquisition and Logistics.
|  | Director, Interagency Task Force, United States Special Operations Command.
|  | Director, Financial Management and Comptroller, United States Special Operations Command.
| Air Force Special Operations Command | Director of Financial Management and Comptroller, Air Force Special Operations Command.
| Space and Missile Systems Center | Director, Launch Enterprise.
|  | Deputy Director and Chief Technical Advisor.
|  | Director, Military Satellite Communications Systems Wing.
| United States Strategic Command | Director, Capability and Resource Integration.
|  | Deputy Director, Capability and Resource Integration.
|  | Associate Director, Capability and Resource Integration.
|  | Director, Global Innovation Strategy Center.
|  | Executive Director, Joint Warfare Analysis Center.
|  | Special Command Advisor, Information Assurance and Cyber Security.
|  | Director, Command, Control, Command Computer Systems.
|  | Director, Global Innovation Strategy Center.
|  | Director, Joint Exercises and Training, United States Strategic Command.
|  | Deputy Director, Plans and Policy, United States Strategic Command.
| United States Transportation Command | Director, Program Analysis and Financial Management.
|  | Executive Director, Oint Enabling Capabilities Command.
|  | Director, Acquisition.
|  | Deputy Director of Command, Control Communications, and Computer Systems.
|  | Executive Director.
|  | Deputy Director, Strategies and Policy, United States Transportation Command.
| Office of Joint Staff | Director, Joint Information Operations Warfare Center.
| United States Northern Command | Director, Programs and Resources.
|  | Domestic Policy Advisor.
|  | Deputy Commander, Joint Forces Headquarters—National Capital Region.
|  | Director, Programs and Resources, United States Northern Command.
|  | Director, Joint Exercises and Training, United States Northern Command.
|  | Director, Interagency Coordination, United States Northern Command.
DEPARTMENT OF THE ARMY | Office of the Secretary | Executive Director of the Army National Cemeteries Program.
| Office of the Under Secretary | Deputy Chief Management Officer.
|  | Deputy Director, Office of Business Transformation, Office of the Under Secretary of the Army.
|  | Deputy to the Deputy Under Secretary of the Army.
|  | Director, Business Transformation Directorate.
|  | Assistant to the Deputy Under Secretary of the Army/Director of Test and Evaluation.
| Office Deputy Under Secretary of Army (Operations Research) | Director, Test and Evaluation Office.
| Office Administrative Assistant to the Secretary of Army | Administrative Assistant to the Secretary of the Army. Deputy Administrative Assistant to the Secretary of the Army/Director for Shared Services.
|  | Director, United States Army Center of Military History/Chief of Military History.
|  | Executive Director United States Army Information Technology Agency.
|  | Executive Director, United States Army Headquarters Services.
| Office Assistant Secretary Army (Civil Works) | Deputy Assistant Secretary of the Army (Management and Budget).
| Office Assistant Secretary Army (Financial Management and Comptroller) | Director of Investment. Director of Management and Control.
|  | Deputy Assistant Secretary of the Army (Financial Operations).
|  | Deputy Assistant Secretary of the Army (Cost and Economics).
|  | Director, Programs and Strategy.
|  | Deputy Director and Senior Advisor for Army Budget (Deputy Assistant of the Army (Budget)).
|  | Director, Financial Information Management.
|  | Director for Accountability and Audit Readiness.
|  | Director, Military Personnel and Facilities.
| Office Assistant Secretary Army (Installations, Energy and Environment) | Deputy Assistant Secretary of the Army (Infrastructure Analysis and Evaluation).
|  | Deputy Assistant Secretary of the Army (Environment, Safety and Occupational Health).
| Office Assistant Secretary Army (Manpower and Reserve Affairs) | Deputy Assistant Secretary of the Army (Military Personnel/Quality of Life).
|  | Deputy Assistant Secretary of the Army (Civilian Personnel)/Director Civilian Senior Leader Management Office).
|  | Deputy Assistant Secretary of Army for Marketing/Director, Army Marketing Research Group.
|  | Deputy Assistant Secretary of the Army (Diversity and Leadership).
|  | Deputy Assistant Secretary of the Army (Army Review Boards Agency).
|  | Deputy Assistant Secretary of the Army (Plans and Resources).
| Office Assistant Secretary Army (Acquisition, Logistics and Technology) | Deputy Assistant Secretary of the Army for Defense Exports and Cooperation. Director, Systems of Systems Engineering.
|  | Deputy Assistant Secretary of the Army (Acquisition Policy and Logistics)/Assistant Secretary of the Army (Acquisition, Logistics and Technology).
|  | Executive Director for Acquisition Services, Assistant Secretary Army (Acquisition, Logistics and Technology).
|  | Director, System of System Engineering Integration.
|  | Director for Technology.
|  | Deputy Assistant Secretary for Research and Technology/Chief Scientist.
|  | Deputy Assistant Secretary of the Army (Policy and Procurement).
|  | Deputy Assistant Secretary of the Army for Plans, Programs and Resources.
|  | Director for Research and Laboratory Management.
|  | Director for Research and Technology.
| Army Acquisition Executive | Joint Program Executive Officer for Chemical and Biological Defense.
|  | Program Executive Office, Ground Combat Systems.
|  | Deputy Program Executive Officer, Ground Combat Systems.
|  | Deputy Program Executive Officer, Missiles and Space (Fires).
|  | Deputy Joint Program Executive Officer for Chemical and Biological Defense.
|  | Deputy Program Executive Officer (Simulation, Training and Instrumentation).
|  | Deputy Program Executive Officer, Enterprise Information Systems.
|  | Program Executive Officer Combat Support and Combat Service Support.
|  | Deputy Program Executive Officer, Combat Support and Combat Service Support.
|  | Program Executive Officer Simulation, Training and Instrumentation.
|  | Deputy Program Executive Officer for Soldier.
|  | Deputy Program Executive Officer, Ammunition.
|  | Deputy Program Executive Officer for Aviation.
|  | Program Executive Officer Enterprise, Information Systems.
|  | Deputy Program Executive Officer, Command Control and Communications Tactical.
|  | Program Executive Officer, Command Control and Communications (Tactical).
|  | Program Executive Officer—Ammunition.
|  | Chief Science and Technology Advisor.
|  | Program Executive Officer, Intelligence, Electronic Warfare and Sensors.
|  | Program Executive Officer, Assembled Chemical Weapons Alternative.
| Office of the Inspector General | Principal Director to the Inspector General (Inspections).
| Office of Chief Information Officer/G-6 | Principal Deputy, Chief Information Officer/G-6 for Enterprise Integration.
|  | Director, Cybersecurity.
|  | Director, Governance, Acquisition/Chief Knowledge Officer.
|  | Director for Army Architecture Integration Cell.
|  | Deputy Chief Information Officer/G-6.
| Office, Chief of Public Affairs | Principal Deputy Chief of Public Affairs.
| Army Audit Agency | Auditor General, United States Army.
|  | Deputy Auditor General, Installation, Energy and Environment Audits.
|  | Deputy Auditor General, Financial Management Audits.
|  | Deputy Auditor General, Manpower and Training Audits.
|  | Deputy Auditor General, Acquisition and Logistics Audits.
|  | Principal Deputy Auditor General.
| United States Army Test and Evaluation Command | Executive Director—White Sands. Executive Director, Operational Test Command.
|  | Director, Army Evaluation Center.
|  | Director, Ballistic Missile Evaluation Directorate, Army Evaluation Center.
| Office, Chief Army Reserve | Director Human Capital (Office, Chief Army Reserve).
|  | Assistant Chief of the Army Reserve.
|  | Chief Executive Officer.
|  | Director of Resource Management and Material.
| Office, Assistant Chief of Staff for Installation Management | Director, Installation Services. Deputy Assistant Chief of Staff for Installation Management.
|  | Director of Resource Integration.
| United States Army Installation Management Command | Director of Facilities and Logistics. Regional Director (Central). Regional Director (Pacific). Regional Director (Europe).
|  | Executive Director/Director of Services.
|  | Director, Human Resources.
|  | Director, Family, Morale, Welfare and Recreation Programs, G-9.
|  | Regional Director (Atlantic).
| Office of Deputy Chief of Staff, G-4 | Director, Logistics Innovation Agency.
|  | Director, Logistics Information Management.
|  | Director of Resource Management.
|  | Director for Maintenance Policy, Programs and Processes.
|  | Assistant Deputy Chief of Staff, G-4.
|  | Director for Supply Policy, Programs and Processes.
| Office of Deputy Chief of Staff, G-8 | Assistant Deputy Chief of Staff, G-8.
|  | Director, Resources/Deputy Director, Force Development.
| Office of Deputy Chief of Staff, G-3 | Director, Capabilities Integration Directorate.
|  | Deputy Director for Plans and Policy.
|  | Deputy Director of Training and Leader Development.
|  | Assistant Deputy Chief of Staff for Operations (G-3/5/7).
|  | Deputy Director for Force Management.
| Office of Deputy Chief of Staff, G-1 | Director, Army Resiliency Directorate, ODCS, G-1.
|  | Director, Military Human Resources Integration.
|  | Assistant G-1 (Civilian Personnel Policy).
|  | Assistant Deputy Chief of Staff, G-1.
|  | Director, Plans and Resources.
|  | Director for Manprint Directorate.
|  | Director, Sexual Harassment/Assault Response and Prevention.
| Army Research Institute (Deputy Chief of Staff for Personnel, Field Operating Agency) | Director, United States Army Research Institute and Chief Psychologist.
| Office of the Surgeon General | Chief of Staff. Deputy Chief of Staff/Assistant Surgeon General, Force Management.
| United States Army Medical Research and Materiel Command | Principal Assistant for Acquisition. Principal Assistant for Research and Technology.
| United States Army Medical Department Center and School | Deputy to the Commanding General.
| United States Army Space and Missile Defense Command | Deputy to the Commander and Senior Department of the Army Civilian for United States Army Space and Missile Defense Command/Army Forces Strategic Command.
|  | Director, Future Warfare Center.
|  | Director, Space and Cyber space Technology Director.
|  | Chief Technology Officer.
|  | Director, Emerging Technology.
|  | Director, Capability Dev Integration Directorate, Space and Missile Defense Command.
|  | Director, Space and Missile Defense Technical Center.
|  | Director, Space and Missile Defense Battle Laboratory.
| U.S. Army Training and Doctrine Command (TRADOC) | Deputy to the Commanding General, Combined Arms Support Command.
|  | Deputy Chief of Staff G-8, Training and Doctrine Command.
|  | Deputy Chief of Staff G-1/4 (Personnel and Logistics).
|  | Deputy to the Commanding General Fires/Director, Capabilities, Development and Integration.
|  | Deputy to the Commanding General, Signal Center of Excellence.
|  | Deputy to the Commanding General/Director, Capabilities Development and Integration.
|  | Deputy to the Commanding General Maneuver Support/Director, Capabilities Development and Integration.
|  | Deputy to the Commanding General, Combined Arms Center.
|  | Deputy G-3/5 for Operations and Plans, Training and Doctrine Command.
|  | Director, Capability Development Integration Directorate (CDID).
|  | President, Army Logistics University.
|  | Director, Concepts to Capabilities and Deputy Force 2025 Integration, Army Capabilities Integration Center.
|  | Deputy to the Commanding General Army Aviation Center of Excellence/Director, Capabilities Development and Integration.
|  | Assistant Deputy Chief of Staff, G-3/5/7, Training and Doctrine Command/Deputy G-3 for Training.
|  | Deputy Chief of Staff, G6 (Training and Doctrine Command).
| Training and Doctrine Command Analysis Center | Director of Operations (2). Director.
| Military Surface Deployment Distribution Command | Director, Transportation Engineering Agency/Director Joint Distribution Process Analysis Center.
|  | Deputy to the Commander, Surface Deployment and Distribution Command.
| United States Army Forces Command | Assistant Deputy Chief of Staff, G-6.
|  | Assistant Deputy Chief of Staff G-3/5/7.
|  | Assistant Deputy Chief of Staff for Logistics and Readiness.
|  | Deputy Chief of Staff for Resource Management.
|  | Assistant Deputy Chief of Staff, G-1.
| United States Army Network Enterprise Technology Command/9th Army Signal Command | Deputy to Commander/Senior Technical Director/Chief Engineer. Deputy for Cyber Operations/Director of Operations.
| United States Army Corps of Engineers | Director, Information Technology Laboratory.
|  | Chief Military Programs Integration Division.
|  | Director, Research and Development and Director, Engineering Research and Development Center.
|  | Director of Contracting.
|  | Director for Corporate Information.
|  | Director of Human Resources.
|  | Director, Real Estate.
|  | Director of Resource Management.
|  | Director Contingency Operations/Chief, Homeland Security Office.
| Directorate of Research and Development | Deputy Director of Research and Development.
| Directorate of Civil Works | Chief, Programs Management Division.
|  | Director of Civil Works.
|  | Chief, Planning and Policy Division/Community of Practice.
|  | Chief, Operations Division and Regulatory Community of Practice.
|  | Chief, Engineering and Construction Division.
| Directorate of Military Programs | Chief, Installation Support Division.
|  | Chief, Interagency and International Services Division.
|  | Director of Military Programs.
|  | Chief, Environmental Community of Practice.
| Office of Directors of Programs Management | Division Programs Director, Trans-Atlantic Division. Division Programs Director (South Pacific Division).
|  | Division Programs Director (Northwestern Division).
|  | Division Programs Director (Great Lake and Ohio River Division).
|  | Division Programs Director (North Atlantic Division).
|  | Division Programs Director (Pacific Ocean Division).
|  | Division Programs Director.
|  | Division Programs Director (South Atlantic Division).
|  | Division Programs Director (Southwestern Division).
| Office of Directors of Engineering and Technical Services | Regional Business Director (North Atlantic Division). Regional Business Director (Great Lakes, Ohio River Division).
|  | Regional Business Director (Mississippi Valley Division).
|  | Regional Business Director (Pacific Ocean Division).
|  | Regional Business Director (South Atlantic Division).
|  | Regional Business Director (South Pacific Division).
|  | Regional Business Director (Southwestern Division).
|  | Regional Business Director (Northwestern Division).
| Engineer Research and Development Center | Director, Environmental Laboratory. Deputy Director, Engineer Research and Development Center.
|  | Director, Coastal and Hydraulics Laboratory.
|  | Director, Geotechnical and Structures Laboratory.
| Engineer Topographic Laboratories, Center of Engineers | Director, Army Geospatial Center.
| Construction Engineering Research Laboratory Champaign, Illinois | Director, Construction Engineering Research Laboratories.
| Cold Regions Research and Engineering Laboratory Hanover, New Hampshire | Director, Cold Regions Research and Engineering Laboratory.
| United States Army Materiel Command | Chief Technology Officer. Deputy Chief of Staff for Logistics, G-4.
|  | Deputy Chief of Staff for Corporate Information/Chief Information Officer.
|  | Deputy G-3/4 for Current Operations.
|  | Assistant Deputy Chief of Staff, G-3/4 for Logistics Integration.
| Office of Deputy Chief of Staff for Logistics and Operations | Deputy G-3/4 for Strategy and Integration.
| Office Deputy Commanding General | Executive Deputy to the Commanding General.
| Office of Deputy Chief of Staff for Personnel | Deputy Chief of Staff for Personnel.
| Office of the Deputy Chief of Staff for Resource Management | Assistant Deputy Chief of Staff for Resource Management, G-8/Executive Director for Business.
|  | Deputy Chief of Staff for Resource Management.
| United States Army Contracting Command | Executive Director Army Contracting Command, Redstone, Alabama.
|  | Executive Director, Army Contracting Command, Warren.
|  | Executive Director, Army Contracting Command, National Capital Region.
|  | Executive Director, Army Contracting Command, Aberdeen.
|  | Deputy to the Commander, Mission Installation Contracting Command.
|  | Deputy to the Commander, United States Army Expeditionary Contracting Command.
|  | Deputy to the Commanding General, Army Contracting Command.
|  | Executive Director Army Contracting Command, Rock Island.
| United States Army Security Assistance Command | Deputy to the Commanding General.
| United States Army Sustainment Command | Executive Director for Field Support. Executive Director for Logistics Civil Augmentation Program.
|  | Deputy to the Commander.
| Natick Soldier Center | Director, Natick Soldier Research and Development Engineering Center.
| United States Army Communications Election Command (Communications Election Command) | Deputy to the Commanding General/Director Logistics and Readiness Center. Director, Software Engineering Directorate.
|  | Director, Communications-Electronics Life Cycle Management Command Logistics and Readiness Center.
| Communications Electronics Command Research, Development and Engineering Center | Director, Command Power and Integration Directorate. Director, Space and Terrestrial Committee Directorate. Director, Intelligence and Information Warfare Directorate.
|  | Director, Night Vision/Electromagnetics Sensors Directorate.
|  | Director, Communications-Electronics Research, Development and Engineering Center.
| United States Army Research Laboratory | Director United States Army Research Laboratory.
| Office of Survivability/Lethality Analysis Directorate (Army Research Laboratory) | Director, Survivability/Lethality Analysis Directorate.
| Army Research Office | Director, Army Research Office.
| Office of Sensors and Electron Devices Directorate (Army Research Laboratory) | Director, Sensors and Electron Devices Directorate.
| Weapons and Material Research Directorate (Army Research Laboratory) | Director, Weapons and Materials Research Directorate.
| Human Research and Engineering Directorate (Army Research Laboratory) | Director, Human Dimension Simulations and Training Directorate. Director, Computational and Information Sciences Directorate.
| United States Army Aviation and Missile Command (Army Materiel Command) | Director for Test Measurement Diagnostic Equipment Activity. Director for Engineering.
|  | Army Aviation and Missile Command Director, Special Programs (Aviation).
|  | Executive Director, Aviation and Missile Command Logistics Center.
|  | Deputy to the Commander.
| Aviation and Missile Research Development and Engineering Center (Research Development and Engineering Center) | Director for Aviation Development. Director for Systems Simulation, Software, and Integration. Director for Aviation and Missile Research, Development and Engineering Center.
| Aviation Engineering Directorate | Director for Weapons Development and Integration.
|  | Director of Aviation Engineering.
| Research, Development and Engineering Command | Deputy Director, Research, Development and Engineering Command. Director, Research Development and Engineering Command.
| United States Army Edgewood Chemical Biological Center | Director, Edgewood Chemical Biological Center. Director for Programs Integration. Director, Research and Technology Directorate.
|  | Director, Engineering Directorate.
| Tank-Automotive and Armaments Command (Tank-Automotive and Armaments Command) | Deputy to the Commander. Director, Integrated Logistics Support Center.
| Tank-Automotive Research Development and Engineering Center | Director, Tank-Automotive Research Development and Engineering Center. Executive Director for Engineering.
|  | Director, Research Technology Development and Integration.
|  | Executive Director for Product Development.
| United States Army Armament Research, Development and Engineering Center | Director for Armament Research, Development and Engineering. Executive Director, Enterprise and Systems Integration Center.
|  | Executive Director, Munitions Engineering Technology Center, Armament Research, Development and Engineering Center.
|  | Executive Director, Weapons and Software Engineer Center.
| United States Army Joint Munitions Command | Deputy to the Commander, Joint Munitions Command. Executive Director for Ammunition.
| United States Army Materiel Systems Analysis Activity | Technical Director. Director, Army Materiel Systems Analysis Activity.
| Headquarters, United States Army, Europe | Deputy Chief of Staff G-8. Deputy Chief of Staff, G-1.
|  | Director, European Security and Defense Policy Defense Advisor to United States Mission (Europe).
| United States Army Special Operations Command | Deputy to the Commanding General.
| United States Army Military District of Washington | Superintendent, Arlington National Cemetery.
| United States Southern Command | Deputy Director, Strategy and Policy.
|  | Director, J-8 (Resources and Assessments Directorate).
|  | Deputy Director of Operations, J-3.
|  | Director for Partnering.
| United States European Command | Director, Interagency Partnering, (J-9).
| United States Africa Command | Deputy Director of Resources (J-1/J-8).
|  | Director of Resources (J-1/J-8), United States Africa Command.
|  | Deputy Director of Program, (J-5), United States Africa Command.
|  | Foreign Policy Advisor for United States Africa Command.
| Joint Special Operations Command | Executive Director for Resources, Support, and Integration.
| United States Army Cyber Command/Second Army | Deputy to Commander, Army Cyber Command/2nd Army.
| United States Army Command, North | Deputy to the Commanding General, Army North.
| Headquarters, United States Army, Pacific | Strategic Effects Director to Commander, United States Army Pacific. Assistant Chief of Staff, G-8.
| United States Forces, Korea | Director for Forces, Resources and Assessments (J-8).
|  | Deputy Director for Transformation and Re-stationing.
| Joint Improvised Explosive Device Defeat Organization | Chief Information Officer. Director, Counter Improvised Explosive Device Operational Integration Center.
|  | Vice Director, Joint Improvised Explosive Device Defeat Organization.
|  | Deputy Director, Rapid Capability Delivery.
DEPARTMENT OF THE NAVY | Office of the Secretary | Deputy Assistant for Administration.
|  | Assistant for Administration.
|  | Director, Sexual Assault Prevention and Response.
|  | Director, Operations Directorate.
| Office of the Under Secretary of the Navy | Senior Director (Policy and Strategy). Senior Director (Capabilities and Concepts).
|  | Senior Director for Policy.
|  | Principal Director to the Under Secretary of the Navy for Plans, Policy, Oversight and Integration.
|  | Principal Deputy Under Secretary of the Navy Business Operations and Transformation).
|  | Senior Director for Security.
|  | Director, Small Business Programs.
|  | Director, Operations Integration Group.
|  | Chief Information Officer.
|  | Senior Director (Policy and Strategy).
|  | Principal Director Deputy Under Secretary of the Navy (Policy).
|  | Deputy of Business Operations/Office of Business Transformation.
| Office of the Naval Inspector General | Deputy Naval Inspector General.
| Office of the Auditor General | Auditor General of the Navy.
|  | Assistant Auditor General for Installation and Environment Audits.
|  | Assistant Auditor General for Manpower and Reserve Affairs Audits.
|  | Deputy Auditor General of the Navy.
|  | Assistant Auditor General for Financial Management and Comptroller Audits.
|  | Assistant Auditor General for Research, Development, Acquisition and Logistics Audits.
| Office of the Assistant Secretary of Navy (Manpower and Reserve Affairs) | Director, Human Resources Policy and Programs Department. Principal Deputy, Manpower and Reserve Affairs.
|  | Deputy Assistant Secretary of the Navy (Reserve Affairs and Total Force Integration).
|  | Assistant General Counsel (Manpower and Reserve Affairs).
|  | Deputy Assistant Secretary of the Navy (Civilian Human Resources).
| Office of Civilian Human Resources | Director, Human Resources Systems and Analytics.
|  | Director, Human Resources Operations.
| Office Assistant Secretary of Navy (Energy, Installations and Environment) | Deputy Assistant Secretary of the Navy for Infrastructure, Strategy and Analysis. Assistant General Counsel (Energy, Installations and Environment).
|  | Director, Joint Guam Program Office.
| Office Assistant Secretary of the Navy (Research, Development and Acquisition) | Assistant General Counsel (Research, Development and Acquisition). Director, Program Analysis and Business Transformation.
|  | Deputy Assistant Secretary of the Navy (Management and Budget).
|  | Executive Director, Navy International Programs Office.
|  | Principal Civilian Deputy Assistant Secretary of the Navy (Acquisition Workforce).
|  | Chief of Staff/Policy.
|  | Director, Ohio Replacement Program Office.
|  | Executive Director, F-35, Joint Program Office.
|  | Deputy Assistant Secretary of the Navy (Command, Control, Communications, Computers and Intelligence) Space).
|  | Deputy for Test and Evaluation.
|  | Program Executive Officer for Defense Healthcare Management Systems.
|  | Assistant Auditor General of the Navy for Research Development and Acquisition.
|  | Special Assistant to Assistant Secretary of the Navy (Research, Development and Acquisition).
|  | Deputy Assistant Secretary of the Navy (Ships).
| Office of Program Executive Officers | Director for Integrated Combat Systems for Integrated Warfare Systems.
|  | Deputy Program Executive Officer for Unmanned Aviation Programs.
|  | Director for Above Water Sensors Directorate.
|  | Executive Director, Combatants, Program Executive Officers Ships.
|  | Executive Director, Program Executive Officers for Aircraft Carriers.
|  | Deputy Program Executive Officers for Strike Weapons.
|  | Deputy Program Executive Officers for Tactical Air Programs.
|  | Executive Director, Program Executive Officers for Integrated Warfare Systems.
|  | Executive Director, Amphibious, Auxiliary and Sealift Ships, Program Executive Officers Ships.
|  | Executive Director, Program Executive Office Submarines.
|  | Deputy Program Executive, Officers Air Assault and Special Mission.
|  | Program Executive Officer (Enterprise Information Systems).
|  | Executive Director, Program Executive Office, Littoral Combat Ships.
|  | Executive Director, Program Executive Office for Space Systems.
|  | Executive Director for Command, Control, Communications, Computers and Intelligence (C4I).
|  | Program Executive Officer, Land Systems.
| Strategic Systems Programs | Branch Head Re-entry Systems Branch.
|  | Counsel, Strategic Systems Programs.
|  | Assistant for Missile Production, Assembly and Operations.
|  | Chief Engineer.
|  | Director, Plans and Programs Division.
|  | Assistant for Systems Integration and Compatibility.
|  | Director, Integrated Nuclear Weapons Safety and Security/Director Strategic Systems Programs.
|  | Assistant for Missile Engineering Systems.
|  | Head, Resources Branch (Comptroller) and Deputy Director, Plans and Program Division.
|  | Technical Plans and Payloads Integration Officer.
|  | Assistant for Shipboard Systems.
| Office of the Assistant Secretary of Navy (Financial Management and Comptroller) | Deputy Assistant Secretary of the Navy (Financial Policy and Systems). Special Assistant (2).
|  | Principal Deputy Assistant Secretary of the Navy Financial Management and Comptroller (2).
|  | Deputy Director, Financial Operations.
|  | Deputy Assistant Secretary of the Navy for Cost and Economics.
|  | Deputy Assistant Secretary of the Navy for Financial Operations.
|  | Director, Budget and Policy and Procedures Division.
|  | Director, Investment and Development Division.
|  | Assistant General Counsel (Financial Management and Comptroller).
|  | Associate Director, Office of Budget/Fiscal Management Division.
|  | Director, Civilian Resources and Business Affairs Division.
| Office of the General Counsel | Assistant General Counsel (Acquisition Integrity).
|  | Assistant General Counsel (Intelligence Law).
|  | Counsel, Military Sealift Command.
|  | Special Counsel for Litigation.
| Naval Criminal Investigative Service | Criminal Investigator, Executive Assistant Director for Criminal Operations.
|  | Criminal Investigator, Executive Assistant Director for Atlantic Operations.
|  | Criminal Investigator, Director, Naval Criminal Investigative Service.
|  | Criminal Investigator, Deputy Director, Naval Criminal Investigative Service.
|  | Criminal Investigator, Executive Assistant Director for Management and Administration.
|  | Criminal Investigator, Executive Assistant Director for Global Operations.
|  | Criminal Investigator, Executive Assistant Director for Pacific Operations.
| Office of Chief of Naval Operations | Deputy Director, Unmanned Warfare.
|  | Deputy Director, Expeditionary Warfare Division.
|  | Assistant Deputy Chief of Naval Operations (Manpower, Personnel, Training and Education).
|  | Deputy Director Energy and Environmental Readiness (N45b).
|  | Deputy Director, Undersea Warfare Division.
|  | Assistant Deputy Chief of Naval Operations, Fleet Readiness and Logistics.
|  | Director Naval History and Heritage Command.
|  | Deputy Director, Fleet Readiness Division.
|  | Head, Campaign Analysis Branch.
|  | Assistant Deputy Chief of Naval Operations (Logistics).
|  | Assistant Deputy Chief of Naval Operations (Resources, Warfare Requirements and Assessments) N8b.
|  | Financial Manager and Chief Resources Officer for Manpower, Personnel, Training and Education.
|  | Deputy Director Surface Warfare Division.
|  | Deputy Director, Air Warfare.
|  | Deputy Director, Program Division (N80b).
|  | Assistant Deputy Chief of Naval Operations, Warfare Systems.
|  | Director, Strategic Mobility and Combat Logistics Division.
|  | Director, Special Programs.
|  | Deputy Director, Afloat Readiness and Maintenance Division (N43).
|  | Deputy Director for Strategy and Policy.
|  | Director, Assessment and Compliance (N2/N6bc).
|  | Assistant Deputy Chief of Naval Operations for Information Dominance (N2/N6).
| Office of Commander, Navy Installations Command | Deputy Commander. Director of Operations.
|  | Director, Strategy and Future Requirements.
|  | Comptroller.
|  | Deputy Regional Commander (Southeast).
|  | Counsel, Commander Navy Installations Command.
|  | Deputy Regional Commander (Mid-Atlantic).
|  | Director, Total Force Manpower.
| Bureau of Medicine and Surgery | Deputy Chief, Total Force.
|  | Executive Director, Bureau of Medicine and Surgery.
|  | Deputy Chief, Resource Management/Comptroller.
| Military Sealift Command | Counsel, Military Sealift Command.
|  | Comptroller.
|  | Director, Military Sealift Command Manpower and Personnel.
|  | Director, Contractor Operated Ships.
|  | Director, Government Operations and Special Mission Ships.
|  | Executive Director.
| Naval Meteorology and Oceanography Communications, Stennis Space Center, Mississippi | Technical/Deputy Director.
| Office of Commander, United States Fleet Forces Command/Joint Forces Command | Chief of Staff. Deputy Director, Force Certification. Deputy Chief of Staff, Personnel Development and Allocation.
|  | Executive Director, Navy Warfare Development Command.
|  | Deputy Chief of Staff, Fleet Installation and Environment.
|  | Executive Director, Fleet Resources and Readiness Integration.
|  | Assistant Deputy Chief of Staff, Fleet Policy and Capabilities Requirements.
|  | Deputy for Naval Air and Missile Defense Command.
|  | Director, Command, Control, Communications, Computer, Combat Systems, Intelligence and Strategic/Command Information Officer.
| Office of the Commander, Submarine Forces | Executive Director, Submarine Forces.
| Office of the Navy Cyber Forces | Deputy Commander.
| Office of the Commander, United States Pacific Command | Director for Forces Resources and Management. Chief Information Officer.
|  | Director, Pacific Outreach Directorate.
| Office of the Commander, United States Pacific Fleet | Executive Director, Total Force Management. Executive Director, Pacific Fleet Plans and Policy.
|  | Executive Director, Naval Air Forces.
|  | Executive Director for Communications and Information Systems and Chief Information Officer.
|  | Deputy Chief of Staff for C-4/Chief Information Officer.
|  | Executive Director, Naval Surface Forces.
|  | Executive Director, Naval Air Forces.
|  | Deputy for Naval Mine and Anti-Submarine Warfare Command.
|  | Chief of Staff.
| Naval Air Systems Command Headquarters | Director, Aviation Readiness and Resource Analysis. F-35 Product Support Manager.
|  | Counsel, Naval Air Systems Command.
|  | Director of Contracts, F-35 Joint Strike Fighter.
|  | Director, Cost Estimating and Analysis.
|  | Assistant Commander, Corporate Operations and Total Force.
|  | Deputy Assistant Commander for Logistics and Industrial Operations.
|  | Deputy Commander, Naval Air Systems Command.
|  | Deputy Assistant Commander for Research and Engineering.
|  | Assistant Commander for Acquisition Processes and Execution.
|  | Director, Tactical Aircraft and Missiles Contracts Department.
|  | Director, Logistics Management Integration.
|  | Director, Air Vehicles and Unmanned Air Vehicles.
|  | Director, Avionics Department.
|  | Director, Systems Engineering Department.
|  | Comptroller.
|  | Assistant Commander for Contracts.
|  | Director of Logistics and Sustainment/F-35 Joint Strike Fighter.
|  | Director, Air Platform Systems.
|  | Director, Industrial Operations.
|  | Director, Strike Weapons, Unmanned Aviation, Naval Air Programs Contracts Department.
|  | Director, Aviation Readiness and Resource Analysis.
|  | Director, Design Interface and Maintenance Planning.
|  | Director, Propulsion and Power.
|  | Deputy Counsel, Office of Counsel.
|  | Director, Air Anti-Submarine Warfare, Assault and Special Mission Programs Contracts Department.
| Naval Air Warfare Center Aircraft Division | Director, Flight Test Engineering. Director, Battlespace Simulation.
|  | Deputy Assistant Commander for Test and Evaluation/Executive Director Naval Air Warfare Center Aircraft Division/Director, Test and Evaluation.
|  | Director, Aircraft Launch and Recovery Equipment/Support Equipment.
|  | Director, Integrated Systems Evaluation Experimentation and Test Department.
| Naval Air Warfare Center Weapons Division, China Lake, California | Director, Software Engineering. Director, Range Department.
|  | Director, Electronic Warfare/Combat Systems.
|  | Director, Weapons and Energetics Department.
|  | Executive Director, Naval Air Warfare Center Weapons Division/Director, Research Engineering.
| Naval Air Warfare Center Training Systems Division | Director, Human Systems Department.
| Space and Naval Warfare Systems Command | Assistant Chief Engineer for Mission Engineering. Assistant Chief Engineer for Certification and Mission Assurance.
|  | Director, Readiness/Logistics Directorate.
|  | Comptroller, Business Resources Manager.
|  | Director, Contracts.
|  | Counsel, Space and Naval Warfare Systems Command.
|  | Deputy Chief Engineer.
|  | Assistant Chief Engineer for Mission Architecture and Systems Engineering.
|  | Director, Corporate Operations/Command Information Officer.
|  | Executive Director, Fleet Readiness Directorate.
|  | Executive Director.
|  | Chief Management Officer.
| Space and Naval Warfare Systems Center | Counsel, Space and Naval Warfare Systems Command.
|  | Director, Science and Technology.
|  | Executive Director.
|  | Comptroller/Business Resource Manager.
| Space and Naval Warfare Systems Center, Charleston | Executive Director.
| Naval Facilities Engineering Command | Director of Public Works. Counsel, Naval Facilities Engineering Command.
|  | Director of Asset Management.
|  | Assistant Commander/Chief Management Officer.
|  | Deputy Commander, Acquisition.
|  | Executive Director.
|  | Comptroller (2).
|  | Director of Environment.
|  | Chief Engineer.
| Naval Sea Systems Command | Executive Director for Commander, Navy Regional Maintenance Centers (CNRMC).
|  | Division Technical Director, Naval Surface Warfare Center, Philadelphia Division.
|  | Deputy Director, Advanced Aircraft Carrier System Division.
|  | Director, Fleet Readiness Division.
|  | Director, Surface Systems Contracts Division.
|  | Executive Director, Acquisition and Commonality.
|  | Division Technical Director, Naval Surface Warfare Center Port Hueneme Division.
|  | Director, Integrated Warfare Systems Engineering Group.
|  | Nuclear Engineering and Planning Manager.
|  | Executive Director Naval Surface and Undersea Warfare Centers.
|  | Director for Ship Integrity and Performance Engineering.
|  | Director for Marine Engineering.
|  | Director of Radiological Controls.
|  | Assistant Deputy Commander, Maintenance, Modernization, Environment and Safety.
|  | Director for Advanced Undersea Integration.
|  | Deputy Commander/Comptroller.
|  | Director, Reactor Refueling Division.
|  | Director, Office of Resource Management.
|  | Program Manager for Commissioned Submarines.
|  | Director for Submarine/Submersible Design and Systems Engineering.
|  | Director, Reactor Safety and Analysis Division.
|  | Director, Surface Ship Systems Division.
|  | Director, Reactor Plant Components and Auxiliary Equipment Division.
|  | Executive Director, Undersea Warfare Directorate.
|  | Executive Director for Logistics Maintenance and Industrial Operations Directorate.
|  | Deputy Commander, Corporate Operations Directorate.
|  | Deputy for Weapons Safety.
|  | Assistant Deputy Commander for Industrial Operations.
|  | Director, Shipbuilding Contracts Division.
|  | Director, Cost Engineering and Industrial Analysis.
|  | Director for Surface Ship Design and Systems Engineering.
|  | Director, Reactor Materials Division.
|  | Director for Contracts.
|  | Counsel, Naval Sea Systems Command.
|  | Executive Director, Surface Warfare Directorate.
|  | Executive Director.
|  | Director, Nuclear Components Division.
|  | Director, Undersea Systems Contracts Division.
|  | Head, Advanced Reactor Branch.
|  | Deputy Director for Advanced Submarine Reactor Servicing and Spent Fuel Management.
|  | Director for Aircraft Carrier Design and Systems Engineering.
|  | Executive Director, Ship Design, and Engineering Directorate.
|  | Deputy Counsel, Naval Sea Systems Command.
| Naval Shipyards | Nuclear Engineering and Planning Manage, Portsmouth Naval Shipyard.
|  | Naval Shipyard Nuclear Engineering and Planning Manager, Norfolk Naval Shipyard.
|  | Nuclear Engineering and Planning Manager, Pearl Harbor Naval Shipyard.
|  | Nuclear Engineering and Planning Manager, Puget Sound Naval Shipyard.
| Naval Surface Warfare Center | Division Technical Director, Naval Surface Warfare Center, Dahlgren Division (2).
| Naval Undersea Warfare Center | Technical Director.
| Naval Surface Warfare Center, Crane Division | Division Technical Director, Naval Surface Warfare Center, Crane, Indiana.
| Naval Undersea Warfare Center Division, Keyport, Washington | Division Technical Director, Naval Undersea Warfare Center, Keyport Division (2).
| Naval Surface Warfare Center, Corona Division | Division Technical Director, Naval Surface Warfare Center, Corona Division.
| Naval Surface Warfare Center, Indian Head Division | Division Technical Director, Naval Surface Warfare Center Indian Head Explosive Ordinance Disposal Technology Division.
| Naval Surface Warfare Center, Carderock Division | Division Technical Director, Naval Surface Warfare Center, Carderock Division.
| Naval Surface Warfare Center, Dahlgren Division | Division Technical Director Naval Surface Warfare Center, Panama City Division.
| Naval Undersea Warfare Center Division, Newport, Rhode Island | Division Technical Director, Naval Undersea Warfare Center, Newport Division (2).
| Naval Supply Systems Command Headquarters | Assistant Commander for Financial Management/Comptroller.
|  | Counsel, Naval Supply Systems Command.
|  | Deputy Commander, Acquisition, Naval Supply Systems Command.
|  | Vice Commander.
|  | Senior Acquisition Logistician/Enterprise Resource Planning Program Manager.
|  | Executive Director, Office of Special Projects.
|  | Deputy Commander, Corporate Operations.
| Fleet and Industrial Supply Centers | Vice Commander, Global Logistics Support.
| Office of Weapon Systems Support | Vice Commander, Navy Weapon Systems Support.
| United States Marine Corps Headquarters Office | Counsel for the Commandant. Assistant Deputy Commandant, Installations and Logistics (E-Business and Contracts).
|  | Director, Manpower Plans and Policy Division.
|  | Deputy Assistant Deputy Commandant, Installations and Logistics (Facilities).
|  | Director, Program Assessment and Evaluation Division.
|  | Assistant Deputy Commandant for Aviation (Sustainment).
|  | Assistant Deputy Commandant for Manpower and Reserve Affairs.
|  | Assistant Deputy Commandant, Resources.
|  | Director Program Analysis and Evaluation Division.
|  | Director Office of Marine Corps Communication.
|  | Assistant Deputy Commandant for Plans Policies and Operations (Security).
|  | Deputy Counsel for the Commandant of the Marine Corps.
|  | Assistant Deputy Commandant for Programs and Resources.
|  | Assistant Deputy Commandant, Installations and Logistics.
|  | Assistant Deputy Commandant, Resources and Fiscal Director, Marine Corps.
| Marine Corps Systems Command | Deputy Commander for Resource Management.
|  | Executive Director.
|  | Chief Engineer, Marine Corps Systems Command.
| Marine Corps Combat Development Command; Quantico, Virginia | Executive Deputy, Training and Education Command.
| Marine Corps Logistics Command Albany, Georgia | Executive Deputy, Marine Corps Logistics Command.
| Office of Naval Research | Director, Life Sciences Research Division.
|  | Director, Ship Systems and Engineering Division.
|  | Director for Aerospace Science Research Division.
|  | Director, Mathematical, Computer, and Information Sciences Division.
|  | Director, Ocean, Atmosphere and Space Science, Technology Processes and Prediction Division.
|  | Director, Undersea Weapons, Naval Materials Science and Technology Division.
|  | Director of Innovation.
|  | Head, Expeditionary Warfare and Combating Terrorism Science and Technology Department.
|  | Patent Counsel of the Navy.
|  | Counsel, Office of Naval Research.
|  | Executive Director.
|  | Head, Warfighter Performance Science and Technology Department.
|  | Head, Command, Control, Communications, Intelligence, Surveillance, and Reconnaissance (C4isr) Science and Technology Department.
|  | Head, Ocean, Battlespace Sensing Science and Technology Department.
|  | Director of Transition.
|  | Head, Sea Warfare and Weapons Science and Technology Department.
|  | Executive Director for Acquisition Management.
|  | Comptroller.
|  | Director, Hybrid Complex Warfare Science and Technology Division.
|  | Head, Air Warfare and Weapons Science and Technology Department.
|  | Head, Command, Control, Communications, Intelligence, Surveillance, and Reconnaissance (C4isr) Science and Technology Department.
|  | Director, Mathematics Computer and Information Sciences (MCIS) Division.
|  | Director, Electronics, Sensors, and Networks Research Division.
| Naval Research Laboratory | Superintendent, Marine Geosciences Division.
|  | Superintendent, Oceanography Division.
|  | Superintendent, Spacecraft Engineering Department.
|  | Superintendent, Center for Bio-Molecular Science and Engineering.
|  | Superintendent, Space Sciences Division.
|  | Superintendent, Radar Division.
|  | Superintendent, Plasma Physics Division.
|  | Superintendent, Electronics Science and Technology Division.
|  | Superintendent, Remote Sensing Division.
|  | Superintendent, Marine Meteorology Division.
|  | Director of Research.
|  | Associate Director of Research for Material Science and Component Technology.
|  | Superintendent, Tactical Electronic Warfare Division.
|  | Associate Director of Research for Business Operations.
|  | Associate Director of Research for Ocean and Atmospheric Science and Technology.
|  | Associate Director of Research for Systems.
|  | Superintendent, Space Systems Development Department.
|  | Director, Naval Center for Space Technology.
|  | Superintendent, Acoustics Division.
|  | Superintendent, Information Technology Division.
|  | Superintendent, Material Science and Technology Division.
|  | Superintendent, Marine Meteorology Division.
|  | Superintendent, Optical Sciences Division.
OFFICE OF THE SECRETARY OF DEFENSE, OFFICE OF THE INSPECTOR GENERAL | Office of the General Counsel Office of Communications and Congressional Liaison | General Counsel. Assistant Inspector General, Office of Communications and Congressional Liaison.
| Office of the Inspector General | Principal Deputy Inspector General.
|  | Deputy Inspector General for Overseas Contingency Operations.
| Office of the Deputy Inspector General for Auditing | Deputy Inspector General for Auditing.
| Office of the Principal Deputy Inspector General for Auditing | Principal Assistant Inspector General for Auditing.
| Office of the Acquisition and Contract Management | Assistant Inspector General for Acquisition and Contract Management.
| Department of Defense Payments and Accounting Operations | Assistant Inspector General for Contract Management and Payments.
| Financial Management and Reporting | Assistant Inspector General for Financial Management and Reporting (2).
| Readiness, Operations and Support | Assistant Inspector General for Readiness and Cyber Operations.
| Deputy Inspector General for Investigations | Deputy Inspector General for Investigations. Deputy Director Defense Criminal Investigative Service.
| Defense Criminal Investigative Service | Assistant Inspector General for Investigations (2).
|  | Assistant Inspector General for International Operations.
| Office of the Deputy Inspector General for Policy and Oversight | Deputy Inspector General for Policy and Oversight.
| Office of Audit Policy and Oversight | Assistant Inspector General for Audit Policy and Oversight.
| Office of Investigative Policy and Oversight | Assistant Inspector General for Investigative Policy and Oversight.
| Office of the Deputy Inspector General for Intelligence and Special Program Assessments | Deputy Inspector General for Intelligence and Special Program Assessments (2).
| Office of Administration and Management | Assistant Inspector General for Administration and Management.
| Office of the Deputy Inspector General for Special Plans and Operations | Deputy Inspector General for Special Plans and Operations.
| Office of the Deputy Inspector General for Administrative Investigations | Deputy Inspector General, Administrative Investigations.
DEFENSE NUCLEAR FACILITIES SAFETY BOARD | Defense Nuclear Facilities Safety Board | Group Lead for Nuclear Facility Design and Infrastructure. Group Lead for Performance Assurance.
|  | Deputy General Manager.
|  | Deputy General Counsel.
|  | Group Lead for Nuclear Materials Processing and Stabilization.
|  | Technical Director.
|  | Group Lead for Nuclear Weapon Programs.
|  | Group Lead for Nuclear Programs and Analysis.
|  | Deputy Technical Director.
DEPARTMENT OF EDUCATION | Office of the Chief Financial Officer | Director, Contracts and Acquisitions Management. Deputy Chief Financial Officer, Management and Operations.
|  | Deputy Chief Financial Officer.
|  | Director, Financial Improvement and Post Audit Operations.
| Office of the Chief Information Officer | Director, Information Assurance and Chief Information Security Officer.
|  | Chief Information Officer.
| Office of Management | Deputy Human Resources Director.
|  | Director, Human Capital and Client Services.
|  | Chairperson, Education Appeal Board.
|  | Director of Security, Facilities and Logistical Services.
|  | Director, Security Services.
| Office of the General Counsel | Assistant General Counsel for Educational Equity.
|  | Assistant General Counsel for Business and Administration Law.
|  | Assistant General Counsel for Postsecondary Education and Education Research Division.
| Office for Civil Rights | Enforcement Director (3).
|  | Deputy Assistant Secretary for Enforcement.
| Institute of Education Sciences | Associate Commissioner, Assessments Division.
| Office of Federal Student Aid | Chief Financial Officer.
DEPARTMENT OF EDUCATION OFFICE OF THE INSPECTOR GENERAL | Office of the Inspector General | Interim Assistant Inspector General for Management Services. Deputy Assistant Inspector General for Investigation Services.
|  | Deputy Assistant Inspector General for Audit Services.
|  | Assistant Inspector General for Management Services.
|  | Counsel to the Inspector General.
|  | Assistant Inspector General for Investigation Services.
|  | Assistant Inspector General for Audit Services.
|  | Deputy Inspector General.
|  | Assistant Inspector General for Information Technology Audits and Computer Crime Investigations.
DEPARTMENT OF ENERGY | Office of the Under Secretary for Science | Chief Security Officer.
| Office of Advanced Research Projects Agency—Energy | Chief Counsel.
| Loan Programs Office | Director, Portfolio Management Division.
|  | Chief Counsel, Loan Program Office.
|  | Director, Portfolio Management Division.
|  | Chief Counsel.
| National Nuclear Security Administration | Deputy Manager, Livermore Field Office. Manager, Livermore Field Office.
|  | Manager, Sandia Field Office.
|  | Director, Office of Policy.
|  | Chief of Staff and Associate Principal Deputy Administrator.
|  | Principal Deputy Associate Administrator for Safety Infrastructure and Operations.
|  | Assistant Deputy Administrator for Strategic Partnership Programs.
|  | Director, Office of Cost Estimating and Program Evaluation.
|  | Chief Scientist.
|  | Deputy Director, Instrumentation and Control Division.
| Office of the General Counsel | Deputy General Counsel for Procurement and Tech Transfer.
|  | General Counsel.
| Office of the Associate Administrator for Acquisition and Project Management | Director, Acquisition Management. Federal Project Director (Uranium Processing Facility).
|  | Director, Office of Enterprise Project Management.
|  | Deputy Associate Administrator for Acquisition and Project Management.
|  | Deputy Director, Acquisition Management.
|  | Federal Project Director, Chemistry and Metallurgy Research Replacement Facility.
|  | Associate Administrator for Acquisition and Project Management.
| Office of Management and Budget | Associate Administrator for Management and Budget.
|  | Director, Office of Human Capital Management.
|  | Director, Office of Field Financial Management.
| Office of the Associate Administrator for Safety, Infrastructure and Operations | Deputy Associate Administrator for Safety. Deputy Associate Administrator for Enterprise Stewardship.
| Office of the Deputy Administrator for Defense Programs | Director, Office of Inertial Confinement Fusion. Manager, Los Alamos Site Office.
|  | Manager, Sandia Site Office.
|  | Manager, Los Alamos Site.
|  | Deputy Manager, Nevada Site Office.
|  | Manager, Nevada Field Office.
|  | Manager, Kansas City Site Office.
|  | Manager, Savannah River Site Office.
|  | Deputy Manager, Los Alamos Site Office.
|  | Assistant Deputy Administrator for Stockpile Management.
|  | Assistant Deputy Administrator for Research Development, Test and Evaluation.
|  | Principal Assistant Deputy Administrator for Defense Program.
|  | Assistant Deputy Administrator for Systems Engineering Integration.
|  | Assistant Deputy Administrator for Major Modernization Programs.
|  | Manager, Nuclear National Security Agency Production Office.
|  | Manager Livermore Field Office.
|  | Uranium Program Manager.
| Office of the Deputy Administrator for Defense Nuclear Nonproliferation | Chief Science and Technology Officer. Associate Assistant Administrator for Defense Nuclear Nonproliferation Research and Development.
|  | Associate Assistant Deputy Administrator, Nonproliferation and Arms Control.
|  | Senior Program Advisor.
| Office of the Deputy Administrator for Naval Reactors | Director, Reactor Engineering Division. Senior Naval Reactors Representative (Puget Sound Naval Ship).
|  | Program Manager, Advanced Technology Development.
|  | Director, Instrumentation and Control Division.
|  | Senior Naval Reactors Representative.
|  | Director, Regulatory Affairs.
|  | Deputy Director for Naval Reactors.
|  | Director, Advanced Submarine Systems Division.
|  | Deputy Director, Advanced Submarine Systems Division.
|  | Program Manager, Prototype and Moored Training Ship Operations and Inactivation Program.
|  | Senior Naval Reactors Representative (Newport News, Virginia).
|  | Director, Information Technology Management.
|  | Assistant Manager for Operations.
|  | Senior Naval Reactors Representative (Yokosuka, Japan).
|  | Deputy Director, Nuclear Technology Division.
|  | Program Manager for Surface Ship Nuclear Propulsion.
|  | Manager, Naval Reactors Laboratory Field Office.
|  | Program Manager, Virginia Class Subs and United States/United Kingdom Technology Exchange.
|  | Director, Governmental Affairs.
|  | Program Manager, New Ship Design.
|  | Senior Naval Reactors Representative (Groton, Connecticut).
|  | Director, Nuclear Technology Division.
| Office of Defense Nuclear Security | Director, Office of Security Operations and Programmatic Planning.
|  | Director, Office of Nuclear Materials Integration.
| National Nuclear Security Administration Field Site Offices | Deputy Manager, Nevada Field Office. Deputy Manager, Livermore Field Office.
|  | Deputy Manager, Sandia Field Office.
|  | Deputy Manager, National Nuclear Security Administration Production Office.
| Office of Intelligence and Counterintelligence | Principal Deputy Director, Office of Intelligence and Counterintelligence. Deputy Director for Intelligence Analysis.
|  | Director Office of Intelligence and Counterintelligence.
|  | Deputy Director for Counterintelligence.
|  | Senior Advisor.
| Office of Health, Safety and Security | Deputy Director, Office of Nuclear Safety.
|  | Congressional and Public Affairs Manager.
| Office of the Chief Information Officer | Principal Deputy Chief Information Officer for Enterprise Information Resources Management.
|  | Deputy Chief Information Officer.
|  | Associate Chief Information Officer for Cyber Security.
|  | Associate Chief Information Officer for Energy Information Technology Services.
| Office of the Chief Human Capital Officer | Director, Office of Human Capital Policy Accountability and Technology.
|  | Director, Office of Human Capital Strategy, Budget and Performance Metrics.
|  | Director, Office of Learning and Workforce Development (Chief Learning Officer).
|  | Director, Office of Corporate Executive Management.
|  | Director, Office of Human Resources Services.
|  | Deputy Chief, Human Capital Officer.
|  | Director, Office of Human Capital Management.
|  | Director, Human Resources Shared Service Center for Science and Energy.
|  | Director, Human Resources Shared Service Center, Science and Energy.
|  | Director, Human Resources Shared Service Center for Management and Performance.
| Office of Management | Director, Office of Asset Management.
|  | Director, Office of Contract Management.
|  | Director, Office of Headquarters Procurement Services.
|  | Director, Project Management.
|  | Director.
|  | Director, Office of Policy.
|  | Director, Office of Administration.
|  | Director, Office of Management.
| Office of Project Management Oversight and Assessments | Director, Office of Project Management Oversight and Assessments.
|  | Director, Office of Project Assessments.
|  | Deputy Director, Office of Project Management Oversight and Assessments.
| Office of the Chief Financial Officer | Deputy Director, Budget Analysis and Coordination.
|  | Assistant Deputy Chief Financial Officer, Financial System Integration.
|  | Director, Office of Corporate Information Systems.
|  | Director, Office of Finance and Accounting.
|  | Deputy Director, Office of Finance and Accounting.
|  | Senior Budget Officer.
|  | Deputy Chief Financial Officer.
|  | Director, Office of Budget.
|  | Deputy Director, Budget Operations.
| Office of the Assistant Secretary for Electricity Delivery and Energy Reliability | Principal Deputy Assistant Secretary.
| Office of the Assistant Secretary for Congressional and Intergovernmental Affairs | Chief Operations Officer.
| Assistant Secretary for Energy Efficiency and Renewable Energy | Director, Geothermal Technologies Office. Director for Procurement Services Division.
|  | Deputy Director, Building Technologies Office.
|  | Director, Wind and Water Power Technologies Office.
|  | Director, Business Services Division.
|  | Director, Budget Office.
| United States Energy Information Administration | Director, Office of Petroleum Gas and Biofuels Analysis. Director, Office of Integrated and International Energy Analysis.
|  | Deputy Administrator, Energy Information Administration.
|  | Director, Office of Energy Consumption and Efficiency Analysis.
|  | Director, Office of Energy Markets and Financial Analysis.
|  | Director, Office of Electricity, Renewables and Uranium Statistics.
|  | Director, Office of Electricity, Coal, Nuclear and Renewable.
|  | Director, Office of Survey Development and Statistical Integration.
|  | Assistant Administrator for Energy Statistics.
|  | Director, Office of Energy Consumption and Efficiency Statistics.
|  | Director, Office of Petroleum and Biofuels Statistics.
|  | Director, Office of Oil, Gas and Coal Supply Statistics.
|  | Director, Office of Electricity, Coal Nuclear and Renewables.
|  | Assistant Administrator for Energy Analysis.
|  | Assistant Administrator for Communications.
|  | Assistant Administrator for Resources and Technology Management.
| Office of the Assistant Secretary for Environmental Management | Chief, Nuclear Safety (2).
| Environmental Management Consolidated Business Center | Chief Counsel.
| Office of Science | Site Office Manager, Princeton.
|  | Chief Counsel.
|  | Berkeley/SLAC Site Office Manager.
|  | Director Office of Scientific and Technical Information.
|  | Site Office Manager, Fermi.
|  | Site Office Manager, Argonne.
|  | Site Office Manager, Brookhaven.
| Office of Planning and Management Oversight | Associate Deputy Under Secretary for Science and Energy.
| Office of the Assistant Secretary for Fossil Energy | Director, Office of Strategic Planning and Global Engagement.
|  | Director, Office of Strategic Planning and Global Engagement.
|  | Director, Office of Oil and Gas Global Security and Supply.
|  | Director, Office of Finance, Acquisition and Assistance.
|  | Chief Counsel.
|  | Director, Strategic Center for Coal.
|  | Chief Operating Officer.
|  | Project Manager, Strategic Petroleum Reserve.
|  | Director, Research and Development.
|  | Director, Office of Energy Project Management.
| Chicago Office | Deputy Manager, Chicago Office.
|  | Assistant Manager, Acquisition and Assistance.
|  | Manager, Chicago Office.
|  | Chief Financial Officer.
| Idaho Operations Office | Deputy Manager for Idaho Cleanup Project.
|  | Deputy Manager for Administrative Support, Chief Financial Officer.
|  | Chief Counsel.
|  | Manager, Idaho Operations Office.
| Oak Ridge Office | Site Manager, Oak Ridge National Laboratory Site Office.
|  | Chief Counsel.
|  | Assistant Manager for Administration.
|  | Chief Financial Officer.
|  | Site Manager, Thomas Jefferson National Accelerator Facility.
| Richland Operations Office | Chief Counsel.
|  | Assistant Manager for Safety and Environment.
|  | Manager.
| Savannah River Operations Office | Associate Deputy Manager.
| Office of General Counsel | Assistant General Counsel for Enforcement.
|  | Assistant General Counsel for Procurement and Financial Assistance.
|  | Assistant General Counsel for General Law.
|  | Deputy General Counsel.
|  | Assistant General Counsel for Technology Transfer and Intellectual Property.
| Office of Hearings and Appeals | Deputy Director, Hearings and Appeals (Deputy Chief Administrative Judge).
|  | Director, Hearings and Appeals (Chief Administrative Judge).
|  | Director, Hearings and Appeals (Chief Administrative Judge).
| Office of the Assistant Secretary for Nuclear Energy | Associate Principal Deputy Assistant Secretary, Office of Nuclear Energy.
|  | Deputy Manager for Operations Support.
|  | Director, Office of Innovative Nuclear Research.
|  | Deputy Director, Office of Advanced Reactor Concepts.
|  | Director, Office of Advanced Reactor Technologies.
|  | Director, Office of Light Water Reactor Deployment.
|  | Director, Office of Used Nuclear Fuel Disposition Research and Development.
| Office of the Assistant Secretary for International Affairs | Senior Advisor. Director, Office of Russian and Eurasian Affairs.
|  | Director, Office of African and Middle Eastern Affairs.
|  | Director, Office of East Asian Affairs.
|  | Deputy Assistant Secretary for Middle East, Africa and Eurasia.
|  | Deputy Assistant Secretary for Asia, Europe and the Americans.
|  | Director, Office of American Affairs.
| Office of Energy Policy and Systems Analysis | Deputy Director for Energy Finance Incentives and Program Analysis.
|  | Deputy Assistant Secretary for Policy Analysis.
| Bonneville Power Administration | Vice President, Northwest Requirements Marketing.
|  | Vice President, Environment, Fish and Wildlife.
|  | Vice President for Engineering and Technical Services.
|  | Vice President, Planning and Asset Management.
|  | Executive Vice President, Corporate Strategy.
|  | Vice President, Transmission Marketing and Sales.
|  | Vice President, Bulk Marketing.
|  | Vice President for Generation Asset Management.
|  | Executive Vice President and Chief Financial Officer.
|  | Senior Vice President for Power Services.
|  | Vice President for Transmission Field Services.
|  | Senior Vice President, Transmission Services.
|  | Chief Operating Officer.
|  | Deputy Administrator.
|  | Vice President for Information Technology and Chief Information Officer.
|  | Vice President, Energy Efficiency.
|  | General Counsel/Executive Vice President.
| Southwestern Power Administration | Administrator, Southwestern Power Administration.
| Western Area Power Administration | Chief Financial Officer.
|  | Chief Operating Officer.
|  | Regional Manager, Upper Great Plains Region.
|  | Regional Manager, Rocky Mountain Region.
|  | Transmission Infrastructure Program Manager (2).
|  | Desert Southwest Regional Manager.
|  | Chief Information Officer.
|  | Regional Manager, Sierra Nevada Region.
|  | General Counsel.
| Office of Enterprise Assessments | Deputy Director, Office of Independent Enterprise Assessments.
|  | Director, Office of Environment, Safety and Health Evaluation.
|  | Director, Office of Security Assessments.
| Office of Associate Under Secretary for Environment, Health, Safety and Security | Director, Office of Environmental Protection Sustainability. Director, Office of Nuclear Safety. Director, Office of Field Assistance.
|  | Deputy Director, Office of Nuclear Safety.
|  | Senior Advisor.
DEPARTMENT OF ENERGY, OFFICE OF THE INSPECTOR GENERAL | Office of the Inspector General | Assistant Inspector General for Investigations. Assistant Inspector General for Audits and Administration.
|  | Deputy Inspector General for Investigations.
|  | Deputy Inspector General for Audits and Inspections.
|  | Assistant Inspector General, Management and Administration.
|  | Counsel to the Inspector General.
|  | Principal Deputy Inspector General.
ENVIRONMENTAL PROTECTION AGENCY | Office of Executive Services Office of the Chief Financial Officer | Director, Office of Executive Services. Deputy Chief Financial Officer. Associate Chief Financial Officer.
| Office of Planning, Analysis and Accountability | Director, Office of Planning, Analysis and Accountability.
| Office of Budget | Director, Office of Budget.
| Office of the Controller | Director, Office of Financial Management.
| Office of Financial Services | Director, Office of Financial Services.
| Office of Technology Solutions | Director, Office of Technology Solutions.
| Office of Environmental Information | Director, Enterprise Information Technology Systems.
| Office of Policy and Resource Management | Director, Office of Policy and Resource Management.
| Office of Administration | Director, Safety and Sustainability Division.
|  | Director, Office of Administration.
|  | Deputy Director, Office of Administration.
|  | Director, Facilities Management and Services Division.
| Office of Human Resources | Director, Executive Resources Division.
|  | Deputy Director, Office of Human Resources.
|  | Director, Office of Human Resources.
| Office of Acquisition Management | Deputy Director, Office of Acquisition Management.
|  | Director, Office of Acquisition Management.
| Office of Grants and Debarment | Director, Office of Grants and Debarment.
|  | Deputy Director, Office of Grants and Debarment.
| Office of Administration and Resources Management—Cincinnati Ohio | Director, Office of Administration and Resources Management.
| Office of Administration and Resources Management—Research Triangle Park, North Carolina | Director, Office of Administration and Resources Management.
| Office of Diversity, Advisory Committee Management and Outreach | Director, Office of Diversity, Advisory Committee Management and Outreach.
| Environmental Appeals Board | Environmental Appeals Judge (4).
| Office of the Assistant Administrator for Enforcement and Compliance Assurance | Senior Policy Director for Innovation and Next Generation Compliance.
| Federal Facilities Enforcement Office | Director, Federal Facilities Enforcement Office.
| Office of Environmental Justice | Director, Office of Environmental Justice.
| Office of Compliance | Director, Office of Compliance.
|  | Deputy Director, Office of Compliance.
|  | Director, Monitoring Assistance and Media Programs Division.
|  | Director, Enforcement Targeting and Data Division.
|  | Director, National Enforcement Training Institute.
| Office of Criminal Enforcement, Forensics and Training | Deputy Director, Office of Criminal Enforcement, Forensics and Training.
|  | Director, Office of Criminal Enforcement, Forensics and Training.
|  | Director, Criminal Investigation Division.
|  | Director, National Enforcement Investigations Center.
| Office of Federal Activities | Director, International Compliance Assurance Division.
| Office of Civil Enforcement | Director, Office of Civil Enforcement.
|  | Deputy Director, Office of Civil Enforcement.
|  | Director, Air Enforcement Division.
| Office of Site Remediation Enforcement | Director, Office of Site Remediation Enforcement. Deputy Director, Office of Site Remediation Enforcement.
| Office of Deputy General Counsel | Director, Resources Management Office.
| Office of Ground Water and Drinking Water | Director, Drinking Water Protection Division. Director, Standards and Risk Management Division.
| Office of Science and Technology | Director, Standards and Health Protection Division.
|  | Director, Engineering and Analysis Division.
|  | Director, Health and Ecological Criteria Division.
| Office of Waste Water Management | Director, Municipal Support Division.
|  | Director, Water Permits Division.
| Office of Wetlands, Oceans and Watersheds | Director, Oceans and Coastal Protection Division. Director, Assessment and Watershed Protection Division.
|  | Director, Wetlands Division.
| Office of Superfund Remediation and Technology Innovation | Director, Technology Innovation and Field Services Division. Director, Resources Management Division.
|  | Director, Assessment and Remediation Division.
| Office of Resource Conservation and Recovery | Director, Program Implementation and Information Division. Director, Materials Recovery and Waste Management Division.
|  | Director, Resource Conservation and Sustainability Division.
| Office of Air Quality Planning and Standards | Associate Office Director for Program Integration and International Air Quality Issues.
|  | Director, Air Quality Assessment Division.
|  | Director, Health and Environmental Impacts Division.
|  | Director, Air Quality Policy Division.
|  | Director, Outreach and Information Division.
|  | Director, Sector Policies and Programs Division.
| Office of Transportation and Air Quality | Director, Compliance Division.
|  | Director, Assessment and Standards Division.
|  | Director, Transportation and Climate Division.
|  | Director, Testing and Advanced Technology Division.
| Office of Radiation and Indoor Air | Director, Indoor Environments Division.
|  | Director, Radiation Protection Division.
| Office of Atmospheric Programs | Director, Climate Change Division.
|  | Director, Clean Air Markets Division.
|  | Director, Climate Protection Partnership Division.
| Office of Program Management Operations | Associate Assistant Administrator (Management).
| Office of Pesticide Programs | Director, Biological and Economic Analysis Division.
|  | Director, Bio pesticides and Pollution Prevention Division.
|  | Director, Anti-microbial Division.
|  | Director, Field and External Affairs Division.
|  | Director, Information Technology and Resources Management Division.
|  | Director, Health Effects Division.
|  | Director, Registration Division.
|  | Director, Environmental Fate and Effects Division.
|  | Director, Special Review and Registration Division.
| Office of Pollution Prevention and Toxics | Director, Environmental Assistance Division. Director, Risk Assessment Division.
|  | Director, National Program Chemicals Division.
|  | Director, Chemical Control Division.
|  | Director, Information Management Division.
|  | Director, Chemistry, Economics and Sustainable Strategies Division.
| Office of the Assistant Administrator for Research and Development | Deputy Director for Management, Office of Science Management. Director, Environmental Technology Innovation Cluster Program.
|  | Chief Innovation Officer.
|  | Director, Office of Science Information Management.
| Office of the Science Advisor | Director, Office of the Science Advisor.
| National Homeland Security Research Center | Deputy Director for Management, National Homeland Security Research Center.
|  | Director, National Homeland Security Research Center.
| Office of Program Accountability and Resource Management | Director, Office of Program Accountability and Resource Management.
| National Health and Environmental Effects Research Laboratory | Associate Director for Ecology. Director, National Health and Environmental Effects Research Laboratory.
|  | Deputy Director for Management.
| Western Ecology Division | Director, Western Ecology Division.
| Gulf Ecology Division | Director, Gulf Ecology Division.
| Mid-Continent Ecology Division | Director, Mid-Continent Ecology Division.
| National Exposure Research Laboratory (NERL) | Deputy Director for Management. Director, National Exposure Research Laboratory.
| National Risk Management Research Laboratory (NRMRL) | Deputy Director for Management. Director, National Risk Management Research Laboratory.
| Air Pollution Prevention and Control Division | Director, Air Pollution Prevention and Control Division.
| National Center for Environmental Assessment | Deputy Director for Management.
| National Center for Environmental Assessment—Washington, District of Columbia | Director, National Center for Environmental Assessment.
| National Center for Environmental Assessment—Cincinnati, Ohio | Director, National Center for Environmental Assessment.
| National Center for Environmental Research | Deputy Director for Management.
| Office of Administrative and Research Support | Director, Office of Administrative and Research Support. Deputy Director, Office of Administrative and Research Support.
| Region 1—Boston, Massachusetts | Assistant Regional Administrator for Administration and Resources Management.
|  | Director, Office of Site Remediation Restoration.
|  | Director, Office of Ecosystem Protection.
|  | Director, Office of Environmental Stewardship.
| Office of Regional Counsel | Regional Counsel (10).
| Region 2—New York, New York | Director, Clean Air and Sustainability Division.
|  | Director, Enforcement and Compliance Assistance Division.
|  | Assistant Regional Administrator for Policy and Management.
|  | Director, Office of Emergency and Remedial Response.
|  | Director, Division of Environmental Science and Assessment.
|  | Director, Caribbean Environmental Protection Division.
| Region 3—Philadelphia, Pennsylvania | Director, Hazardous Site Cleanup Division.
|  | Director, Water Protection Division.
|  | Assistant Regional Administrator for Policy and Management.
|  | Director, Air Protection Division.
|  | Director, Land and Chemicals Division.
|  | Director, Environmental Assessment and Innovation Division.
|  | Director, Chesapeake Bay Program Office.
| Region 4—Atlanta, Georgia | Director, Resource Conservation and Recovery Act Division.
|  | Director Water Division Region IV.
|  | Assistant Regional Administrator for Policy and Management.
|  | Director, Superfund Division.
|  | Director, Gulf of Mexico Program.
|  | Director, Science and Ecosystem Support Division.
|  | Director, Air, Pesticides and Toxics Management Division.
| Region 5—Chicago, Illinois | Director, Water Division.
|  | Director, Air and Radiation Division.
|  | Director, Great Lakes National Program Office.
|  | Director, Superfund Division.
|  | Assistant Regional Administrator for Resources Management.
|  | Director, Land and Chemicals Division.
| Region 6—Dallas, Texas | Assistant Regional Administrator for Management.
|  | Director, Multimedia Planning and Permitting Division.
|  | Director, Water Quality Protection Division.
|  | Director, Superfund Division.
|  | Director, Compliance Assurance and Enforcement Division.
| Region 7—Lenexa, Kansas | Director, Water, Wetlands and Pesticides Davison.
|  | Director, Air and Waste Management Division.
|  | Director, Environmental Services Division.
|  | Assistant Regional Administrator for Policy and Management.
|  | Director, Superfund Division.
| Region 8—Denver, Colorado | Assistant Regional Administrator for Technical and Management Services.
|  | Assistant Regional Administrator for Partnerships and Regulatory Assistance.
|  | Assistant Regional Administrator for Ecosystems Protection and Remediation.
| Region 9—San Francisco, California | Director, Water Division.
|  | Director, Air Division.
|  | Director, Superfund Division.
|  | Director, Land Division.
|  | Director, Enforcement Division.
|  | Assistant Regional Administrator for Management and Technical Services.
| Region 10—Seattle, Washington | Director, Office of Air, Waste and Toxics.
|  | Director, Office of Compliance and Enforcement.
|  | Assistant Regional Administrator for Management Programs.
|  | Director, Office of Water and Watersheds.
|  | Director, Office of Environmental Cleanup.
|  | Director, Office of Ecosystems, Tribal and Public Affairs.
ENVIRONMENTAL PROTECTION AGENCY, OFFICE OF THE INSPECTOR GENERAL | Office of the Inspector General | Assistant Inspector General for Mission Systems. Assistant Inspector General for Program Evaluation. Assistant Inspector General for Investigations.
|  | Chief of Staff.
|  | Counsel to the Inspector General.
|  | Deputy Inspector General.
|  | Assistant Inspector General for Audit.
EQUAL EMPLOYMENT OPPORTUNITY COMMISSION | Office of the Inspector General Office of Field Programs | Inspector General. District Director (New York).
|  | District Director (Baltimore).
|  | Program Manager.
|  | District Director (Milwaukee).
|  | District Director (Houston).
|  | District Director (Atlanta).
|  | District Director (Detroit).
|  | National Systemic Investigations Executive Advisor.
|  | National Legal/Enforcement Executive Advisor.
|  | District Director (Philadelphia).
|  | District Director (Cleveland).
|  | National Mediation Executive Advisor.
|  | District Director (Charlotte).
|  | District Director (San Antonio).
|  | District Director (Phoenix).
|  | District Director (New Orleans).
|  | District Director (Birmingham).
|  | District Director (Denver).
|  | District Director (Los Angeles).
|  | District Director (Memphis).
|  | District Director (Indianapolis).
|  | District Director (Miami).
|  | District Director (St Louis).
|  | District Director (Chicago).
|  | District Director (Dallas).
|  | District Director (San Francisco).
| Field Management Programs | Director, Field Management Programs.
| Field Coordination Programs | Director, Field Coordination Programs.
FEDERAL COMMUNICATIONS COMMISSION | Office of Inspector General Media Bureau | Inspector General. Chief, Video Division.
FEDERAL ENERGY REGULATORY COMMISSION | Office of Energy Projects Office of Administrative Litigation | Director of Dam Safety and Inspection. Director, Legal Division. Director, Technical Division.
| Office of Enforcement | Chief Accountant and Director, Division of Financial Regulations.
FEDERAL LABOR RELATIONS AUTHORITY | Office of the Chairman | Solicitor. Director, Policy and Performance Management.
|  | Chief Counsel.
|  | Senior Advisor.
| Office of Member | Chief Counsel (2).
| Federal Service Impasses Panel | Executive Director, Federal Service Impasses Panel.
| Office of the Inspector General | Inspector General.
| Office of the Executive Director | Executive Director.
| Office of the General Counsel | Deputy General Counsel (2).
| Office of General Counsel, Regional Offices | Regional Director—Washington, District of Columbia. Regional Director—Boston.
|  | Regional Director—Atlanta.
|  | Regional Director—Dallas.
|  | Regional Director, Chicago Illinois.
|  | Regional Director, San Francisco.
|  | Regional Director, Denver.
FEDERAL LABOR RELATIONS AUTHORITY OFFICE OF THE INSPECTOR GENERAL | Office of Inspector General | Inspector General.
FEDERAL MARITIME COMMISSION | Office of the Secretary Office of Consumer Affairs and Dispute Resolution Services | Secretary. Director, Office of Consumer Affairs and Dispute Resolution Services.
| Office of the General Counsel | Deputy General Counsel for Reports Opinions and Decisions.
| Office of the Inspector General | Inspector General.
| Office of the Managing Director | Director, Strategic Planning and Regulatory Review.
|  | Deputy Managing Director.
| Bureau of Certification and Licensing | Director, Bureau of Certification and Licensing.
| Bureau of Trade Analysis | Director, Bureau of Trade Analysis.
| Bureau of Enforcement | Director, Bureau of Enforcement.
FEDERAL MEDIATION AND CONCILIATION SERVICE | Office of the Director | Chief of Staff. National Representative.
| Office of the Deputy Director | Director of Field Operations.
FEDERAL RETIREMENT THRIFT INVESTMENT BOARD | Office of the Director | Chief Financial Officer. Director, Office of Enterprise Planning.
|  | Director of Enterprise Risk Management.
|  | Chief Technology Officer.
|  | Director of Communications and Education.
|  | Director of Participant Operations and Policy.
|  | Chief Investment Officer.
|  | Chief Operating Officer.
|  | Deputy Chief Investment Officer.
|  | Senior Advisor for Uniformed Services.
|  | Director of Resource Management.
FEDERAL TRADE COMMISSION | Office of International Affairs | Deputy Director for International Consumer Protection.
| Office of Executive Director | Chief Information Officer. Deputy Executive Director.
| Bureau of Competition | Deputy Director, Bureau of Competition.
FEDERAL TRADE COMMISSION OFFICE OF THE INSPECTOR GENERAL | Federal Trade Commission Office of the Inspector General | Inspector General.
GENERAL SERVICES ADMINISTRATION | Office of the Administrator Office of Mission Assurance | Director, Presidential Transition. Associate Administrator for Mission Assurance.
| Office of Administrative Services | Deputy Chief Administrative Services Officer.
| Office of Citizen Services, Innovative Technologies and 18F | Director Federal Citizen Information Center.
| Office of Human Resources Management | Chief Human Capital Officer.
|  | Director of Human Capital Management.
|  | Director of Human Resources Services.
| Office of Governmentwide Policy | Deputy Associate Administrator for Information, Integrity and Access.
|  | Director of General Services Acquisition Policy, Integrity and Workforce.
|  | Director of Federal High-Performance Green Buildings.
|  | Director of the Federal Acquisition Institute.
|  | Principal Deputy for Asset and Transportation Management.
|  | Deputy Associate Administrator for Travel, Transportation and Asset Management.
|  | Director of Governmentwide Acquisition Policy.
|  | Deputy Chief Acquisition Officer and Senior Procurement Executive.
| Office of the Chief Financial Officer | Director of Regional Financial Services.
|  | Director of Financial Management.
|  | Director of Budget.
|  | Chief Financial Officer.
|  | Director of Federal Acquisition Service Financial Services.
|  | Deputy Chief Financial Officer.
| Public Buildings Service | Assistant Commissioner for Leasing.
|  | Assistant Commissioner for Facilities Management and Services Programs.
|  | Assistant Commissioner for Acquisition Management.
|  | Assistant Commissioner for Project Delivery.
|  | Assistant Commissioner for Client Solutions.
|  | Assistant Commissioner for Real Property Asset Management.
|  | Assistant Commissioner for Real Property Utilization and Disposal.
| Office of General Services Administration, Information Technology | Associate Chief Information Officer for Enterprise Infrastructure.
|  | Associate Chief Information Officer for Enterprise Planning and Governance.
|  | Associate Chief Information Officer for Acquisition Information Technology Services.
|  | Senior Agency Information Security Officer.
|  | Associate Chief Information Officer for Governmentwide and Enterprise Solutions.
|  | Associate Chief Information Officer for Public Buildings Information Technology Services.
|  | Associate Chief Information Officer for Financial and Human Resources Information Technology Services.
| Federal Acquisition Service | Program Executive for Expanded Contracting Services.
|  | Director of Strategic Programs.
|  | Assistant Commissioner for Integrated Award Environment.
|  | Director of Acquisition Operations.
|  | Director of Information Technology Schedule Programs.
|  | Assistant Commissioner for Strategy Management.
|  | Director of Motor Vehicle Management.
|  | Director of Supply Operations.
|  | Deputy Assistant Commissioner for General Supplies and Services.
|  | Director of Travel and Transportation Services.
|  | Assistant Commissioner for Integrated Technology Services.
|  | Assistant Commissioner for Acquisition Management.
|  | Director of Network Services Programs.
|  | Assistant Commissioner for Customer Accounts and Research.
|  | Assistant Commissioner for Assisted Acquisition Services.
|  | Deputy Assistant Commissioner for Integrated Technology Services.
|  | Assistant Commissioner for General Supplies and Services.
|  | Assistant Commissioner for Travel, Motor Vehicle and Card Services.
| New England Region | Regional Commissioner for Public Buildings Service.
| Northeast and Caribbean Region | Principal Deputy Regional Commissioner for Public Buildings Service.
|  | Regional Commissioner for Federal Acquisition Service.
|  | Regional Commissioner for Public Buildings Service.
| Mid-Atlantic Region | Regional Commissioner for Federal Acquisition Service.
|  | Regional Commissioner for Public Buildings Service.
| National Capital Region | Director of Facilities Management and Services Programs.
|  | Director of Project Delivery.
|  | Director of Leasing.
|  | Principal Deputy Regional Commissioner for Public Buildings Service.
|  | Regional Commissioner for Federal Acquisition Service.
|  | Regional Commissioner for Public Buildings Service.
|  | Director of Portfolio Management.
| Southeast Sunbelt Region | Regional Commissioner for Federal Acquisition Service.
|  | Regional Commissioner for Public Buildings Service.
| Great Lakes Region | Regional Commissioner for Public Buildings Service.
|  | Regional Commissioner for Federal Acquisition Service.
| Heartland Region | Regional Commissioner for Federal Acquisition Service.
|  | Regional Commissioner for Public Buildings Service.
| Greater Southwest Region | Regional Commissioner for Federal Acquisition Service.
|  | Regional Commissioner for Public Buildings Service.
| Rocky Mountain Region | Regional Commissioner for Public Buildings Service.
|  | Regional Commissioner for Federal Acquisition Service, Region 8.
| Pacific Rim Region | Regional Commissioner for Public Buildings Service.
|  | Regional Commissioner, Federal Acquisition Service.
|  | Principal Deputy Regional Commissioner for Public Buildings Service.
| Northwest/Arctic Region | Regional Commissioner for Federal Acquisition Service, Region 10.
|  | Regional Commissioner for Public Buildings Service.
GENERAL SERVICES ADMINISTRATION, OFFICE OF THE INSPECTOR GENERAL | Office of the Inspector General | Counsel to the Inspector General. Deputy Assistant Inspector General for Acquisition Programs Audits.
|  | Principal Deputy Assistant Inspector General for Auditing.
|  | Assistant Inspector General for Auditing.
|  | Assistant Inspector General for Investigations.
|  | Assistant Inspector General for Inspections.
|  | Associate Inspector General.
|  | Assistant Inspector General for Administration.
|  | Deputy Assistant Inspector General for Investigations.
|  | Deputy Inspector General.
GULF COAST ECOSYSTEM RESTORATION COUNCIL | Gulf Coast Ecosystem Restoration Council | Deputy Executive Director and Director of Programs.
DEPARTMENT OF HEALTH AND HUMAN SERVICES | Office of Security and Strategic Information | Associate Director for Strategic Information. Associate Director for Personnel and Classified Information Security.
|  | Director, Intelligence and Counterintelligence.
| Office of the Assistant Secretary for Financial Resources | Director, Office of Small and Disadvantaged Business Utilization.
| Office of the Deputy Assistant Secretary for Finance | Deputy Assistant Secretary, Finance. Associate Deputy Assistant Secretary, Finance.
| Office of the Deputy Assistant Secretary for Information Resources Management | Deputy Chief Information Officer.
| Office of the Assistant Secretary for Planning and Evaluation | Associate Deputy Assistant Secretary for Planning and Evaluation (Health Services Policy).
| Office of the Assistant Secretary for Health | Director, Office of Research Integrity.
| Associate General Counsel Divisions | Deputy Associate General Counsel for Claims and Employment Law.
|  | Deputy Associate General Counsel, Business and Administrative Law Division.
|  | Associate General Counsel, General Law Division.
| Office of the Inspector General | Deputy Inspector General for Management and Policy.
|  | Deputy Inspector General for Legal Affairs.
|  | Principal Deputy Inspector General.
| Office of the Deputy Inspector General for Investigations | Assistant Inspector General for Investigative Operations. Assistant Inspector General for Investigations (2).
|  | Deputy Inspector General for Investigations.
| Office of the Deputy Inspector General for Audit Services | Assistant Inspector General for Grants and Internal Activities. Assistant Inspector General for Medicare and Medicaid Service Audits.
|  | Assistant Inspector General for Financial Management and Regional Operations.
|  | Deputy Inspector General for Audit Services.
|  | Assistant Inspector General for Audit Management and Policy.
| Office of the Deputy Inspector General for Evaluation and Inspections | Deputy Inspector General for Evaluation and Inspections.
| Program Support Center | Director, Information Systems Management Service.
|  | Deputy Assistant Secretary for Program Support.
| Office of Financial Management Service | Director, Financial Management Service.
| Office of Program Support | Director, Office of Financial Management.
| Office of the Actuary | Director, Office of the Actuary (Chief Actuary).
|  | Director, Medicare and Medicaid Cost Estimates Group.
|  | Director, Parts C and D Actuarial Group.
|  | Director, National Health Statistics Group.
| Center for Medicare | Director, Medicare Contractor Management Group.
| Center for Program Integrity | Director, Medicaid Integrity Group.
| Office of Acquisitions and Grants Management | Deputy Director, Office of Acquisition and Grants Management. Director, Office of Acquisitions and Grants Management.
| Office of Technology Solutions | Deputy Director, Office of Technology Solutions (2).
|  | Director, Office of Technology Solutions.
| Office of Financial Management | Deputy Director, Office of Financial Management.
|  | Director, Office of Financial Management.
|  | Director, Financial Services Group.
|  | Director, Accounting Management Group.
| Office of Policy, Planning, and Budget | Associate Administrator for Policy and Programs Coordinator.
| Center for Mental Health Services | Director, Division of State and Community Systems Development.
|  | Director, Center for Mental Health Services.
| Centers for Disease Control and Prevention | Director, Centers for Disease Control and Prevention, Washington Office.
|  | Director, Procurement and Grants Office.
|  | Chief Learning Officer.
|  | Issues Analysis and Coordination Officer.
|  | Deputy Director, Center for Global Health.
|  | Director, Information Technology Services Office.
|  | Director, Center for Global Health (2).
|  | Director, Buildings and Facilities Office.
|  | Deputy Director Center for Global Health.
|  | Chief Financial Officer.
| National Institute for Occupational Safety and Health | Deputy Director for Management.
| Office of the Commissioner | Assistant Commissioner for Global Regulatory Operations.
| Office of Chief Counsel | Associate Deputy Chief Counsel for Drugs and Biologics.
|  | Deputy Chief Counsel for Program Review.
|  | Associate Deputy Chief Counsel for Devices, Foods and Veterinary Medicine.
| Office of Management | Director, Office of Acquisitions and Grants Services.
| Office of Regulatory Affairs | Deputy Director for Investigations.
|  | Associate Director, Investigations.
|  | Director, Office of Criminal Investigations.
|  | Regional Food and Drug Director, Northeast Region.
|  | Deputy Associate Commissioner for Regulatory Affairs.
|  | Associate Commissioner for Regulatory Affairs.
|  | District Food and Drug Director, Los Angeles District.
| Center for Biologics Evaluation and Research | Director, Office of Compliance and Biologics Quality. Associate Director for Compliance and Biologic Quality.
| Center for Drug Evaluation and Research | Director, Office of New Drug Quality Assessment. Director, Office of Compliance.
|  | Senior Advisor for Policy.
|  | Associate Director for Management.
|  | Director, Division of Medical Imaging Surgical and Dental Products.
|  | Director, Office of Generic Drugs.
|  | Director, Office of Epidemiology and Biostatistics.
| Center for Devices and Radiological Health | Director, Office of System and Management. Director, Office of Compliance.
|  | Director, Office of Science and Technology.
|  | Director, Office of Device Evaluation.
| Center for Food Safety and Applied Nutrition | Director, Office of Premarket Approval. Director, Office of Field Programs.
|  | Director, Office of Plant and Dairy Foods and Beverages.
|  | Director, Office of Regulations and Policy.
|  | Director, Office of Seafood.
| Center for Veterinary Medicine | Director, Office of Science. Director, Office of Surveillance and Compliance.
| Office of Operations | Director, Office of Safety, Security and Crisis Management.
|  | Director, Office of Technology and Delivery.
|  | Director, Office of Business and Customer Assurance.
|  | Chief Financial Officer.
|  | Director, Office of Budget.
|  | Director, Office of Human Resources.
| Health Resources and Services Administration Office of the Administrator | Deputy Associate Administrator, Office of Federal Assistance Management.
| Special Programs Bureau | Associate Administrator, Special Programs Bureau.
| Human Immunodefiency Virus Infection/Acquired Immune Deficiency Syndrome (HIV/AIDS) Bureau | Director, Office of Science and Epidemiology.
| Indian Health Service | Director, Office of Environmental Health and Engineering.
| National Institutes of Health | Director, Office of Research Information Systems.
|  | Associate Director for Administrative Management.
|  | Director, Office of Acquisition and Logistics Management.
|  | Associate Director for Management.
| Office of the Director | Director, Office of Policy for Extramural Research Administration.
|  | Director, Office of Financial Management.
|  | Director, Office of Research Facilities Development and Operations.
|  | Associate Director for Security and Emergency Response.
|  | Senior Policy Officer (Ethics).
|  | Director, Office of Strategic Planning for Administration.
|  | Director, Office of Strategic Planning and Management Operations.
| National Heart, Lung and Blood Institute | Director, Office of Health Education, Communications, and Science Policy.
| National Cancer Institute | Deputy Director for Management.
| National Institute of Diabetes and Digestive and Kidney Diseases | Associate Director for Management.
| National Institute of Arthritis and Musculoskeletal and Skin Diseases | Associate Director for Management and Operations.
| National Library of Medicine | Director, Information Systems.
|  | Deputy Director, National Library of Medicine.
|  | Associate Director for Extramural Programs.
|  | Associate Director for Library Operations.
| National Institutes of Allergy and Infectious Diseases | Head, Lymphocyte Biology Section. Director, Office of Communications and Government Relations.
| National Institute on Aging | Director of Management.
| National Institutes of Child Health and Human Development | Associate Director for Administration. Director, National Center for Medical Rehabilitation Research.
| National Institute of Dental and Craniofacial Research | Associate Director for Management (2).
| National Institutes on Deafness and Other Communication Disorders | Associate Director for Administration.
| National Institutes of Health Clinical Center | Chief Financial Officer. Chief Operating Officer.
| Center for Information Technology | Director, Division of Computer System Services.
|  | Director, Center for Information Technology and Chief Information Officer.
| National Human Genome Research Institute | Director, Office of Population Genomics. Associate Director for Management.
| National Institute on Drug Abuse | Associate Director for Management.
| National Center for Advancing Translational Sciences | Associate Director for Administration.
| National Institute on Alcohol Abuse and Alcoholism | Associate Director for Administration.
| Agency for Healthcare Research and Quality | Executive Officer.
DEPARTMENT OF HEALTH AND HUMAN SERVICES, OFFICE OF THE INSPECTOR GENERAL | Office of the Inspector General Office of Counsel to the Inspector General | Principal Deputy Inspector General. Assistant Inspector General for Legal Affairs. Chief Counsel to the Inspector General.
| Office of Audit Services | Assistant Inspector General for Audit Services.
|  | Assistant Inspector General for Financial Management and Regional Operations.
|  | Assistant Inspector General for Medicare and Medicaid Service Audits.
|  | Deputy Inspector General for Audit Services.
| Office of Evaluation and Inspections | Assistant Inspector General for Evaluation and Inspections.
|  | Deputy Inspector General for Evaluation and Inspections.
|  | Assistant Inspector General for Evaluation and Inspections.
| Office of Investigations | Assistant Inspector General for Investigations (3).
|  | Deputy Inspector General for Investigations.
| Office of Management and Policy | Assistant Inspector General (Chief Data Officer).
|  | Assistant Inspector General for Information Technology (Chief Information Officer).
|  | Assistant Inspector General for Management and Policy.
|  | Deputy Inspector General for Management and Policy.
DEPARTMENT OF HOMELAND SECURITY | Office of the Secretary | Director, Office of Community Partnerships. Senior Department of Homeland Security Advisor to the Commander, United States Northern Command/North American Aerospace Defense Command.
|  | Department of Homeland Security (Department of Homeland Security) Advisor to the Department of Defense (Department of Defense).
| Office of the Executive Secretariat | Deputy Executive Secretary, Operations and Administration.
| Office of the General Counsel | Deputy Associate General Counsel for Acquisition and Procurement.
|  | Associate General Counsel for Ethics.
|  | Deputy Associate General Counsel for General Law.
| Office for Civil Rights and Civil Liberties | Deputy Civil Rights and Civil Liberties Officer, Equal Employment Opportunity and Diversity Director.
|  | Deputy Civil Rights and Civil Liberties Officer, Programs and Compliance.
|  | Director Civil Rights and Civil Liberties Programs Division.
| Domestic Nuclear Detection Office | Assistant Director, Operations Support Directorate.
|  | Deputy Director.
|  | Assistant Director, Transformational and Applied Research Directorate.
|  | Assistant Director, Product Acquisition and Deployment Directorate.
|  | Assistant Director, Architecture and Plans Directorate.
|  | Assistant Director, National Technical Nuclear Forensics Center.
|  | Chief of Staff.
| Office of the Assistant Secretary for Policy | Deputy Assistant Secretary for Unity of Effort Integration. Deputy Assistant Secretary for Immigration Statistics.
|  | Department of Homeland Security (DHS) Attaché to Central America.
|  | Deputy Assistant Secretary for Cyber Policy.
| United States Citizenship and Immigration Services | Chief, Office of Contracting. Chief Technology Officer.
|  | Deputy Chief Information Officer for Operations.
|  | Chief, Office of Legislative Affairs.
|  | Deputy Director, Site 3.
|  | Deputy Director, Service Center, Site 5.
|  | Director, Service Center, Site 5.
|  | Director, Potomac Service Center.
|  | Deputy Director, Potomac Service Center.
|  | Chief, Immigrant Investor Program.
|  | Deputy Associate Director, Service Center Operations.
|  | Associate Director, Customer Service and Public Engagement.
|  | Deputy Chief Counsel for Field Management.
|  | Chief, Office of Transformation Coordination.
|  | Deputy Associate Director, Office of Management.
|  | Deputy Chief, Office of Transformation Coordination.
|  | District Director, Field Services, Chicago, Illinois.
|  | District Director, Field Services, Boston, Massachusetts.
|  | Chief, Verification Division.
|  | Chief, Administrative Appeals.
|  | Associate Director, Field Operations.
|  | Deputy Director, Service Center, Saint Albans, Vermont.
|  | Deputy Director, Service Center, Lincoln, Nebraska.
|  | Chief, International Operations.
|  | Deputy Director, Service Center, Dallas, Texas.
|  | Deputy Director, Service Center, Laguna Niguel, California.
|  | Director, National Records Center.
|  | Deputy Director, National Benefits Center.
|  | Associate Director, Service Center Operations.
|  | Deputy Associate Director, Refugee, Asylum, and International Operations.
|  | Associate Director, Enterprise Services Division.
|  | Chief, Office of Security and Integrity.
|  | District Director, Field Services, Atlanta, Georgia.
|  | District Director, Field Services, Newark, New Jersey.
|  | District Director, Field Services, Tampa, Florida.
|  | Regional Director, Southeast Region.
|  | District Director, Field Services, San Francisco, California.
|  | District Director, Field Services, Los Angeles, California.
|  | Director, National Benefits Center.
|  | Chief, Office of Administration.
|  | District Director, Field Services, Miami, Florida.
|  | Chief Financial Officer.
|  | Northeast Regional Director, Burlington, Vermont.
|  | Western Regional Director, Laguna Niguel, California.
|  | Central Regional Director, Dallas, Texas.
|  | Director, Vermont Service Center, Saint Albans, Vermont.
|  | Director, Service Center, Dallas, Texas.
|  | Director, Service Center, Laguna Niguel, California.
|  | Director, Service Center, Lincoln, Nebraska.
|  | Associate Director, Office of Management.
|  | Chief Information Officer.
|  | Chief, Performance and Quality.
|  | Director, Office of Refugee Affairs.
|  | Deputy Associate Director, Office of Field Operations.
|  | Deputy Associate Director, Customer Service and Public Engagement.
|  | Associate Director, Fraud Detection and National Security.
|  | Chief, Intake and Document Production.
|  | Deputy Associate Director, Fraud Detection and National Security.
|  | Associate Director, Refugee, Asylum and International Operations.
|  | Deputy General Counsel.
|  | Deputy Chief Information Officer.
|  | Deputy Associate Director, Enterprise Services Division.
|  | District Director, Field Services, New York, New York.
|  | Chief, Asylum Division.
|  | Chief, Human Capital and Training.
| United States Secret Service | Deputy Assistant Director, Office of Government and Public Affairs.
|  | Chief Financial Officer.
|  | Deputy Assistant Director, Office of Protective Operations.
|  | Deputy Assistant Director, Office of Investigations.
|  | Special Agent In Charge, Philadelphia Field Office.
|  | Deputy Assistant Director, Office of Protective Operations.
|  | Special Agent In Charge, Chicago Field Office.
|  | Deputy Assistant Director, Technical Development and Mission Support.
|  | Deputy Assistant Director, Office of Investigations.
|  | Special Agent In Charge, Los Angeles Field Office.
|  | Component Acquisition Executive.
|  | Special Agent In Charge, Washington Field Office.
|  | Deputy Chief Financial Officer.
|  | Deputy Assistant Director, Special Operations Division.
|  | Special Agent In Charge, Special Services Division.
|  | Special Agent In Charge, Newark.
|  | Deputy Special Agent In Charge, New York Field Office.
|  | Special Agent In Charge, Honolulu Field Office.
|  | Special Agent In Charge, Atlanta Field Office.
|  | Deputy Special Agent In Charge, Vice Presidential Protective Division.
|  | Chief Information Officer.
|  | Deputy Special Agent In Charge (White House Complex).
|  | Deputy Assistant Director, Technical Development and Mission Support.
|  | Deputy Assistant Director, Office of Training.
|  | Special Agent In Charge, Houston Field Office.
|  | Deputy Assistant Director, Office of Investigations.
|  | Chief, Office of Strategic Planning and Policy.
|  | Deputy Special Agent In Charge, Presidential Protective Division.
|  | Deputy Assistant Director, Office of Strategic Planning and Policy.
|  | Special Agent In Charge (Dignitary Protective Division).
|  | Deputy Assistant Director, Office of Human Resources.
|  | Special Agent In Charge, Dallas Field Office.
|  | Special Agent In Charge, San Francisco Field Office.
|  | Chief Counsel.
|  | Special Agent In Charge, Technical Security Division.
|  | Special Agent In Charge, Vice Presidential Protective Division.
|  | Assistant Director, Office of Human Resources.
|  | Special Agent In Charge, New York Field Office.
|  | Special Agent In Charge, Presidential Protective Division.
|  | Assistant Director, Office of Professional Responsibility.
|  | Assistant Director, Office of Administration.
|  | Assistant Director, Office of Technical Development and Mission Support.
|  | Assistant Director, Protective Operations.
|  | Assistant Director, Investigations.
|  | Deputy Chief Information Officer.
|  | Deputy Director, United States Secret Service.
|  | Deputy Special Agent In Charge for Cyber Security.
|  | Director, United States Secret Service.
|  | Director of Communications (Media Affairs).
|  | Chief Operating Officer.
|  | Assistant Director, Office of Training.
|  | Deputy Assistant Director, Office of Protective Operations.
|  | Deputy Assistant Director, Technical Development and Support Mission.
|  | Deputy Chief Counsel/Principal Ethics Official.
|  | Special Agent In Charge, Miami Field Office.
|  | Special Agent In Charge, Paris Field Office.
|  | Deputy Assistant Director, Office of Human Resources.
|  | Deputy Assistant Director, Strategic Intelligence and Information.
|  | Assistant Director, Office of Strategic Intelligence and Information.
|  | Assistant Director, Office of Government and Public Affairs.
|  | Special Agent In Charge, Protective Intelligence and Assessment Division.
|  | Special Agent In Charge, Rome Field Office.
|  | Special Agent In Charge, Rowley Training Center.
|  | Special Agent In Charge, Criminal Investigative Division.
|  | Chief of Staff.
| United States Coast Guard | Director of Financial Operations/Comptroller.
|  | Deputy Assistant Commandant for Command, Control, Communications, Computers, and Information Technology/Deputy Chief Information Officer.
|  | Director, Incident Management and Preparedness Policy.
|  | Director of Financial Operations/Comptroller.
|  | Director of Financial Management and Procurement Services Modernization.
|  | Director, National Pollution Funds Center.
|  | Deputy Assistant Commandant for Acquisition/Director of Acquisition Services.
|  | Head of Contracting Activity.
|  | Director, Coast Guard Investigative Service.
|  | Director, Marine Transportation System Management.
|  | Chief Procurement Law Counsel and Chief Trial Attorney.
|  | Deputy Assistant Commandant for Resources and Deputy Chief Financial Officer.
|  | Assistant Deputy Commandant for Mission Support.
|  | Deputy Assistant Commandant for Intelligence and Criminal Investigations.
| Office of the Under Secretary for National Protection and Programs Directorate | Director, Human Resources Management. Director, Office of Compliance and Security. Chief Technology Officer, Office of Biometric Identity Management.
|  | Director of Operations, National Cybersecurity and Communications Integration Center.
|  | Director, Network Security Deployment.
|  | Deputy Director, National Cybersecurity and Communications Integration Center.
|  | Assistant Director of Field Operations (Central), Federal Protective Services.
|  | Assistant Director of Field Operations (West), Federal Protective Services.
|  | Assistant Director of Operations, Federal Protective Services.
|  | Senior Counselor to the Under Secretary for National Protection and Programs Directorate.
|  | Deputy Director, Office of Emergency Communications.
|  | Director, Stakeholder Engagement and Cyber Infrastructure Resilience Division.
|  | Director, Office of Cyber and Infrastructure Analysis.
|  | Deputy Director, National Cybersecurity Center.
|  | National Protection and Programs Directorate (NPPD) Chief Information Officer.
|  | Deputy Director, Infrastructure Security Compliance.
|  | Director, Infrastructure Security Compliance.
|  | Director, Sector Outreach and Programs Division.
|  | Assistant Director for Field Operations (East), Federal Protective Service.
|  | Director of Management.
|  | Director, Office of Emergency Communications.
|  | Deputy Director, Office of Biometric Identity Management.
|  | Director, Federal Network Resilience.
|  | Director, Protective Security Coordination.
|  | Director, Federal Protective Service.
|  | Senior Advisor, Office of Infrastructure Protection.
|  | Assistant Director, Identity Capabilities Management Division, Office of Biometric Identity Management.
|  | Component Acquisition Executive.
|  | Chief Financial Officer.
|  | Assistant Director of Risk Management, Federal Protective Service.
|  | Assistant Director of Risk Management.
|  | Director, Strategy and Policy/Cybersecurity Coordination.
|  | Assistant Director, Office of Training and Career Development, Federal Protective Service.
|  | Assistant Director, Office of Resource Management, Federal Protective Service.
|  | Director, Enterprise Performance Management.
|  | Deputy Assistant Secretary for Infrastructure Protection.
|  | Chief Technology Officer, Cybersecurity and Communications.
| Office of the Under Secretary for Intelligence and Analysis | Director, Border Security Division. Director, Information Sharing and Intelligence Enterprise Management Division.
|  | Director, Border Intelligence Fusion Section.
|  | Director, Cyber Infrastructure and Science Division.
|  | Deputy Director, Office of Enterprise and Mission Support.
|  | Director, Operations, State and Local Program Office.
|  | Principal Deputy Director, Terrorist Screening Center.
|  | Director, Collection Requirements Division.
|  | Chief of Staff.
|  | Director, Mission Support Division.
|  | Deputy Director, Office of Analysis.
| Assistant Secretary for Health Affairs and Chief Medical Officer | Deputy Assistant Secretary for Health Threats Resilience. Deputy Director, Workforce Health and Medical Support.
|  | Deputy Director, Health Threats Resilience.
|  | Deputy Assistant Secretary.
|  | Principal Deputy Assistant Secretary for Health Affairs/Deputy Chief Medical Officer.
| United States Immigration and Customs Enforcement | Director, Labor Relations/Employee Relations. Component Acquisition Executive.
|  | Director, Facilities and Asset Administration.
|  | Director, Federal Export Enforcement Coordination Center.
|  | Special Agent In Charge, San Juan, Puerto Rico.
|  | Special Agent In Charge, Buffalo, New York.
|  | Special Agent In Charge, Philadelphia, Pennsylvania.
|  | Special Agent In Charge, Boston, Massachusetts.
|  | Special Agent In Charge, Newark, New Jersey.
|  | Special Agent In Charge, Tampa, Florida.
|  | Special Agent In Charge, Saint Paul, Minnesota.
|  | Field Office Director, Office of Enforcement and Removal Operations, New York City, New York.
|  | Field Office Director, Office of Enforcement and Removal Operations, Los Angeles, California.
|  | Field Office Director, Office of Enforcement and Removal Operations, Phoenix, Arizona.
|  | Deputy Assistant Director, Domestic Operations.
|  | Assistant Director for Detention Oversight and Inspections.
|  | Director, Joint Task Force—Investigations.
|  | Chief Counsel for Los Angeles.
|  | Chief Counsel for Miami.
|  | Field Office Director, Office of Enforcement and Removal, New Orleans, Louisiana.
|  | Field Office Director, Office of Enforcement and Removal Operations, Miami, Florida.
|  | Assistant Director, Homeland Security Investigative Programs.
|  | Special Agent In Charge, Denver.
|  | Assistant Director, Homeland Security Investigations (Intellectual Property Rights Center).
|  | Field Office Director, Office of Enforcement and Removal, Houston, Texas.
|  | Field Office Director, Office of Enforcement and Removal, Chicago, Illinois.
|  | Field Office Director, Office of Enforcement and Removal, Atlanta, Georgia.
|  | Field Office Director, Office of Enforcement and Removal, El Paso, Texas.
|  | Assistant Director, Enforcement and Removal Operations, Law Enforcement Systems and Analysis Division.
|  | Deputy Chief Information Officer.
|  | Special Agent In Charge, Detroit.
|  | Executive Director, Law Enforcement Information Sharing Initiative.
|  | Deputy Assistant Director, Office of Enforcement and Removal Operations, Field Operations.
|  | Assistant Director, Office of Investigations (Domestic Operations).
|  | Deputy Assistant Director, Homeland Security Investigative Services.
|  | Deputy Director, Enforcement and Removal Operations.
|  | Deputy Principal Legal Advisor for Headquarters.
|  | Deputy Principal Legal Advisor for Field Operations.
|  | Chief Counsel, New York.
|  | Deputy Director, Medical Affairs, Office of Enforcement and Removal Operations.
|  | Assistant Director, Enforcement and Removal Operations, Custody Operations Division.
|  | Assistant Director, Operations Support, Office of Enforcement and Removal Operations.
|  | Field Office Director, Office of Enforcement and Removal Operations, San Antonio, Texas.
|  | Field Office Director, Office of Enforcement and Removal Operations, San Diego, California.
|  | Director, Office of Training and Development.
|  | Division Director for Investigations, Office of Professional Responsibility.
|  | Deputy Assistant Director, Office of Professional Responsibility.
|  | Assistant Director, Information Governance.
|  | Assistant Director, Enforcement and Removal Operations, Field Operations.
|  | Deputy Chief Financial Officer.
|  | Deputy Director, International Affairs.
|  | Special Agent In Charge, Washington, District of Columbia.
|  | Special Agent In Charge, Atlanta.
|  | Director, Financial Management.
|  | Assistant Director, Enforcement and Removal Operations, Repatriation Division.
|  | Chief Financial Officer.
|  | Director, Office of Procurement.
|  | Assistant Director for Secure Communities and Enforcement, Office of Enforcement and Removal Operations.
|  | Executive Director, Management and Administration.
|  | Deputy Director, International Criminal Police Organization (Interpol).
|  | Chief Information Officer.
|  | Director, Budget and Program Performance.
|  | Deputy Assistant Director, Critical Infrastructure, Protection, and Fraud.
|  | Assistant Director, Diversity and Civil Rights.
|  | Deputy Director, Joint Task Force East—Operations.
|  | Deputy Assistant Secretary for Immigration and Customs Enforcement.
|  | Assistant Director, Human Resources Management.
|  | Deputy Principal Legal Advisor.
|  | Director, Office of Homeland Security Investigations.
|  | Deputy Director, Office of Homeland Security Investigations.
|  | Special Agent In Charge (New York).
|  | Deputy Assistant Director (National Security Investigations).
|  | Special Agent In Charge, Miami.
|  | Special Agent In Charge, San Francisco.
|  | Special Agent In Charge, Dallas.
|  | Assistant Director, Office of Professional Responsibility.
|  | Special Agent In Charge, San Diego.
|  | Special Agent In Charge, San Antonio.
|  | Special Agent In Charge, New Orleans.
|  | Special Agent In Charge, Los Angeles.
|  | Special Agent In Charge, Houston.
|  | Special Agent In Charge, Chicago.
|  | Director, Intelligence, Homeland Security Investigations.
|  | Director, International Affairs.
|  | Deputy Assistant Director (Financial, Narcotics and Public Safety).
|  | Special Agent In Charge, Seattle.
|  | Director, Office of Enforcement and Removal Operations.
|  | Director of Enforcement and Litigation.
|  | Deputy Assistant Director, Mission Support.
|  | Senior Policy Administrator, Brussels.
|  | Field Office Director, Office of Enforcement and Removal Operations, Philadelphia, Pennsylvania.
|  | Field Office Director, Office of Enforcement and Removal, Seattle.
|  | Deputy Director, Joint Task Force West—Operations.
|  | Special Agent In Charge, El Paso.
|  | Special Agent In Charge, Phoenix.
|  | Chief Counsel, San Antonio.
|  | Chief Counsel, Chicago, Immigration, Customs and Enforcement.
| United States Customs and Border Protection | Executive Director, Planning, Program Analysis and Evaluation.
|  | Port Director, John F. Kennedy Airport.
|  | Deputy Chief Patrol Agent, El Paso.
|  | Assistant Commissioner, Technology Innovation and Acquisition.
|  | Deputy Chief Patrol Agent, Rio Grande Valley.
|  | Port Director, Los Angeles/Long Beach Seaport.
|  | Chief Patrol Agent, Tucson.
|  | Executive Director, Customs and Border Protection Basic Training.
|  | Executive Director, Procurement.
|  | Assistant Commissioner, Administration.
|  | Executive Director, Mission Support.
|  | Executive Director, Agriculture Programs and Trade Liaison.
|  | Port Director, Los Angeles Airport.
|  | Director, Field Operations, Boston.
|  | Director, Field Operations, Tucson.
|  | Port Director, San Francisco.
|  | Executive Director, National Targeting Center.
|  | Deputy Assistant Commissioner, International Trade.
|  | Assistant Commissioner, Internal Affairs.
|  | Director, Field Operations, San Juan.
|  | Associate Chief Counsel, Los Angeles.
|  | Associate Chief Counsel, Houston.
|  | Associate Chief Counsel, Chicago.
|  | Associate Chief Counsel, New York.
|  | Associate Chief Counsel, Southeast.
|  | Associate Chief Counsel for Ethics, Labor, and Employment.
|  | Associate Chief Counsel, Trade and Finance.
|  | Associate Chief Counsel, Enforcement.
|  | Director, Field Operations, El Paso.
|  | Chief Patrol Agent, San Diego.
|  | Chief Patrol Agent, El Paso.
|  | Director, Field Operations, San Francisco.
|  | Chief Patrol Agent, Laredo.
|  | Chief (Executive Assistant Commissioner), United States Border Patrol.
|  | Deputy Assistant Commissioner, Air and Marine.
|  | Director, Field Operations, San Diego.
|  | Director, Field Operations, Laredo.
|  | Director, Field Operations, Houston.
|  | Director, Field Operations, Los Angeles.
|  | Director, Field Operations, Chicago.
|  | Director, Field Operations, Miami.
|  | Port Director, Miami International Airport.
|  | Port Director, Newark.
|  | Chief Accountability Officer.
|  | Director, Field Operations, New York.
|  | Deputy Assistant Commissioner, Office of Training and Development.
|  | Director, Field Operations, Buffalo.
|  | Director, Field Operations, Detroit.
|  | Director, Field Operations, Seattle.
|  | Executive Director, Operations.
|  | Deputy Chief, Border Patrol.
|  | Deputy Assistant Commissioner, Field Operations.
|  | Assistant Commissioner, Field Operations.
|  | Executive Director, Laboratories and Scientific Services.
|  | Assistant Commissioner, Information and Technology.
|  | Deputy Director, Procurement.
|  | Executive Director, Budget.
|  | Chief Financial Officer.
|  | Executive Director, Regulations and Rulings.
|  | Executive Director, Regulatory Audit.
|  | Assistant Commissioner, Office of International Trade.
|  | Assistant Commissioner, Training and Development.
|  | Executive Director, Facilities Management and Engineering.
|  | Executive Director, Labor and Employee Relations.
|  | Deputy Assistant Commissioner, Human Resources Management.
|  | Assistant Commissioner, Human Resources Management.
|  | Deputy Commissioner.
|  | Deputy Chief Counsel.
|  | Executive Director, Investigative Operations.
|  | Executive Director, Program.
|  | Director, Counter Network.
|  | Deputy Joint Field Commander, East.
|  | Director, National Targeting Center (Cargo).
|  | Director, Leadership Development Center.
|  | Director, Joint Task Force, West Commander, Laredo, Texas.
|  | Senior Advisor.
|  | Executive Director, National Programs.
|  | Executive Director, Privacy and Diversity.
|  | Assistant Commissioner, International Affairs.
|  | Director, National Targeting Center (Passenger).
|  | Executive Director, Programming.
|  | Deputy Joint Field Commander, Arizona, Joint Operations Directorate.
|  | Joint Field Commander, Arizona, Joint Operations Directorate.
|  | Assistant Commissioner, Office of Intelligence.
|  | Executive Director, Automated Commercial Environment (ACE) Business Office.
|  | Executive Director, Acquisition Management.
|  | Executive Director, Joint Operations Directorate.
|  | Director, Field Operations (Preclearance).
|  | Deputy Assistant Commissioner, International Affairs.
|  | Port Director, San Ysidro.
|  | Deputy Chief Patrol Agent, Tucson.
|  | Chief Patrol Agent, El Centro, California.
|  | Deputy Chief Patrol Agent, San Diego.
|  | Executive Director, Program Management Office.
|  | Director of Operations, Northern Region, Detroit, Office of Customs and Border Protection (CBP) Air and Marine.
|  | Director of Operations, Southeastern Region, Miami, Florida, Office of Customs and Border Protection (CBP) Air and Marine.
|  | Director, Air and Marine Operations Center, Riverside, Office of Customs and Border Protection (CBP) Air and Marine.
|  | Executive Director, Intelligence and Targeting.
|  | Director of Operations, Southwest Border, Albuquerque, New Mexico, Office of Customs and Border Protection (CBP) Air and Marine.
|  | Executive Director, Passenger Systems Program Office.
|  | Executive Director, National Air Security Operations, Office of Customs and Border Protection (CBP) Air and Marine.
|  | Executive Director, Training, Safety and Standards.
|  | Executive Director, Human Resources Operations, Programs and Policy.
|  | Executive Director, Commercial Targeting and Enforcement.
|  | Executive Director, Financial Operations.
|  | Port Director, Laredo.
|  | Deputy Assistant Commissioner, Office of Intelligence.
|  | Chief, Strategic Planning and Analyses.
|  | Director of Operations, Air and Marine.
|  | Executive Director, Trade Policy and Programs.
|  | Deputy Assistant Commissioner, Technology Innovation and Acquisition.
|  | Executive Director, Mission Support, Office of Customs and Border Protection (CBP) Air and Marine.
|  | Deputy Chief, Law Enforcement Operations, Office of Border Patrol.
|  | Deputy Assistant Commissioner, Internal Affairs.
|  | Executive Director, Enterprise Data Management and Engineering.
|  | Executive Director, Targeting and Analysis Systems.
|  | Executive Director, Field Support.
|  | Executive Director, Cargo Systems.
|  | Deputy Chief, Operational Programs, Office of Border Patrol.
|  | Chief Patrol Agent, Yuma, Arizona.
|  | Executive Director, Admissibility and Passenger Programs.
|  | Chief Patrol Agent, Del Rio.
|  | Assistant Commissioner, Air and Marine.
|  | Deputy Director, Policy and Planning.
|  | Executive Director, Cargo and Conveyance Security.
|  | Director, Field Operations, Atlanta.
|  | Chief, Law Enforcement Operations, Office of Border Patrol.
|  | Executive Director, Enterprise Networks and Technology Support.
|  | Executive Director, Mission Readiness Operations Directorate.
|  | Chief Patrol Agent, Rio Grande Valley.
|  | Deputy Assistant Commissioner, Information and Technology.
|  | Port Director, El Paso.
| Federal Law Enforcement Training Center | Assistant Director (Policy and Strategy). Assistant Director (Mission and Readiness Support Directorate).
|  | Assistant Director (Chief Financial Officer).
|  | Assistant Director (Washington Operations).
|  | Assistant Director (Regional and International Training Directorate).
|  | Director, Federal Law Enforcement Training Center.
|  | Chief Counsel.
|  | Assistant Director (Glynco Training Directorate).
|  | Assistant Director (Centralized Training Management Directorate).
|  | Deputy Director, Federal Law Enforcement Training Center.
|  | Assistant Director (Chief Information Officer Directorate).
| Federal Emergency Management Agency | Deputy Regional Administrator (Region II New York). Deputy Regional Administrator (Region I, Boston).
|  | Deputy Regional Administrator, Region VI, Denton.
|  | Deputy Assistant Administrator, National Preparedness Directorate.
|  | Deputy Regional Administrator, Region IV, Atlanta.
|  | Chief Learning Officer.
|  | Deputy Principal Legal Advisor for Management.
|  | Director, National Disaster Recovery Planning Division.
|  | Chief, Enterprise Business Unit.
|  | Chief Security Officer.
|  | Chief Technology Officer.
|  | Senior Counselor to the Administrator and International Relations Officer.
|  | Director, Emergency Communication Division.
|  | Chief Administrative Officer.
|  | Deputy Associate Administrator for Policy, Program Analysis and International Affairs.
|  | Director, Technological Hazards Division.
|  | Director, Financial Management Division.
|  | Deputy Assistant Administrator, Grants Program.
|  | Deputy Chief Counsel.
|  | Superintendent, Center for Domestic Preparedness.
|  | Deputy Director, External Affairs.
|  | Executive Director for Readiness.
|  | Deputy Chief Information Officer (Disaster Operations), Mission Support Directorate.
|  | Deputy Assistant Administrator for Response.
|  | Deputy Assistant Administrator for Mitigation.
|  | Director, Acquisition Operations Division.
|  | Executive Director, Insurance Acquisition and Technology Support Division.
|  | Deputy Associate Administrator, Mission Support Bureau.
|  | Chief Procurement Officer.
|  | Director, National Exercise Division.
|  | Chief Financial Officer.
|  | Planning Division Director, Office of Response and Recovery.
|  | Deputy Chief Component Human Capital Officer.
|  | Assistant Administrator for Insurance.
|  | Assistant Administrator for Risk Management.
|  | Director, Grants Management Division.
|  | Director, National Processing Service Center.
|  | Deputy Assistant Administrator, Federal Insurance and Mitigation Administration.
|  | Deputy Chief Financial Officer.
|  | Assistant Administrator for Mitigation.
|  | Deputy Assistant Administrator for Insurance.
|  | Senior Advisor for Financial Management Operations.
|  | Deputy Regional Administrator (Region X, Seattle).
|  | Deputy Regional Administrator (Region IX, San Francisco).
|  | Deputy Regional Administrator (Region VIII, Denver).
|  | Deputy Regional Administrator (Region VII, Kansas).
|  | Deputy Regional Administrator (Region V Chicago).
|  | Deputy Regional Administrator (Region III, Philadelphia).
| Office of the Chief Security Officer | Chief Personnel Security Officer.
|  | Chief Security Officer.
|  | Chief, Counterintelligence and Investigations.
|  | Deputy Chief Security Officer.
| Office of the Chief Financial Officer | Director, Resource Management Transformation Office.
|  | Director, Financial Management.
|  | Director, Office of Budget.
|  | Deputy Budget Director, Office of Budget.
|  | Director, Departmental General Accounting Office/Inspector General (Gao/Ig) Liaison Office.
|  | Director, Financial Risk Management and Assurance.
| Office of the Chief Procurement Officer | Deputy Director, Office of Procurement Operations.
|  | Deputy Chief Procurement Officer.
|  | Chief Procurement Officer.
|  | Director, Policy and Acquisition Workforce (PAW).
|  | Executive Director, Office of Procurement Operations.
|  | Director, Procurement Policy and Oversight.
|  | Executive Director, Program Accountability and Risk Management Office.
|  | Director, Oversight and Strategic Support.
| Office of the Chief Human Capital Officer | Deputy Chief Human Capital Officer. Executive Director, Human Capital Policy and Programs.
|  | Executive Director, Human Capital Business Systems.
|  | Executive Director, Diversity and Inclusion.
|  | Deputy Chief Learning Officer.
|  | Executive Director Cyber skills Management Support Initiative.
|  | Executive Director, Human Resources Management and Services.
| Office of the Chief Information Officer | Director of Service Operations.
|  | Director, Enterprise Business Management Office.
|  | Executive Director, Chief Information Security Officer.
|  | Deputy Executive Director, Information Technology Services Office.
|  | Deputy Chief Information Officer.
|  | Executive Director, Customer Relationship Management Division.
|  | Executive Director, Enterprise System Development Office.
|  | Senior Advisor, Chief Information Officer.
|  | Executive Director, Office of Applied Technology (Chief Technology Officer).
|  | Executive Director, Information Sharing.
| Office of the Chief Readiness Support Officer | Deputy Chief Readiness Support Officer, Operations Support. Deputy Chief Readiness Support Officer.
|  | Director, Headquarters Management and Development.
|  | Director, Safety and Environmental Programs.
|  | Director of Asset and Logistics Management.
| Office of the Under Secretary for Science and Technology | Director, Interagency Office. Director, Test and Evaluation.
|  | Director, Borders and Maritime Security Division.
|  | Director, Chemical Biological Defense Division.
|  | Deputy Director, Homeland Security Advanced Research Projects Agency.
|  | Director, Finance and Budget Division.
|  | Director, Infrastructure Protection and Disaster Management Division.
|  | Director, Explosives Division.
|  | Director, Office of National Laboratories.
|  | Director, Cyber Security Division.
|  | Director, Research and Development Partnerships.
|  | Director, Capability Development Support.
|  | Director, Office for Interoperability and Compatibility.
|  | Executive Director, National Bio and Agro-Defense Facility.
DEPARTMENT OF HOMELAND SECURITY, OFFICE OF THE INSPECTOR GENERAL | Office of the Inspector General | Assistant Inspector General, Integrity and Quality Oversight. Assistant Inspector General for Management.
|  | Deputy Assistant Inspector General for Management.
|  | Deputy Assistant Inspector General for Investigations.
|  | Deputy Assistant Inspector General, Audits.
|  | Chief of Staff.
|  | Deputy Inspector General.
|  | Deputy Assistant Inspector General, Audits.
|  | Deputy Assistant Inspector General, Emergency Management Oversight.
|  | Assistant Inspector General for Emergency Management Oversight.
|  | Assistant Inspector General, Inspections.
|  | Assistant Inspector General, Information Technology Audits.
|  | Assistant Inspector General, Investigations.
|  | Counsel to the Inspector General.
|  | Assistant Inspector General, Audits.
|  | Deputy Assistant Inspector General for Investigations.
DEPARTMENT OF HOUSING AND URBAN DEVELOPMENT | Office of the Administration | Chief Disaster and National Security Officer. Deputy Assistant Secretary for Business Management and Administration.
| Office of the Chief Human Capital Officer | Director, Office of Human Capital Services. Deputy Chief Human Capital Officer.
|  | Chief Learning Officer.
| Office of the Chief Financial Officer | Assistant Chief Financial Officer for Systems.
|  | Assistant Chief Financial Officer for Accounting.
|  | Deputy Chief Financial Officer.
|  | Assistant Chief Financial Officer for Budget.
|  | Assistant Chief Financial Officer for Financial Management.
|  | Deputy Assistant Chief Financial Officer for Budget.
| Office of the Chief Information Officer | Deputy Chief Information Officer—Office of Customer Relationship and Performance Management.
|  | Deputy Chief Information Officer for Business and Information Technology Resource Management Officer.
|  | Principal Deputy Chief Information Officer.
|  | Deputy Chief Information Officer for Infrastructure and Operations.
| Office of the Chief Procurement Officer | Deputy Chief Procurement Officer.
| Office of Community Planning and Development | Deputy Assistant Secretary for Special Needs Programs.
| Office of Departmental Equal Employment Opportunity | Director, Office of Departmental Equal Employment Opportunity.
| Office of the General Counsel | Associate General Counsel for Program Enforcement.
|  | Director, Departmental Enforcement Center.
| Government National Mortgage Association | Senior Vice President Office of Capital Markets. Senior Vice President, Office of Program Operations.
|  | Senior Vice President for Mortgage-Backed Securities.
|  | Senior Vice President of Administration and Senior Advisor to the Office of the President.
|  | Senior Vice President, Office of Enterprise Data and Technology Solutions.
|  | Senior Vice President and Chief Financial Officer.
|  | Senior Vice President and Chief Risk Officer.
| Office of Housing | Associate Deputy Assistant Secretary for Healthcare Programs.
|  | Housing Federal Housing Administration, Comptroller.
|  | Director, Program Systems Management Office.
|  | Deputy Assistant Secretary for Healthcare Programs.
|  | Housing Federal Housing Administration Deputy Comptroller.
|  | Deputy Assistant Secretary for Finance and Budget.
| Office of Policy Development and Research | Associate Deputy Assistant Secretary for Policy Development.
| Office of Public and Indian Housing | Deputy Assistant Secretary for the Real Estate Assessment Center.
|  | Director for Budget and Financial Management.
|  | Deputy Assistant Secretary for Public Housing Investments.
|  | General Deputy Assistant Secretary for Public and Indian Housing.
DEPARTMENT OF HOUSING AND URBAN DEVELOPMENT OFFICE OF THE INSPECTOR GENERAL | Office of the Inspector General | Assistant Inspector General for Office of Management and Technology. Deputy Assistant Inspector General for Audit—Special Operations.
|  | Deputy Assistant Inspector General for Audit (Field Operations).
|  | Deputy Assistant Inspector General for Investigation (Field Operations).
|  | Deputy Assistant Inspector General for Information Technology.
|  | Counsel to the Inspector General.
|  | Deputy Assistant Inspector General for Investigation (Headquarters Operations).
|  | Deputy Assistant Inspector General for Management.
|  | Deputy Inspector General.
|  | Assistant Inspector General for Audit.
|  | Assistant Inspector General for Investigation.
|  | Assistant Inspector General for Office of Evaluation.
DEPARTMENT OF THE INTERIOR | Office of the Solicitor | Designated Agency Ethics Official. Associate Solicitor for Administration.
| Office of Assistant Secretary—Policy, Management and Budget | Chief, Division of Budget and Program Review. Chief, Diversity Officer/Director, Office of Civil Rights.
|  | Deputy Assistant Secretary, Public Safety, Resource Protection and Emergency Services.
|  | Deputy Assistant Secretary, Human Capital and Diversity.
|  | Director, Office of Emergency Management.
|  | Director, Office of Law Enforcement and Security.
|  | Deputy Director, Office of Financial Management.
|  | Director, Office of Human Resources.
|  | Director, Office of Financial Management and Deputy Chief Financial Officer.
|  | Deputy Assistant Secretary, Budget, Finance, Performance and Acquisition.
|  | Chief, Budget Administration and Departmental Management.
| Office of Natural Resources Revenue Management | Deputy Director, Office of Natural Resources Revenue Management.
|  | Program Director for Coordination, Enforcement, Valuation and Appeals.
|  | Program Director for Financial and Production Management.
|  | Program Director for Audit and Compliance Management.
| Office of Hearings and Appeals | Director, Office of Hearings and Appeals.
| United States Fish and Wildlife Service | Chief, Office of Law Enforcement.
| National Park Service | Associate Director Interpretation and Education.
|  | Financial Advisor (Comptroller).
|  | Chief Financial Officer.
| Field Offices | Park Manager.
|  | Park Manager (Superintendent).
| Bureau of Reclamation | Director, Management Services Office.
|  | Director, Safety, Security, and Law Enforcement.
| United States Geological Survey | Director, Earth Resources Observation and Science Center and Space Policy Advisor.
|  | Associate Director for Water.
|  | Associate Director for Ecosystems.
|  | Director, Office of Science Quality and Integrity.
|  | Associate Director for Core Science Systems.
|  | Chief Scientist for Hydrology.
|  | Principal Deputy Director.
|  | Associate Director for Administration.
|  | Deputy Director, United States Geological Survey.
|  | Associate Director for Human Capital.
|  | Associate Director for Communications and Publishing.
|  | Associate Director for Budget, Planning, and Integration.
|  | Chief, Geospatial Information, Integration and Analysis.
|  | Associate Director for Natural Hazards.
|  | Associate Director for Climate Variability and Land Use Change.
|  | Associate Director for Energy and Minerals.
| Field Offices | Regional Director—Midwest.
|  | Regional Director—Northwest.
|  | Regional Director—Pacific.
|  | Regional Director—Alaska.
|  | Regional Director—Southeast.
|  | Regional Director—Northeast.
|  | Regional Director—Southwest.
| Bureau of Land Management | Assistant Director, Human Capital Management.
| Field Offices | Director, National Operations Center.
|  | Regional Director Mid Continent Regional Coordinating Center.
|  | Regional Director, Appalachian Region.
| Bureau of Ocean Energy Management | Strategic Resources Chief.
| Office of Assistant Secretary—Indian Affairs | Director of Human Capital Management.
DEPARTMENT OF THE INTERIOR, OFFICE OF THE INSPECTOR GENERAL | Office of the Inspector General | Senior Advisor. Associate Inspector General for Communication. Chief of Staff (2). Deputy Inspector General.
| Office of General Counsel | General Counsel.
| Office of Recovery and Accountability | Assistant Inspector General for Recovery Oversight.
| Office of Investigations | Assistant Inspector General for Investigations.
| Office of Management | Deputy Assistant Inspector General for Management.
|  | Assistant Inspector General for Management.
| Office of Information Technology | Assistant Inspector General for Information Technology.
| Office of Audits, Inspections, and Evaluations | Deputy Assistant Inspector General for Compliance and Finance.
|  | Assistant Inspector General for Audits, Inspections, and Evaluations.
DEPARTMENT OF JUSTICE | Office of the Deputy Attorney General | Director, Office of Privacy and Civil Liberties.
|  | Chief, Professional Misconduct Review Unit.
| Office of the Legal Counsel | Special Counsel (2).
| Office of Professional Responsibility | Deputy Counsel on Professional Responsibility.
|  | Counsel on Professional Responsibility.
| Justice Management Division | General Counsel.
|  | Director, Procurement Services Staff.
|  | Deputy Assistant Attorney General for Information Resources Management/Chief Information Officer.
|  | Director, Debt Collection Management Staff.
|  | Director, Budget Staff.
|  | Deputy Director, Budget Staff, Operations and Funds Control.
|  | Director, Departmental Ethics Office.
|  | Director, Enterprise Solutions Staff.
|  | Director, Equal Employment Opportunity Staff.
|  | Director, Office of Attorney Recruitment and Management.
|  | Deputy, Chief Information Officer for E-Government Services Staff.
|  | Director, Finance Staff.
|  | Director, Service Delivery Staff.
|  | Deputy Director, Service Delivery Staff.
|  | Deputy Assistant Attorney General (Controller).
|  | Director, Service Engineering Staff.
|  | Senior Advisor.
|  | Director, Cybersecurity Services Staff.
|  | Chief Technology Officer.
|  | Deputy Chief Information Officer.
|  | Deputy Director, Human Resources.
|  | Deputy Director, Auditing, Finance Staff.
|  | Deputy Director, Budget Staff, Programs and Performance.
|  | Director, Operations Services Staff.
|  | Director, Information Technology Policy and Planning Staff.
|  | Director, Security and Emergency Planning Staff.
|  | Director, Human Resources.
|  | Deputy Assistant Attorney General, Policy, Management, and Planning.
|  | Assistant Attorney General for Administration.
|  | Director, Asset Forfeiture Management Staff.
|  | Director, Facilities and Administrative Services Staff.
|  | Director, Library Staff.
|  | Deputy Assistant Attorney General for Human Resources and Administration.
| Professional Responsibility Advisory Office | Director, Professional Responsibility Advisory Office.
| Federal Bureau of Prisons | Regional Director, Western Region.
|  | Regional Director, North Central Region.
|  | Regional Director, Southeast Region.
|  | Chief, Office of Public Affairs.
|  | Assistant Director, Health Services Division.
|  | Senior Deputy Assistant Director, Industries, Education, and Vocational Training Division.
|  | Senior Deputy General Counsel, Office of the General Counsel.
|  | Senior Deputy Assistant Director, Program Review Division.
|  | Warden Federal Correctional Institution, Thomson, Illinois.
|  | Warden, Federal Correctional Institution, Fort Worth, Texas.
|  | Senior Deputy Assistant Director, Administration Division.
|  | Assistant Director, Reentry Services Division.
|  | Senior Deputy Assistant Director, Information, Policy, and Public Affairs Division.
|  | Senior Deputy General Counsel, Office of General Counsel.
|  | Assistant Director, Information, Policy and Public Affairs.
|  | Senior Deputy Assistant Director, Health Services Division.
|  | Senior Deputy Assistant Director, Industries, Education and Vocational Training Division.
|  | Warden, Federal Correctional Institution, Mendota, California.
|  | Warden, Federal Correctional Institution, Williamsburg, South Carolina.
|  | Warden, Federal Correctional Institution, Bennettsville, South Carolina.
|  | Warden, Federal Correctional Institution, Manchester, Kentucky.
|  | Warden, Federal Correctional Institution, Gilmer, West Virginia.
|  | Warden, Federal Correctional Institution, Sheridan, Oregon.
|  | Warden, Federal Correctional Institution, Memphis, Tennessee.
|  | Warden, Metropolitan Detention Center, Guaynabo, Puerto Rico.
|  | Warden, Federal Correctional Institution, Three Rivers, Texas.
|  | Warden, Federal Correctional Institution, Schuylkill, Pennsylvania.
|  | Warden, Federal Correctional Institution, Pekin, Illinois.
|  | Warden, Federal Correctional Institution, Mckean, Pennsylvania.
|  | Warden, Federal Correctional Institution, Greenville, Illinois.
|  | Warden, Federal Correctional Institution, Cumberland, Maryland.
|  | Complex Warden, United States Penitentiary, Tucson, Arizona.
|  | Warden, United States Penitentiary Coleman-I, Coleman, Florida.
|  | Senior Deputy Assistant Director Re-Entry Services Division.
|  | Warden, Federal Correctional Complex, Forrest City, Arkansas.
|  | Warden, United States Penitentiary, Canaan, Pennsylvania.
|  | Complex Warden, Federal Correctional Complex, Yazoo City, Mississippi.
|  | Warden, United States Penitentiary, Hazelton, West Virginia.
|  | Complex Warden, Federal Correctional Complex, Petersburg, Virginia.
|  | Warden, United States Penitentiary, McCrery, Kentucky.
|  | Complex Warden, Federal Correctional Complex, Victorville, California.
|  | Warden, United States Penitentiary, Pollock, Louisiana.
|  | Warden, Federal Correctional Institution, Jessup, Georgia.
|  | Warden, Federal Correctional Complex, Bunter, North Carolina.
|  | Warden, Federal Correctional Complex, Terre Haute, Indiana.
|  | Assistant Director, Industries, Education, and Vocational Training Division.
|  | Warden, United States Penitentiary, Marion, Illinois.
|  | Warden, Federal Medical Center, Lexington, Kentucky.
|  | Warden, United States Medical Center Federal Prisoners, Springfield, Missouri.
|  | Warden, Federal Correctional Complex, Lompoc, California.
|  | Warden, United States Penitentiary, Lewisburg, Pennsylvania.
|  | Warden, United States Penitentiary, Leavenworth, Kansas.
|  | Warden, United States Penitentiary, Atlanta, Georgia.
|  | Regional Director, South Central Region.
|  | Regional Director, Northeast Region.
|  | Assistant Director, Office of General Counsel.
|  | Assistant Director, Correctional Programs Division.
|  | Assistant Director for Administration.
|  | Warden, Metropolitan Detention Center, Los Angeles, California.
|  | Warden, Federal Medical Center, Devens, Massachusetts.
|  | Warden, Federal Correctional Institution, Edgefield, South Carolina.
|  | Assistant Director, Program Review Division.
|  | Warden, Federal Correctional Institution, Fairton, New Jersey.
|  | Warden, Federal Detention Center, Miami, Florida.
|  | Warden, Federal Correctional Institution, El Reno, Oklahoma.
|  | Senior Deputy Assistant Director, Human Resources Management Division.
|  | Warden, Federal Transfer Center, Oklahoma City, Oklahoma.
|  | Warden, Federal Correctional Complex, Allenwood, Pennsylvania.
|  | Warden, Federal Medical Center, Carswell, Texas.
|  | Warden, Federal Correctional Complex, Oakdale, Louisiana.
|  | Warden, United States Penitentiary-High, Florence, Colorado.
|  | Warden, Federal Correctional Complex, Florence, Colorado.
|  | Warden, Federal Correctional Institution, Fort Dix, New Jersey.
|  | Warden, Federal Correctional Institution, Talladega, Alabama.
|  | Deputy Director.
|  | Regional Director Middle Atlantic Region.
|  | Warden, Federal Medical Center, Rochester, Minnesota.
|  | Warden, Federal Correctional Institution, Phoenix, Arizona.
|  | Senior Deputy Assistant Director, Correctional Programs Division.
|  | Assistant Director Human Resources Management Division.
|  | Warden, Federal Correctional Institution, Marianna, Florida.
|  | Warden, Metropolitan Detention Center, Brooklyn, New York.
|  | Warden, Federal Correctional Institution, Otisville, New York.
|  | Warden, Federal Correctional Institution, Beckley, West Virginia.
|  | Warden, Federal Correctional Complex, Coleman, Florida.
|  | Warden, Federal Correctional Complex, Beaumont, Texas.
|  | Senior Deputy Assistant Director, Information, Policy, and Public Affairs Division.
|  | Senior Deputy Assistant Director Administration Division.
|  | Warden, Metropolitan Correctional Center, New York, New York.
|  | Warden, United States Penitentiary, Atwater, California.
|  | Warden, United States Penitentiary, Lee, Virginia.
|  | Senior Counsel, Office of General Counsel.
|  | Warden, United States Penitentiary, Big Sandy, Kentucky.
| Executive Office for Immigration Review | Deputy Chief Immigration Judge. Assistant Director for Administration.
|  | Vice Chairman, Board of Immigration Appeals.
|  | Chief Administrative Hearing Officer.
|  | General Counsel.
|  | Chairman, Board of Immigration Appeals.
|  | Chief Immigration Judge.
| Criminal Division | Counselor for Transnational Organized Crime and International Affairs.
|  | Chief, Computer Crime and Intellectual Property Section.
|  | Chief, Human Rights and Special Prosecutions Section.
|  | Chief, Narcotic and Dangerous Drug Section.
|  | Chief, Public Integrity Section.
|  | Chief, Fraud Section.
|  | Chief, Appellate Section.
|  | Chief, Organized Crime and Gang Section.
|  | Deputy Chief Public Integrity Section.
|  | Chief, Asset Forfeiture and Money Laundering Section.
|  | Deputy Chief for Litigation.
|  | Executive Officer.
|  | Deputy Chief, Appellate Section.
|  | Director, International Criminal Investigative Training Assistance Program.
|  | Chief, Child Exploitation and Obscenity Section.
|  | Deputy Chief for Organized Crime and Gang Section.
|  | Senior Counsel for Cybercrime.
|  | Director, Office of Overseas Prosecutorial Development, Assistance, and Training.
|  | Deputy Chief, Narcotic and Dangerous Drug Section.
|  | Deputy Chief, Computer Crime and Intellectual Property Section.
|  | Deputy Chief, Asset Forfeiture and Money Laundering Section.
| National Security Division | Chief, Operations Section.
|  | Deputy Assistant Attorney General, Foreign Intelligence Surveillance Act, Operations and Intelligence Oversight.
|  | Executive Officer.
|  | Special Counsel for National Security.
|  | Director of Risk Management and Senior Counsel.
|  | Chief, Oversight Section.
|  | Director, Freedom of Information Act and Declassification Program.
|  | Chief, Appellate Unit.
|  | Deputy Chief, Operations Section.
|  | Deputy Chief, Counterterrorism Section.
|  | Deputy Chief, Counterespionage Section.
|  | Chief, Foreign Investment Review Staff.
| Executive Office for United States Attorneys | Chief Human Resources Officer. Deputy Director.
|  | Counsel, Legal Programs and Policy.
|  | Chief, Information Officer.
|  | Deputy Director for Administration and Management.
|  | Chief Financial Officer.
|  | Associate Director, Office of Legal Education.
|  | General Counsel.
| United States Marshals Service | Assistant Director for Prisoner Operations.
|  | Assistant Director, Justice Prisoner and Alien Transportation System (JPATS).
|  | Associate Director, Administration.
|  | Associate Director, Operations.
|  | Principal Deputy General Counsel.
|  | Assistant Director, Information Technology.
|  | Deputy Director.
|  | Assistant Director, Asset Forfeiture.
|  | Assistant Director, Management Support.
|  | Assistant Director, Witness Security.
|  | Assistant Director, Financial Services.
|  | Assistant Director, Human Resources.
|  | Assistant Director, Training.
|  | Assistant Director, Investigative Operations.
|  | Principal Deputy General Counsel.
|  | Deputy Assistant Director Acquisition and Procurement.
|  | Assistant Director Judicial Security.
|  | Assistant Director Office of Inspection.
|  | Assistant Director, Tactical Operations.
| Bureau of Alcohol, Tobacco, Firearms and Explosives | Special Agent In Charge, National Center for Explosives Training and Research.
|  | Deputy Director.
|  | Executive Assistant to the Director.
|  | Deputy Assistant Director, Field Operations (Programs).
|  | Deputy Assistant Director, Industry Operations.
|  | Chief, Special Operations Division.
|  | Deputy Director, Terrorist Explosive Device Analytical Center.
|  | Special Agent In Charge, Denver.
|  | Special Agent In Charge, Newark.
|  | Special Agent In Charge, Baltimore.
|  | Special Agent In Charge, New Orleans.
|  | Special Agent In Charge, Columbus.
|  | Special Agent In Charge, Tampa.
|  | Special Agent In Charge, Seattle.
|  | Special Agent In Charge, Louisville.
|  | Special Agent In Charge, Detroit.
|  | Special Agent In Charge, Charlotte.
|  | Special Agent In Charge, Miami.
|  | Special Agent In Charge, San Francisco.
|  | Special Agent In Charge, Phoenix.
|  | Special Agent In Charge, Philadelphia.
|  | Special Agent In Charge, Kansas City.
|  | Special Agent In Charge, Chicago.
|  | Special Agent In Charge, Boston.
|  | Special Agent In Charge, Atlanta.
|  | Special Agent In Charge, Saint Paul.
|  | Deputy Assistant Director, Office of Public and Governmental Affairs.
|  | Assistant Director, Office of Public and Governmental Affairs.
|  | Deputy Assistant Director, Office of Strategic Intelligence and Information.
|  | Assistant Director, Office of Strategic Intelligence and Information.
|  | Special Agent In Charge, Dallas.
|  | Special Agent In Charge, Nashville.
|  | Deputy Assistant Director, Industry Operations.
|  | Deputy Assistant Director, Field Operations—East.
|  | Deputy Assistant Director, Office of Professional Responsibility and Security Operations.
|  | Special Agent In Charge, Houston.
|  | Special Agent In Charge, Washington District of Columbia.
|  | Special Agent In Charge, New York.
|  | Special Agent In Charge, Los Angeles.
|  | Deputy Assistant Director, Field Operations—West.
|  | Deputy Assistant Director, Forensic Services.
|  | Assistant Director, Science and Technology.
|  | Deputy Assistant Director for Information Technology and Deputy Chief Information Officer.
|  | Assistant Director, Management and Chief Financial Officer.
|  | Deputy Assistant Director, Management and Chief Financial Officer.
|  | Assistant Director, Office of Professional Responsibility and Security Operations.
|  | Assistant Director, Human Resources and Professional Development.
|  | Deputy Assistant Director, Human Resources and Professional Development.
|  | Deputy Assistant Director, Enforcement Programs and Services.
|  | Assistant Director, Enforcement Programs and Services.
|  | Deputy Assistant Director, Field Operations—Central.
|  | Assistant Director, Field Operations.
|  | Special Assistant to the Director.
| Antitrust Division | Director, Economic Enforcement.
|  | Chief, Telecommunications and Media Section.
|  | Executive Officer.
| Civil Division | Deputy Director, Office of Immigration Litigation, Appellate Section.
|  | Deputy Director, Consumer Protection Branch.
|  | Deputy Branch Director.
|  | Deputy Director, Appellate Staff.
|  | Appellate Litigation Counsel.
|  | Director, Office of Management Programs.
|  | Deputy Director, Commercial Litigation Branch.
|  | Deputy Branch Director, Federal Programs.
|  | Director, Consumer Protection Branch.
|  | Deputy Director, Appellate Branch.
|  | Deputy Director, Commercial Litigation Branch.
|  | Deputy Branch Director, Federal Programs.
|  | Director, Consumer Litigation Branch, Foreign Litigation Section.
|  | Special Litigation Counsel, Aviation and Admiralty Section.
|  | Deputy Director, Office of Immigration Litigation, Appellate Section.
|  | Deputy Director, Commercial Litigation Branch.
|  | Deputy Branch Director, Federal Programs.
|  | Special Immigration Counsel.
|  | Special Counsel to the Assistant Attorney General.
|  | Deputy Director, Constitutional and Specialized Tort Litigation.
| Environment and Natural Resources Division | Senior Litigation Counsel. Chief, Environmental Enforcement Section.
|  | Chief, Natural Resources Section.
|  | Chief, Land Acquisition Section.
|  | Chief, Appellate Section.
|  | Chief, Indian Resources Section.
|  | Chief, Environmental Defense Section.
|  | Deputy Chief, Environmental Enforcement Section (2).
|  | Deputy Chief, Natural Resources Section.
|  | Deputy Section Chief, Natural Resources Section.
|  | Deputy Chief, Environmental Defense Section.
|  | Deputy Chief, Appellate Section.
|  | Executive Officer.
|  | Deputy Chief, Environmental Enforcement Section.
|  | Chief, Environmental Crimes Section.
|  | Chief, Wildlife and Marine Resources Section.
| Tax Division | Special Litigation Counsel.
|  | Chief, Civil Trial Section, Western Region.
|  | Chief, Civil Trial Section, Southern Region.
|  | Chief, Civil Trial Section, Northern Region.
|  | Chief, Civil Trial Section, Central Region.
|  | Chief, Court of Federal Claims Section.
|  | Chief, Appellate Section.
|  | Chief, Criminal Enforcement Section, Western Region.
|  | Deputy Assistant Attorney General.
|  | Chief, Office of Review.
|  | Executive Officer.
|  | Chief, Civil Trial Section, Eastern Region.
|  | Chief, Civil Trial Section, Southwestern Region.
|  | Chief, Criminal Enforcement Section, South Region.
|  | Senior Litigation Counsel.
|  | Chief, Criminal Appeals and Tax Enforcement Policy Section.
|  | Chief, Criminal Enforcement Section, North Region.
| Civil Rights Division | Principal Deputy Chief, Housing and Civil Enforcement Section.
|  | Executive Officer.
|  | Principal Deputy Chief, Employment Litigation Section.
|  | Chief, Policy Strategy Section.
| Executive Office for Organized Crime Drug Enforcement Task Forces | Director, Organized Crime Drug Enforcement Task Forces.
| Office of Justice Programs | Director, Office of Audit, Assessment and Management.
|  | Deputy Chief Financial Officer.
|  | Chief Financial Officer.
|  | Director, Office of Administration.
|  | Director of Communications.
|  | Deputy Director, Office for Victims of Crime.
| National Institute of Justice | Deputy Director, National Institute of Justice, Office of Science and Technology.
| Office of Tribal Justice | Director.
DEPARTMENT OF JUSTICE, OFFICE OF THE INSPECTOR GENERAL | Audit Division | Deputy Assistant Inspector General, Audit Division. Assistant Inspector General, Audit Division.
| Evaluation and Inspections Division | Assistant Inspector General, Evaluation and Inspections Division.
| Front Office | General Counsel. Deputy Inspector General.
| Investigations Division | Deputy Assistant Inspector General, Investigations Division.
|  | Assistant Inspector General, Investigations Division.
| Management and Planning Division | Deputy Assistant Inspector General, Management and Planning.
|  | Assistant Inspector General, Management and Planning Division.
| Oversight and Review Division | Deputy Assistant Inspector General, Oversight and Review Division.
|  | Assistant Inspector General, Oversight and Review Division.
DEPARTMENT OF LABOR | Women's Bureau | Deputy Director, Women's Bureau.
| Office of Public Affairs | Senior Managing Director.
| Bureau of International Labor Affairs | Director, Office of Child Labor, Forced Labor Human Trafficking.
|  | Director, Office of Trade and Labor Affairs.
| Office of the Assistant Secretary for Policy | Director, Office of Regulatory and Programmatic Policy. Deputy Assistant Secretary for Policy.
| Office of the Solicitor | Associate Solicitor for Plan Benefits Security.
|  | Regional Solicitor—Philadelphia.
|  | Regional Solicitor—Dallas.
|  | Regional Solicitor—San Francisco.
|  | Deputy Solicitor (Regional Operations).
|  | Associate Solicitor for Fair Labor Standards.
|  | Regional Solicitor—New York.
|  | Regional Solicitor—Boston.
|  | Regional Solicitor—Chicago.
|  | Regional Solicitor—Atlanta.
|  | Associate Solicitor for Federal Employees' and Energy Workers' Compensation.
|  | Associate Solicitor for Occupational Safety and Health.
|  | Associate Solicitor for Black Lung and Longshore Legal Services.
|  | Associate Solicitor for Legal Counsel.
|  | Associate Solicitor for Civil Rights and Labor Management.
|  | Associate Solicitor, Management and Administrative Legal Services Division.
|  | Deputy Solicitor (National Operations).
|  | Associate Solicitor for Mine Safety and Health.
| Office of Chief Financial Officer | Deputy Chief Financial Officer.
|  | Associate Deputy Chief Financial Officer for Financial Systems.
| Office of the Assistant Secretary for Administration and Management | Director, Program Planning and Results Center. Deputy Chief Information Officer.
|  | Deputy Assistant Secretary for Operations.
|  | Director of Enterprise Services.
|  | Director, National Capital Service Center.
|  | Deputy Director of Human Resources.
|  | Director, Customer Service.
|  | Chief Procurement Officer.
|  | Chief Cyber Security Officer.
|  | Director of Civil Rights.
|  | Director, Business Operations Center.
|  | Director, Office of Budget.
| Office of Federal Contract Compliance Programs | Regional Director for Office of Federal Contracts Compliance Programs (6).
|  | Administrative Officer.
| Wage and Hour Division | Regional Administrator for Wage and Hour (2).
|  | Deputy Administrator for Program Operations.
|  | Assistant Administrator, Office of Government Contracts.
|  | Assistant Administrator, Operations.
| Office of Workers Compensation Programs | Comptroller. Deputy Director for Office of Workers' Compensation Programs.
|  | Director, Office of Workers' Compensation Programs.
|  | Director, Energy Employees' Occupational Illness Compensation.
|  | Regional Director (Northeast Region).
|  | Regional Director—Dallas (2).
|  | Administrative Officer.
|  | Regional Director (3).
|  | Director for Federal Employees' Compensation.
| Office of Labor-Management Standards | Deputy Director, Office of Labor Management Standards.
|  | Senior Advisor and Director of Reports and Disclosures.
|  | Director, Office of Enforcement and International Union Audits.
| Employee Benefits Security Administration | Deputy Assistant Secretary for Program Operations. Director of Regulations and Interpretations.
|  | Director of Exemption Determinations.
|  | Chief Economist and Director of Policy and Research.
|  | Director of Enforcement.
|  | Regional Director—San Francisco.
|  | Regional Director—Kansas City.
|  | Regional Director—Atlanta.
|  | Regional Director—Boston.
|  | Director, Office of Outreach Education and Assistance.
|  | Director of Health Plan Standards Compliance and Assistance.
|  | Director of Information Management.
|  | Regional Director (2).
|  | Regional Director, Cincinnati.
|  | Regional Director—Chicago (2).
|  | Regional Director—Philadelphia.
|  | Regional Director—New York.
|  | Chief Accountant.
| Bureau of Labor Statistics | Deputy Commissioner for Labor Statistics.
|  | Associate Commissioner for Field Operations.
|  | Assistant Commissioner for Occupational Statistics and Employment Projections.
|  | Assistant Commissioner for Regional Operations (3).
|  | Associate Commissioner Productivity and Technology.
|  | Associate Commissioner for Prices and Living Conditions.
|  | Associate Commissioner for Administration.
|  | Assistant Commissioner for Industrial Prices and Price Indexes.
|  | Assistant Commissioner for Industry Employment Statistics.
|  | Assistant Commissioner for International Prices.
|  | Associate Commissioner for Publications and Special Studies.
|  | Assistant Commissioner for Current Employment Analysis.
|  | Associate Commissioner for Technology and Survey Processing.
|  | Assistant Commissioner for Compensation Levels and Trends.
|  | Assistant Commissioner for Safety, Health and Working Conditions.
|  | Associate Commissioner for Compensation and Working Conditions.
|  | Director of Technology and Computing Services.
|  | Director of Survey Processing.
|  | Associate Commissioner for Survey Methods Research.
|  | Associate Commissioner for Employment and Unemployment Statistics.
|  | Assistant Commissioner for Consumer Prices and Prices Indexes.
| Employment and Training Administration | Administrator, Apprenticeship and Training, Employee and Labor Services.
|  | Regional Administrator (6).
|  | Administrator, Office of Job Corps.
|  | Administrator, Office of Foreign Labor Certification.
|  | Administrator, Office of Workforce Security.
|  | Associate Administrator.
|  | Comptroller.
|  | Deputy Assistant Secretary (Operations and Management).
|  | Deputy Administrator Job Corp.
|  | Administrator, Office of Policy Development and Research.
|  | Deputy Administrator.
| Occupational Safety and Health Administration | Safety and Health Administrator—Chicago. Director, Directorate of Standards and Guidance.
|  | Regional Administrator—Boston.
|  | Regional Administrator—San Francisco.
|  | Director, Office of Training and Education.
|  | Regional Administrator—Seattle.
|  | Regional Administrator—Philadelphia.
|  | Regional Administrator—New York.
|  | Director of Technical Support and Emergency Management.
|  | Regional Administrator—Atlanta.
|  | Director, Directorate of Cooperative and State Programs.
|  | Regional Administrator—Dallas.
|  | Regional Administrator—Denver.
|  | Director, Directorate of Enforcement Programs.
|  | Deputy Assistant Secretary.
|  | Director of Construction.
|  | Director, Administrative Programs.
| Mine Safety and Health Administration | Program Manager.
|  | Deputy Assistant Secretary.
|  | Director of Administration and Management.
|  | Administrator for Coal Mine Safety and Health.
|  | Director of Assessments.
|  | Director of Technical Support.
|  | Administrator for Metal and Nonmetal.
|  | Deputy Administrator for Coal Mine Safety and Health.
|  | Director of Program Evaluation and Information Resources.
|  | Director, Educational Policy and Development.
| Veterans Employment and Training Service | Director, Office of Field Operations. Deputy Assistant Secretary for Operations and Management.
|  | Director, Department of Labor Homeless Assistance Program.
| Office of Disability Employment Policy | Deputy Assistant Secretary for Office of Disability Employment Policy.
DEPARTMENT OF LABOR, OFFICE OF INSPECTOR GENERAL | Office of Inspector General | Deputy Assistant Inspector General for Information Technology Audits. Deputy Assistant Inspector General for Management and Policy.
|  | Chief Performance and Risk Management Officer.
|  | Deputy Inspector General for Operations.
|  | Assistant Inspector General for Audit.
|  | Assistant Inspector General for Labor Racketeering.
|  | Deputy Assistant Inspector General for Labor Racketeering.
|  | Deputy Assistant Inspector General for Audit.
|  | Assistant Inspector General for Inspections and Special Investigations.
|  | Deputy Inspector General.
|  | Counsel.
|  | Assistant Inspector General for Management and Policy.
MERIT SYSTEMS PROTECTION BOARD | Office of the Clerk of the Board Office of Financial and Administrative Management | Clerk of the Board. Director, Financial and Administrative Management.
| Office of Policy and Evaluation | Director, Office of Policy and Evaluation.
| Office of Information Resources Management | Director, Information Resources Management.
| Office of Regional Operations | Director, Office of Regional Operations.
| Atlanta Regional Office | Regional Director, Atlanta.
| Central Region, Chicago Regional Office | Regional Director, Chicago.
| Northeast Region, Philadelphia Regional Office | Regional Director, Philadelphia.
| Western Region, San Francisco Regional Office | Regional Director, San Francisco.
| Washington, Dc Region, Washington Regional Office | Regional Director, Washington, D.C..
| Dallas Regional Office | Regional Director, Dallas.
NATIONAL AERONAUTICS AND SPACE ADMINISTRATION | Exploration Mission Systems Directorate | Director, Exploration Research and Technology Programs. Director, Communication and Public Engagement.
|  | Director, Spaceport Integration and Services.
|  | Senior Liaison for Stem Communications.
|  | Director, NASA Aeronautics and Research Institute.
|  | Associate Director for Mission Support.
|  | Director, Solar System Exploration Research Virtual Institute.
|  | Deputy Director for Science.
| Office of the Administrator | Deputy Associate Administrator.
|  | Asteroid Redirect Mission, Program Director.
| Office of the Deputy Administrator | Associate Administrator, Strategy and Policy.
| Office of Chief of Staff | Deputy Chief of Staff.
|  | Associate Administrator, Strategy and Plans.
|  | Director, Office of Evaluation.
| Office of the Chief Scientist | Associate Chief Scientist for Life and Microgravity Sciences.
|  | Deputy Chief Scientist.
| Human Exploration and Operations Mission Directorate | Director, Human Research Program. Director, Network Services.
|  | Director, Human Spaceflight Capabilities Division.
|  | Assistant Deputy Associate Administrator for Exploration Systems Development.
|  | Director, Resources Management Office.
|  | Manager, Rocket Propulsion Test Program Office.
|  | Director, International Space Station and Space Shuttle Program Resource.
|  | Director, Advanced Capabilities Division.
|  | Deputy Associate Administrator for Space Communications and Navigation.
|  | Assistant Associate Administrator for Resources Management and Analysis Office.
|  | Assistant Associate Administrator for Human Exploration Capability.
|  | Director, Advanced Exploration Systems.
|  | Deputy Associate Administrator for Policy and Plans.
|  | Director, Program and Strategic Integration Office.
|  | Director, Human Spaceflight Capabilities Division.
|  | Director, Strategic Integration and Management Division.
| Office of the Chief Technologist | Deputy Chief Technologist.
| Office of Evaluation | Director, Cost Analysis Division.
| Science Mission Directorate | Deputy Associate Administrator for Management.
|  | Deputy Associate Administrator for Programs.
|  | Deputy Director for Programs, Earth Science Division.
|  | Deputy Associate Administrator for Research.
|  | Director, Science Engagement and Partnerships.
| James Webb Space Telescope Program Office | Director, James Webb Space Telescope Program.
| Planetary Science Division | Mars Exploration Program Director.
|  | Director, Planetary Science Division.
|  | Deputy Director, Planetary Science Division.
| Astrophysics Division | Deputy Director, Astrophysics Division.
|  | Director, Astrophysics Division.
| Heliophysics Division | Director, Heliphysics Division.
|  | Deputy Director, Heliophysics Division.
| Earth Science Division | Program Director Research and Analysis Program.
|  | Director, Earth Science Division.
|  | Deputy Director, Earth Science.
| Joint Agency Satellite Division | Deputy Director, Joint Agency Satellite Division.
|  | Director, Joint Agency Satellite Division.
| Strategic Integration and Management Division | Director, Strategic Integration and Management Division.
| Aeronautics Research Mission Directorate | Director for Integrated Aviation Systems Program. Director, Fundamental Aeronautics.
|  | Director of Transformative Aeronautics Concepts Program Office.
|  | Director of Airspace Operations and Safety Program Office.
|  | Director, Strategy, Architecture, and Analysis Office.
|  | Director, Integration and Management Office.
| Office of Program Analysis and Evaluation | Director, Independent Program Assessment Office.
| Office of Safety and Mission Assurance | Director, Independent Verification and Validation Program.
| Office of the Chief Financial Officer/Comptroller | Deputy Chief Financial Officer (Strategy and Performance). Associate Deputy Chief Financial Officer (Finance).
| Office of Education | Information Technology Manager.
|  | Deputy Associate Administrator for Education.
| Space Technology Mission Directorate | Deputy Associate Administrator for Programs.
|  | Deputy Associate Administrator.
|  | Deputy Associate Administrator for Management.
| Office of the Chief Engineer | Deputy Chief Engineer for Engineering Integration.
|  | Human Exploration and Operations Mission Directorate Chief Engineer.
|  | Senior Advisor for Innovation.
| Mission Support Directorate | Assistant Associate Administrator for Resources and Performance.
|  | Deputy Associate Administrator for Mission Support.
| Office of Headquarters Operations | Director, Human Resource Management Division.
|  | Director, Headquarters Information Technology and Communications Division.
| Office of Human Capital Management | Assistant Administrator for Human Capital Management.
|  | Director, Workforce Systems and Accountability Division.
|  | Director, Workforce Planning and Analysis Division.
|  | Director, Workforce Management and Development Division.
|  | Deputy Assistant Administrator for Human Capital Management.
|  | Special Assistant to the Chief Human Capital Officer.
| Office of Strategic Infrastructure | Deputy Assistant Administrator for Policy.
|  | Director, Environmental Management Division.
|  | Director, Facilities Engineering and Real Property Division.
|  | Deputy Assistant Administrator for Strategic Infrastructure.
|  | Director, Facilities and Real Estate.
| National Aeronautics and Space Administration Shared Services Center | Executive Director of National Aeronautics and Space Administration Shared Services Center. Director, Support Operations Directorate.
|  | Deputy Director, National Aeronautics and Space Administration Shared Services Center.
| Office of Protective Services | Deputy Assistant Administrator for Protective Services.
|  | Director of Counterintelligence/Counterterrorism for Protective Services.
|  | Assistant Administrator for Protective Services.
| Office of Procurement | Director, Analysis Division.
|  | Director, Program Operations Division.
|  | Assistant Administrator for Procurement.
|  | Director, Contract Management Division.
| National Aeronautics and Space Administration Management Office | Director, National Aeronautics and Space Administration Management Office.
| Office of Safety and Mission Assurance | Deputy Chief Safety and Mission Assurance Officer.
|  | Director, Safety and Assurance Requirements Division.
|  | Chief, Safety and Mission Assurance Office.
|  | Director, Mission Support Division.
|  | Director, National Aeronautics and Space Administration Safety Center.
| Office of the Chief Financial Officer/Comptroller | Director, Policy Division. Director, Quality Assurance.
|  | Director, Financial Management Division.
|  | Deputy Chief Financial Officer (Finance).
|  | Director, Financial and Budget Systems Management Division.
|  | Director, Budget Division.
| Office of the Chief Information Officer | Associate Chief Information Officer for Technology and Innovation.
|  | Deputy Chief Information Officer for Information Technology Reform.
|  | Associate Chief Information Officer for Enterprise Service and Integration Division.
|  | Associate Chief Information Officer for Capital Planning and Governance.
|  | Deputy Chief Information Officer for Information Technology Security.
| Office of the Chief Engineer | Chief Engineer, Aeronautics Research Mission Directorate.
| Office International and Interagency Relations | Deputy Director, Export Control and Interagency Liaison Division.
|  | Director, Human Exploration and Operations Division.
|  | Director, Export Control and Interagency Liaison Division.
|  | Director, Advisory Committee Management Division.
| Office of Legislative and Intergovernmental Affairs | Deputy Associate Administrator for Legislative Affairs.
| Office of Diversity and Equal Opportunity | Director, Complaints Management Division. Director, Programs, Planning and Evaluation Division.
| Office of Small Business Programs | Associate Administrator, Small Business Programs.
| Johnson Space Center | Associate Director, Commercial Crew Program.
|  | Special Assistant for Program Integration, Orion.
|  | Manager, Program Planning and Control.
|  | Manager, Space Shuttle Transition and Retirement.
|  | Director, Astro-materials Research and Exploration Science.
|  | Deputy Manager, Commercial Crew Program.
|  | Director, External Relations.
|  | Associate Director, Johnson Space Center.
|  | Director of Human Resources.
|  | Chief Financial Officer.
|  | Chief of Staff, Office of the Director.
|  | Special Assistant to the Center Director for Organizational Change.
|  | Chief of Staff, Exploration Planning.
| Space Station Program Office | Manager, Vehicle Office.
|  | Manager, Avionics and Software Office.
|  | Deputy Manager, International Space Station Program.
|  | Manager, International Space Station Program.
|  | Manager, Program Planning and Control Office, International Space Station.
|  | Manager, International Space Station Payloads Office.
|  | Manager, Operations Integration.
|  | Manager, Program Projects Integration.
|  | Deputy Manager for Utilization.
|  | Manager, External Integration Office.
|  | Manager, Program Planning and Control, International Space Station Program.
| Office of Mission Operations | Director, Mission Operations.
|  | Chief, Engineering Projects.
|  | Deputy Director, Mission Operations.
| Office of Orion Program | Manager, Crew and Service Module Office.
|  | Manager, Orion Program.
|  | Deputy Manager, Orion Program.
|  | Manager, Vehicle Integration Office.
|  | Manager, Avionics, Power and Software Office.
| Office of Flight Operations | Strategic Assistant to the Director, Flight Operations.
|  | Director, Flight Operations.
|  | Deputy Director, Flight Operations.
|  | Director, Flight Crew Operations.
|  | Chief, Aircraft Operations Division.
|  | Deputy Director, Flight Crew Operations.
|  | Chief, Flight Director Office.
| Office of Engineering | Associate Director for Commercial Spaceflight.
|  | Chief, Propulsion and Power Division.
|  | Chief, Aero science and Flight Mechanics Division.
|  | Director, Engineering.
|  | Chief, Software, Robotics and Simulation Division.
|  | Deputy Director, Engineering.
| Office of Human Health and Performance | Deputy Director, Human Health and Performance. Director, Human Health and Performance.
|  | Manager, Human Research Program.
| Office of Exploration Integration and Science | Manager, Extra Vehicular Activity Management Office. Director, Performance Management Integration Office.
|  | Deputy Director, Exploration Integration and Science.
|  | Director, Strategic Opportunities and Partnership Development.
|  | Director, Exploration Integration and Science.
|  | Manager, Strategic Analysis and Integration Office.
| Office of Information Resources | Director, Information Resources.
| Office of Procurement | Director, Office of Procurement.
| Office of Center Operations | Director, Center Operations.
| Office of Safety and Mission Assurance | Assistant to the Director, Safety and Mission Assurance.
|  | Director, Safety and Mission Assurance.
|  | Deputy Director, Safety and Mission Assurance.
| White Sands Test Facility | Manager, White Sands Test Facility.
| Kennedy Space Center | Associate Director, Engineering.
|  | Deputy Director, Technical, Engineering and Technology Directorate.
|  | 21st Century Space Launch Complex Project Manager, Ground Systems Development and Operations Program.
|  | Director, Engineering.
|  | Exploration Systems Manager, Ground Systems Development and Operations Program.
|  | Deputy Director, Engineering.
|  | Director, International Space Station Ground Processing and Research Project Office.
|  | Deputy Manager, Ground Processing Development and Operations Program.
|  | Manager, Ground Systems Development and Operations Program.
|  | Director, Center Operations Directorate.
|  | Deputy Manager, Launch Services Program.
|  | Director, Procurement Office.
|  | Director, Human Resources.
|  | Chief Financial Officer.
|  | Associate Director, John F Kennedy Space Center.
|  | Director, John F Kennedy Space Center.
|  | Director, Public Affairs Directorate.
|  | Chief, Technical Performance and Integration Division, Engineering.
|  | Chief, Mechanical and Structural Division, Engineering.
|  | Chief, Laboratories and Test Facilities Division, Engineering.
|  | Chief, Electrical Division, Engineering.
|  | Director, Ground Processing Directorate.
|  | Manager, Office of the Chief Engineer, Engineering and Technology Directorate.
|  | Kennedy Space Center Associate Manager, Commercial Crew Program.
|  | Manager, Commercial Crew Program.
| Information Technology and Communications Services | Director, Information Technology and Communications Services.
| Safety and Mission Assurance | Director, Safety and Mission Assurance.
| Launch Services Program | Manager, Launch Services Program.
| Office of the Director | Associate Director, Technical, Marshall Space Flight Center.
| Office of the Deputy Director | Chief Engineer, Exploration Systems Development Division.
|  | Senior Executive for Technology and Integration.
| Office of the Associate Director | Associate Director, Marshall Space Flight Center.
| Michoud Assembly Facility | Director, Michoud Assembly Facility.
|  | Deputy Director, Michoud Assembly Facility.
| Engineering Directorate | Deputy Director, Space Systems Department, Engineering Directorate.
|  | Director, Space Systems Department, Engineering Directorate.
|  | Director, Materials and Processes Laboratory, Engineering Directorate.
|  | Director, Propulsion Systems Department, Engineering Directorate.
|  | Deputy Director, Propulsion Systems Department, Engineering Directorate.
|  | Director, Test Laboratory, Engineering Directorate.
|  | Deputy Director, Engineering Directorate.
|  | Director, Mission Operations Laboratory, Engineering Directorate.
|  | Director, Spacecraft and Vehicle Systems Department, Engineering Directorate.
|  | Manager, Chief Engineer's Office, Engineering Directorate.
|  | Deputy Chief Engineer, Space Launch System Program.
|  | Chief Engineer, Space Launch System, Engineering Directorate.
|  | Deputy Director, Spacecraft and Vehicle Systems Department, Engineering Directorate.
|  | Associate Director for Technical Operations, Engineering Directorate.
|  | Deputy Manager, Chief Engineer's Office, Engineering Directorate.
|  | Associate Director for Operations, Engineering Directorate.
| Office of the Chief Financial Officer | Chief Financial Officer.
| Office of Center Operations | Deputy Director, Office of Center Operations.
|  | Director, Office of Center Operations.
| Office of Procurement | Director, Office of Procurement.
| Safety and Mission Assurance Directorate | Director, Safety and Mission Assurance Directorate. Chief Safety Officer, Safety and Mission Assurance Directorate.
|  | Deputy Director, Safety and Mission Assurance Directorate.
| Office of Strategic Analysis and Communications | Director, Office of Strategic Analysis and Communications.
| Space Launch System Program Office | Manager, Engines Office, Space Launch System Program.
|  | Technical Assistant, Space Launch System Program Office.
|  | Associate Program Manager, Space Launch System Program Office.
|  | Manager, Program Planning and Control Office, Space Launch System Program.
|  | Manager, Space Launch System Program.
|  | Deputy Manager, Space Launch System Program.
|  | Manager, Stages Office, Space Launch System Program.
|  | Manager, Boosters Office, Space Launch System Program.
|  | Manager, Spacecraft/Payload Integration and Evolution Office, Space Launch System Program.
| Science and Technology Office | Deputy Manager, Science and Technology Office.
|  | Manager, Science and Technology Office.
| Office of Chief Information Officer | Deputy Director, Enterprise Integration Office, Office of the Chief Information Officer.
|  | Manager, Agency Applications Office.
| Flight Programs and Partnerships Office | Manager, Flight Programs and Partnerships. Deputy Manager, Flight Programs and Partnerships Office.
| Office of Human Capital | Director, Office of Human Capital.
|  | Special Assistant to Director, Office of Human Capital.
| Stennis Space Center | Director, Projects Directorate.
|  | Associate Director.
|  | Deputy Director, Stennis Space Center.
|  | Director, Engineering and Science Directorate.
|  | Director, Center Operations Directorate.
|  | Deputy Director, Engineering and Test Directorate.
|  | Director, Office of Safety and Mission Assurance.
|  | Chief Financial Officer.
| Ames Research Center | Procurement Officer.
|  | Human Capital Director.
|  | Program Manager for Stratospheric Observatory for Infrared Astronomy (SOFIA).
|  | Director of Engineering.
|  | Deputy Director, Exploration Technology.
|  | Associate Director for Research and Technology.
|  | Director, New Ventures and Communications Directorate.
|  | Director, Programs and Projects.
|  | Chief Information Officer.
|  | Director, Exploration Technology Directorate.
|  | Director of Center Operations.
|  | Chief Financial Officer.
|  | Deputy Director of Aeronautics.
|  | Chief, Space Technology Division.
|  | Deputy Director Ames Research Center.
|  | Chief, Computational Sciences Division.
|  | Director of Safety and Mission Assurance.
|  | Chief Counsel.
| Astrobiology and Space Research | Director of Science.
| Armstrong Flight Research Center | Assistant Director for Strategic Implementation.
|  | Associate Center Director.
|  | Director for Mission Information and Test Systems.
|  | Director for Flight Operations.
|  | Chief Counsel.
|  | Director for Safety and Mission Assurance.
|  | Chief Financial Officer (Financial Manager).
|  | Director for Programs.
| Langley Research Center | Director, National Aeronautics and Space Administration Engineering and Safety Center.
|  | Director, Space Technology and Exploration Directorate.
|  | Chief Financial Officer.
|  | Director, Safety and Mission Assurance Office.
|  | Director, Office of Procurement.
|  | Director, Flight Projects Directorate.
|  | Deputy Director for Programs.
|  | Associate Director for Special Programs.
|  | Director, Office of Strategic Analysis, Communications, and Business Development.
|  | Associate Director, Langley Research Center.
|  | Chief Information Officer.
|  | Deputy Director for Program Development.
|  | Deputy Director, National Aeronautics and Space Administration Engineering and Safety Center.
|  | Director, Research Services Directorate.
|  | Director, Systems Analysis and Advanced Concepts Directorate.
|  | Director, Science Directorate.
|  | Director, Aeronautics Research Directorate.
|  | Director, Center Operations Directorate.
|  | Deputy Director, Research Directorate.
|  | Director, Research Directorate.
|  | Deputy Director, Engineering Directorate.
|  | Director, Engineering Directorate.
|  | Manager, Systems Engineering Office.
|  | Director, Office of Human Capital Management.
|  | Manager, Management and Technical Support Office.
|  | Deputy Director, Facilities and Laboratory Operations.
|  | Senior Advisor for Engineering Development.
|  | Deputy Director for Safety.
|  | Director, Earth System Science Pathfinder Program Office.
|  | Special Assistant to the Director.
| Glenn Research Center | Chief, Office of Acquisition.
|  | Associate Director for Strategy.
|  | Director, Office of Technology Incubation and Innovation.
|  | Director, Space Flight Systems Directorate.
|  | Director, Venture and Partnerships.
|  | Plum Brook Station Manager.
|  | Director, Safety and Mission Assurance Directorate.
|  | Manager, European Service Module Integration Office.
|  | Director, Office of Human Capital Management.
|  | Deputy Director, Office of Technology Incubation and Innovation.
|  | Director of Center Operations.
|  | Chief Financial Officer.
| Aeronautics Directorate | Director, Aeronautics Directorate.
| Facilities and Test Directorate | Director, Facilities, Test and Manufacturing Directorate.
|  | Director, Facilities and Test Directorate.
| Deputy Director, Facilities, Test and Manufacturing Directorate | Deputy Director of Faculties, Test and Manufacturing Directorate.
| Space Flight Systems Directorate | Strategic Capability Manager.
|  | Deputy Director, Space Flight Systems.
| Engineering Directorate | Chief, Systems Engineering and Analysis Division.
|  | Director of Engineering.
|  | Deputy Director of Engineering.
| Research and Engineering Directorate | Chief, Chief Engineer Office.
|  | Deputy Chief, Materials and Structures Division.
|  | Deputy Chief, Power Division.
|  | Chief, Power Division.
|  | Director, Research and Engineering Directorate.
|  | Deputy Director, Research and Engineering Directorate.
| Systems Engineering and Architecture Division | Deputy Chief, Systems Engineering and Architecture Division.
|  | Chief, Systems Engineering and Architecture Division.
| Materials and Structures Division | Chief, Materials and Structures Division.
| Propulsion Division | Deputy Chief, Propulsion Division.
|  | Chief, Propulsion Division.
| Communications and Intelligent Systems Division | Chief, Communications and Intelligent Systems Division.
| Office of the Chief Information Officer | Chief Information Officer.
| National Aeronautics and Space Administration Safety Center | Director, Audits and Assessments. Director, Technical Excellence.
| Goddard Space Flight Center | Assistant Director for Advanced Concepts.
|  | Deputy Director for Science, Operations and Program Performance.
| Office of Human Resources | Director of Human Capital Management.
| Office of the Comptroller | Deputy Chief Financial Officer.
|  | Chief Financial Officer/Comptroller.
| Office of Management Operations | Deputy Director of Management Operations.
|  | Associate Director for Acquisition.
| Office of Flight Assurance | Director of Systems Safety and Mission Assurance.
|  | Deputy Director of Safety and Mission Assurance.
| Office of Flight Projects | Deputy Director for Planning and Business Management.
|  | Deputy Director of Flight Projects.
|  | Director of Flight Projects.
|  | Associate Director for Astrophysics Projects Division.
|  | Deputy Associate Director for Earth Science Projects Division.
|  | Associate Director for Earth Science Technology Office (ESTO).
|  | Associate Director for Joint Polar Satellite System (JPSS) Program.
|  | Associate Director for Space Servicing Capabilities Project.
|  | Associate Director of Flight Projects for James Webb Space Telescope (JWST).
|  | Associate Director for Exploration and Space Communications Projects Division.
|  | Associate Director for Earth Science Projects Division.
|  | Associate Director for Explorers and Heliophysics Projects Division.
| Applied Engineering and Technology Directorate | Chief, Instrument Systems and Technology Division.
|  | Chief, Electrical Systems Division.
|  | Deputy Director of Applied Engineering and Technology for Planning and Business Management.
|  | Chief, Software Engineering Division.
|  | Deputy Director of Applied Engineering and Technology.
|  | Chief, Mechanical Systems Division.
|  | Chief, Mission Engineering and Systems Analysis Division.
|  | Deputy Director for Technical Management.
| Office of Sciences and Exploration | Director, Heliophysics Science Division.
|  | Deputy Director for Institutions, Programs, and Business Management.
|  | Director, Solar System Exploration Division.
|  | Director of Sciences and Exploration.
|  | Deputy Director of Sciences and Exploration.
|  | Director, Astrophysics Science Division.
|  | Director, Earth Sciences Division.
|  | Chief, Goddard Institute for Space Studies.
| Suborbital Projects and Operations | Special Assistant for Project Management Training.
NATIONAL AERONAUTICS AND SPACE ADMINISTRATION, OFFICE OF THE INSPECTOR GENERAL | Office of the Inspector General | Assistant Inspector General for Auditing. Assistant Inspector General for Investigations. Assistant Inspector General for Management and Planning.
|  | Counsel to the Inspector General.
|  | Deputy Inspector General.
NATIONAL ARCHIVES AND RECORDS ADMINISTRATION | Office of the Archivist of United States and Deputy Archivist of the United States | Deputy Archivist of the United States.
| Office of General Counsel | General Counsel.
| Congressional Affairs Staff | Director, Congressional and Legislative Affairs.
| Office of the Chief Operating Officer | Chief Operating Officer.
| Agency Services | Director, Records Center Programs.
|  | Director, Information Security Oversight Office.
|  | Director, Office of Government Information Services.
|  | Director, National Declassification Center.
|  | Chief Records Officer.
|  | Director, National Personnel Records Center.
|  | Agency Services Executive.
| Business Support Services | Chief Financial Officer.
|  | Business Support Services Executive.
| Research Services | Director, Preservation Programs.
|  | Research Services Executive.
| Office of the Federal Register | Director of the Federal Register.
| Information Services | Director, Information Technology Operations.
|  | Information Services Executive/Chief Information Officer.
|  | Chief Technology Officer.
| Legislative Archives, Presidential Libraries and Museum Services | Legislative Archives, Presidential Libraries and Museum Services Executive.
| Office of Presidential Libraries | Deputy for Presidential Libraries.
| Office of Human Capital | Chief Human Capital Officer.
| Office of Strategy and Communications | Chief Strategy and Communications Officer.
| Office of Innovation | Chief Innovation Officer.
NATIONAL ARCHIVES AND RECORDS ADMINISTRATION, OFFICE OF THE INSPECTOR GENERAL | Office of the Inspector General | Inspector General.
NATIONAL CAPITAL PLANNING COMMISSION | National Capital Planning Commission Staff | General Counsel. Deputy Executive Director.
|  | Chief Operating Officer.
|  | Executive Director.
NATIONAL ENDOWMENT FOR THE ARTS | Office of the Chairman | Chief Information Officer. Deputy Chairman for Programs and Partnerships.
|  | Director, Research and Analysis.
|  | Deputy Chairman for Management and Budget.
NATIONAL ENDOWMENT FOR THE ARTS OFFICE OF THE INSPECTOR GENERAL | National Endowment for the Arts, Office of the Inspector General | Inspector General.
NATIONAL ENDOWMENT FOR THE HUMANITIES | Office of the Chairman | Assistant Chairman for Planning and Operations.
NATIONAL LABOR RELATIONS BOARD | Office of the Board Members | Inspector General. Chief Information Officer.
|  | Executive Secretary.
|  | Deputy Executive Secretary.
| Division of Enforcement Litigation | Deputy Associate General Counsel, Appellate Court Branch.
|  | Deputy Associate General Counsel, Division of Enforcement Litigation.
|  | Director, Office of Appeals.
| Division of Advice | Deputy Associate General Counsel, Division of Advice.
|  | Associate General Counsel, Division of Legal Counsel.
| Division of Administration | Deputy Director, Division of Administration.
|  | Director, Division of Administration.
|  | Director of Administration.
| Division of Operations Management | Assistant General Counsel (2).
|  | Assistant to General Counsel (2).
|  | Deputy Associate General Counsel, Division of Operations-Management.
|  | Associate General Counsel, Division of Operation-Management.
| Regional Offices | Regional Director, Region 10, Atlanta, Georgia.
|  | Regional Director, Region 34, Hartford, Connecticut.
|  | Regional Director, Region 31, Los Angeles, California.
|  | Regional Director, Region 32, Oakland, California.
|  | Regional Director, Region 30, Milwaukee, Wisconsin.
|  | Regional Director, Region 29, Brooklyn, New York.
|  | Regional Director, Region 28, Phoenix, Arizona.
|  | Regional Director, Region 27, Denver, Colorado.
|  | Regional Director, Region 26, Memphis, Tennessee.
|  | Regional Director, Region 25, Indianapolis, Indiana.
|  | Regional Director, Region 24, Hato Rey, Puerto Rico.
|  | Regional Director, Region 22, Newark, New Jersey.
|  | Regional Director, Region 21, Los Angeles, California.
|  | Regional Director, Region 20, San Francisco, California.
|  | Regional Director, Region 19, Seattle, Washington.
|  | Regional Director, Region 18, Minneapolis, Minnesota.
|  | Regional Director, Region 17, Kansas City, Kansas.
|  | Regional Director, Region 16, Fort Worth, Texas.
|  | Regional Director, Region 15, New Orleans, Louisiana.
|  | Regional Director, Region 14, Saint Louis, Missouri.
|  | Regional Director, Region 13, Chicago, Illinois.
|  | Regional Director, Region 12, Tampa, Florida.
|  | Regional Director, Region 11, Winston Salem, North Carolina.
|  | Regional Director, Region 7, Detroit, Michigan.
|  | Regional Director, Region 8, Cleveland, Ohio.
|  | Regional Director, Region 1, Boston, Massachusetts.
|  | Regional Director Region 2, New York.
|  | Regional Director, Region 3, Buffalo, New York.
|  | Regional Director, Region 4, Philadelphia, Pennsylvania.
|  | Regional Director, Region 9, Cincinnati, Ohio.
|  | Regional Director, Region 6, Pittsburgh, Pennsylvania.
|  | Regional Director, Region 5, Baltimore, Maryland.
NATIONAL SCIENCE FOUNDATION | Office of the Director Office of Integrative Activities | Chief Technology Officer. Senior Advisor (2).
| Office of Diversity and Inclusion | Office Head, Office of Diversity and Inclusion (2).
| Office of the General Counsel | Deputy General Counsel.
| Directorate for Geosciences | Deputy Assistant Director.
| Division of Atmospheric and Geospace Sciences | Section Head, National Center for Atmospheric Research (NCAR)/Facilities Section.
| Division of Earth Sciences | Head, Deep Earth Processes Section.
| Division of Ocean Sciences | Section Head, Integrative Programs Section.
| Division of Polar Programs | Head, Section for Antarctic Infrastructure and Logistic.
| Division of Engineering Education and Centers | Deputy Division Director (2).
| Division of Civil, Mechanical, and Manufacturing Innovation | Deputy Division Director.
| Division of Industrial Innovation and Partnerships | Deputy Division Director. Senior Advisor.
| Division of Chemical, Bioengineering, Environmental, and Transport Systems | Deputy Division Director (2).
| Division of Electrical, Communication and Cyber Systems | Deputy Division Director.
| Directorate for Biological Sciences | Deputy Assistant Director.
| Division of Environmental Biology | Deputy Division Director.
| Division of Integrative Organismal Systems | Deputy Division Director.
| Directorate for Mathematical and Physical Sciences | Senior Science Associate. Deputy Assistant Director.
|  | Senior Advisor.
| Division of Astronomical Sciences | Deputy Division Director.
| Division of Mathematical Sciences | Deputy Division Director.
| Division of Materials Research | Deputy Division Director.
| Division of Research on Learning In Formal and Informal Settings | Senior Advisor for Research.
| Directorate for Social, Behavioral and Economic Sciences | Deputy Assistant Director.
| National Center for Science and Engineering Statistics | Division Director.
| Directorate for Computer and Information Science and Engineering | Deputy Assistant Director.
| Office of Budget, Finance and Award Management | Deputy Office Head. Director, Budget, Finance and Award and Chief Financial Officer.
|  | Deputy Director, Planning, Coordination and Analysis.
| Budget Division | Deputy Director.
|  | Division Director.
| Division of Financial Management | Division Director and Deputy Chief Financial Officer.
|  | Deputy Division Director, Division of Financial Management.
| Division of Grants and Agreements | Division Director.
| Division of Acquisition and Cooperative Support | Division Director.
| Division of Institutional and Award Support | Division Director. Deputy Division Director.
| Office of Information and Resource Management | Deputy Director. Head, Office of Information and Resource Management and Chief Human Capital Officer.
|  | Senior Staff Associate.
|  | Deputy Office Head.
| Division of Information Systems | Deputy Division Director.
| Division of Human Resource Management | Deputy Division Director. Division Director.
| Division of Administrative Services | Deputy Division Director.
|  | Division Director.
NATIONAL SCIENCE FOUNDATION, OFFICE OF THE INSPECTOR GENERAL | Office of the Inspector General | Assistant Inspector General for Audit/Chief Information Officer to Office of Inspector General. Assistant Inspector General for Management, Legal and External Affairs.
|  | Inspector General.
|  | Deputy Inspector General.
|  | Assistant Inspector General for Investigations.
NATIONAL TRANSPORTATION SAFETY BOARD | Office of the Managing Director Office of Administration | Deputy Managing Director (2). Director, Office of Administration.
| Office of Aviation Safety | Director Bureau of Accident Investigation.
|  | Deputy Director, Office of Aviation Safety.
|  | Deputy Director, Regional Operations.
| Office of Research and Engineering | Director Office of Research and Engineering.
|  | Deputy Director Office of Research and Engineering.
| Office of Chief Financial Officer | Chief Financial Officer.
| Office of Railroad, Pipeline and Hazardous Materials Investigations | Deputy Director, Office of Railroad, Pipeline and Hazardous Materials Safety.
|  | Director, Office of Railroad, Pipeline and Hazardous Materials Investigations.
| Office of Safety Recommendations and Communications | Deputy Director, Office of Safety Recommendations and Communications.
| Office of Highway Safety | Director, Office of Highway Safety.
| Office of Chief Information Officer | Chief Information Officer.
| Office of Marine Safety | Director, Office of Marine Safety.
NUCLEAR REGULATORY COMMISSION | Office of the Chief Financial Officer | Budget Director. Deputy Chief Financial Officer. Controller.
| Office of Commission Appellate Adjudication | Director, Office of Commission Appellate Adjudication.
| Office of the Executive Director for Operations | Senior Advisor. Executive Director for Transition.
| Office of the Chief Information Officer | Director, Information Security Directorate.
|  | Director, Customer Service Division.
|  | Director, Solutions Development Division.
|  | Director, Operations Division.
|  | Director, Information Technology/Information Management Portfolio Management and Planning Division.
|  | Director of Integration Strategies.
| Office of Administration | Director, Division of Facilities and Security.
|  | Director, Division of Administrative Services.
|  | Director, Acquisition Management Division.
|  | Deputy Director, Office of Administration.
|  | Associate Director for Space Planning and Consolidation.
| Office of Nuclear Security and Incident Response | Deputy Director, Office of Nuclear Security and Incident Response.
| Division of Security Policy | Deputy Director, Division of Security Policy.
|  | Director, Division of Security Policy.
| Division of Preparedness and Response | Deputy Director, Division of Preparedness and Response. Director, Division of Preparedness and Response.
| Division of Security Operations | Deputy Director, Division of Security Operations.
|  | Director, Division of Security Operations.
| Cyber Security Directorate | Director, Cyber Security Directorate.
| Office of Small Business and Civil Rights | Director, Office of Small Business and Civil Rights.
| Office of New Reactors | Deputy Director, Office of New Reactors.
| Division of New Reactor Licensing | Director, Division of New Reactor Licensing.
|  | Deputy Director, Division of New Reactor Licensing.
| Division of Site Safety and Environmental Analysis | Deputy Director, Division of Site Safety and Environmental Analysis (2).
|  | Director, Division of Site Safety and Environmental Analysis.
| Division of Engineering, Infrastructure, and Advanced Reactors | Director, Division of Engineering, Infrastructure, and Advanced Reactors.
|  | Deputy Director, Division of Engineering, Infrastructure, and Advanced Reactors (2).
| Division of Safety Systems and Risk Assessment | Director, Division of Safety Systems and Risk Assessment. Deputy Director, Division of Safety Systems and Risk Assessment.
| Division of Engineering | Director, Division of Engineering.
| Division of Construction Inspection and Operational Programs | Deputy Director, Division of Construction Inspection and Operational Programs.
|  | Director, Division of Construction Inspection and Operational Programs.
| Office of Nuclear Reactor Regulation | Deputy Director for Engineering.
|  | Director, Japan Lessons Learned Project Directorate.
|  | Deputy Director for Reactor Safety Programs and Corporate Support.
| Division of Safety Systems | Director, Division of Safety Systems.
|  | Deputy Director, Division of Safety Systems.
| Division of Engineering | Director, Division of Engineering.
|  | Deputy Director, Division of Engineering.
| Division of Risk Assessment | Deputy Director, Division of Risk Assessment.
|  | Director, Division of Risk Assessment.
| Division of License Renewal | Deputy Director, Division of License Renewal.
|  | Director, Division of License Renewal.
| Division of Operating Reactor Licensing | Director, Division of Operating Reactor Licensing.
|  | Deputy Director, Division of Operating Reactor Licensing (2).
| Division of Inspection and Regional Support | Director, Division of Inspection and Regional Support. Deputy Director, Division of Inspection and Regional Support.
| Division of Policy and Rulemaking | Deputy Director, Division of Policy and Rulemaking (2).
|  | Director, Division of Policy and Rulemaking.
| Office of Nuclear Material Safety and Safeguards | Special Assistant.
| Division of Fuel Cycle Safety, Safeguards, and Environmental Review | Deputy Director, Division of Fuel Cycle Safety, Safeguards, and Environmental Review.
|  | Director, Division of Fuel Cycle Safety, Safeguards, and Environmental Review.
| Yucca Mountain Directorate | Director, Yucca Mountain Directorate.
| Division of Spent Fuel Management | Director, Division of Spent Fuel Management.
|  | Deputy Director, Division of Spent Fuel Management.
| Division of Materials Safety, States, Tribal, and Rulemaking Programs | Deputy Director, Division of Materials Safety, State, Tribal, and Rulemaking Programs.
|  | Director, Division of Materials Safety, State, Tribal, and Rulemaking Programs.
| Division of Decommissioning, Uranium Recovery, and Waste Programs | Deputy Director, Environmental Protection and Performance Assessment Directorate. Deputy Director, Division of Decommissioning, Uranium Recovery, and Waste Programs.
|  | Director, Division of Decommissioning, Uranium Recovery, and Waste Programs.
| Division of Engineering | Deputy Director, Division of Engineering.
|  | Director, Division of Engineering.
| Division of Systems Analysis | Director, Division of Systems Analysis.
|  | Deputy Director, Division of Systems Analysis.
| Division of Risk Analysis | Deputy Director, Division of Risk Analysis.
|  | Director, Division of Risk Analysis.
| Region I | Deputy Regional Administrator.
|  | Director, Division of Reactor Projects.
|  | Director Division of Reactor Safety.
|  | Deputy Director, Division of Reactor Safety.
|  | Director, Division of Nuclear Materials Safety.
|  | Deputy Director, Division of Reactor Projects.
| Region II | Deputy Director, Division of Reactor Safety.
|  | Deputy Director, Division of Fuel Facility Inspection.
|  | Deputy Director, Division of Construction Inspection.
|  | Director, Division of Construction Inspection.
|  | Deputy Director, Division of Construction Projects.
|  | Director, Division of Fuel Facility Inspection.
|  | Deputy Regional Administrator for Construction.
|  | Director, Division of Reactor Safety.
|  | Deputy Regional Administrator for Operations.
|  | Director, Division of Reactor Projects.
|  | Deputy Director, Division of Reactor Projects.
|  | Director, Division of Construction Projects.
| Region III | Deputy Regional Administrator.
|  | Director, Division of Reactor Projects.
|  | Director, Division of Reactor Safety.
|  | Deputy Director, Division of Reactor Projects.
|  | Deputy Director, Division of Reactor Safety.
|  | Director, Division of Nuclear Materials Safety.
| Region IV | Deputy Director, Division of Reactor Projects.
|  | Deputy Regional Administrator.
|  | Deputy Director, Division of Reactor Safety.
|  | Director Division of Reactor Projects.
|  | Director, Division of Reactor Safety.
|  | Director, Division of Nuclear Materials Safety.
NUCLEAR REGULATORY COMMISSION, OFFICE OF THE INSPECTOR GENERAL | Office of the Inspector General Office of the Assistant Inspector General for Audits | Deputy Inspector General. Assistant Inspector General for Audits.
| Office of the Assistant Inspector General for Investigations | Assistant Inspector General for Investigations.
OCCUPATIONAL SAFETY AND HEALTH REVIEW COMMISSION | Office of the Executive Director | Executive Director.
OFFICE OF GOVERNMENT ETHICS | Office of the Director | Deputy Director for Financial Disclosure. Deputy Director for Internal Operations Division.
|  | Supervisory Attorney Advisor.
|  | Deputy Director for Compliance.
OFFICE OF MANAGEMENT AND BUDGET | Staff Offices | Deputy Assistant Director for Management. Deputy Associate Director for Economic Policy.
|  | Assistant Director for Management and Operations.
|  | Associate Director for Management and Operations.
| Legislative Reference Division | Chief, Resources-Defense-International Branch.
|  | Chief, Labor, Welfare, Personnel Branch.
|  | Assistant Director Legislative Reference.
|  | Chief, Economics, Science and Government Branch.
| Office of Federal Procurement Policy | Deputy Administrator for Federal Procurement Policy.
|  | Associate Administrator.
| Office of Information and Regulatory Affairs | Chief, Natural Resources and Environment Branch. Chief, Information Policy Branch.
|  | Chief, Food, Health and Labor Branch.
|  | Chief, Statistical Policy Branch.
| Office of E-Government and Information Technology | Chief Architect. Deputy Administrator for E-Government and Information Technology.
| Office of Federal Financial Management | Chief, Accountability, Performance, and Reporting Branch.
| Office of Budget Review | Assistant Director for Budget Review.
|  | Chief, Budget Review Branch.
|  | Deputy Chief, Budget Analysis Branch.
|  | Chief, Budget Systems Branch.
|  | Chief, Budget Analysis Branch.
|  | Deputy Chief, Budget Review Branch.
|  | Deputy Assistant Director for Budget Review.
|  | Chief, Budget Concepts Branch.
| International Affairs Division | Deputy Associate Director for International Affairs.
|  | Chief, State/United States Information Agency Branch.
|  | Chief, Economic Affairs Branch.
| National Security Division | Chief, Veterans Affairs and Defense Health Branch.
|  | Chief, Command, Control, Communication, Computers, and Intelligence Branch.
|  | Chief, Force Structure and Investment Branch.
|  | Deputy Associate Director for National Security.
|  | Chief, Operations and Support Branch.
| Human Resource Programs | Deputy Associate Director for Education, Income Maintenance and Labor.
|  | Chief, Education Branch.
|  | Chief, Labor Branch.
|  | Chief, Income Maintenance Branch.
| Health Division | Chief, Public Health Branch.
|  | Chief, Health and Human Services Branch.
|  | Deputy Associate Director for Health.
|  | Chief, Medicare Branch.
|  | Chief, Medicaid Branch.
|  | Chief, Health Insurance and Data Analysis Branch.
| Transportation, Homeland, Justice and Services Division | Chief, Homeland Security Branch. Chief, Justice Branch.
|  | Chief, Transportation/General Services Administration Branch.
|  | Deputy Associate Director, Transportation, Homeland, Justice and Services.
|  | Chief, Transportation Branch.
| Housing, Treasury and Commerce Division | Chief, Housing Branch. Chief, Treasury Branch.
|  | Deputy Associate Director for Housing, Treasury and Commerce.
|  | Chief, Commerce Branch.
| Natural Resources Division | Deputy Associate Director for Natural Resources.
|  | Chief, Agricultural Branch.
|  | Chief, Environment Branch.
|  | Chief, Interior Branch.
| Energy, Science and Water Division | Chief, Water and Power Branch.
|  | Chief, Energy Branch.
|  | Deputy Associate Director for Energy, Science, and Water Division.
|  | Chief, Science and Space Programs Branch.
OFFICE OF NATIONAL DRUG CONTROL POLICY | Office of Supply Reduction | Assistant Deputy Director of Supply Reduction. Associate Director for Intelligence.
OFFICE OF PERSONNEL MANAGEMENT | Office of Planning and Policy Analysis Office of Facilities, Security and Emergency Management | Deputy Director, Actuary. Director, Facilities, Security and Emergency Management.
| Office of Healthcare and Insurance | Assistant Director, Federal Employee Insurance Operations.
| Office of Retirement Services | Associate Director, Retirement Services.
|  | Deputy Associate Director, Retirement Services.
|  | Deputy Associate Director, Retirement Operations.
| Merit System Audit and Compliance | Deputy Associate Director, Merit System Audit and Compliance.
| Office of Federal Investigative Services | Deputy Associate Director, Operations.
| Office of the Chief Financial Officer | Deputy Chief Financial Officer.
|  | Associate Chief Financial Officer, Financial Services.
|  | Chief Financial Officer.
| Office of Chief Information Officer | Chief Information Officer.
| Office of Procurement Operations | Director, Office of Procurement Operations.
OFFICE OF PERSONNEL MANAGEMENT OFFICE OF THE INSPECTOR GENERAL | Office of the Inspector General Office of Investigations | Deputy Inspector General. Deputy Assistant Inspector General for Investigations. Assistant Inspector General for Investigations.
| Office of Audits | Assistant Inspector General for Audits.
|  | Deputy Assistant Inspector General for Audits.
|  | Senior Advisor to the Assistant Inspector General for Audits.
|  | Deputy Assistant Inspector General for Audits.
| Office of Legal Affairs | Assistant Inspector General for Legal Affairs.
| Office of Policy, Resources Management, and Oversight | Assistant Inspector General for Management. Chief Information Technology Officer.
OFFICE OF SPECIAL COUNSEL | Headquarters, Office of Special Counsel | Associate Special Counsel for Investigation and Prosecution.
|  | Chief Financial Officer and Director of Administrative Services.
|  | Director, Office of Planning and Analysis.
|  | Associate Special Counsel for Investigation and Prosecution.
|  | Director of Management and Budget.
|  | Associate Special Counsel Planning and Oversight.
|  | Associate Special Counsel for Legal Counsel and Policy.
|  | Associate Special Counsel for Investigation and Prosecution.
|  | Senior Associate Special Counsel for Investigation and Prosecution.
OFFICE OF THE UNITED STATES TRADE REPRESENTATIVE | Office of the U.S. Trade Representative | Assistant United States Trade Representative for Labor.
| Office of Industry, Market Access and Telecommunications | Assistant United States Trade Representative for Industry, Market Access and Telecommunications.
| Office of South Asian Affairs | Assistant United States Trade Representative for South Asian Affairs.
RAILROAD RETIREMENT BOARD | Board Staff | Director of Policy and Systems. Director of Operations.
|  | Director of Fiscal Operations.
|  | Chief Information Officer.
|  | Director of Programs.
|  | General Counsel.
|  | Chief Financial Officer.
|  | Deputy General Counsel.
|  | Director of Administration.
|  | Director of Field Service.
|  | Chief Actuary.
|  | Director of Hearings and Appeals.
|  | Chief of Technology Service.
| Office of Inspector General | Assistant Inspector General for Audit.
|  | Assistant Inspector General for Investigations.
SELECTIVE SERVICE SYSTEM | Office of the Director | Associate Director for Operations (2). Senior Advisor to the Director.
SMALL BUSINESS ADMINISTRATION | Office of the General Counsel | Associate General Counsel for General Law. Associate General Counsel, Litigation.
|  | Associate General Counsel for Procurement Law.
|  | Associate General Counsel for Financial Law and Lender Oversight.
| Office of Field Operations | District Director (4).
|  | District Director Washington Metro Area District Office.
|  | District Director New York.
| Office of Hearings and Appeals | Assistant Administrator for Hearings and Appeals.
| Office of the Chief Financial Officer | Associate Administrator for Performance Management and Chief Financial Officer.
|  | Deputy Chief Financial Officer.
| Office of Capital Access | Director of Economic Opportunity.
| Office of Surety Guarantees | Director for Surety Bonds and Guarantees Programs.
| Office of Investment and Innovation | Deputy Associate Administrator for Investment and Innovation.
| Office of Entrepreneurial Development | Associate Administrator for Small Business Development Centers.
|  | Deputy Associate Administrator for Entrepreneurial Development.
| Office of Human Resources Solutions | Deputy Chief Human Capital Officer.
|  | Deputy Chief Operating Officer/Chief Human Capital Officer.
| Office of the Chief Information Officer | Deputy Chief Information Officer.
| Office of Government Contracting and Business Development | Director for Policy Planning and Liaison.
| Office of Hub zone Empowerment Contracting | Director of Hub zone.
| Office of Business Development | Associate Administrator for Business Development.
SMALL BUSINESS ADMINISTRATION, OFFICE OF THE INSPECTOR GENERAL | Office of the Inspector General | Assistant Inspector General for Management and Policy. Assistant Inspector General for Auditing Division. Assistant Inspector General for Investigations.
|  | Deputy Inspector General.
|  | Counsel to the Inspector General.
SOCIAL SECURITY ADMINISTRATION | Office of the Chief Strategic Officer Office of Disability Adjudication and Review | Chief Strategic Officer. Deputy Commissioner for Disability Adjudication and Review.
|  | Assistant Deputy Commissioner for Disability Adjudication and Review.
| Office of Appellate Operations | Executive Director, Office of Appellate Operations.
|  | Deputy Executive Director, Office of Appellate Operations.
| Office of Medical and Vocational Expertise | Associate Commissioner for Medical and Vocational Expertise.
| Office of the Chief Actuary | Chief Actuary.
|  | Deputy Chief Actuary (Long-Range).
|  | Deputy Chief Actuary (Short-Range).
| Office of Disability Determinations | Associate Commissioner for Disability Determinations.
| Office of Personnel | Deputy Associate Commissioner for Personnel.
|  | Associate Commissioner for Personnel.
| Office of Civil Rights and Equal Opportunity | Deputy Associate Commissioner for Civil Rights and Equal Opportunity.
|  | Associate Commissioner for Civil Rights and Equal Opportunity.
| Office of Labor-Management and Employee Relations | Associate Commissioner for Labor-Management and Employee Relations.
|  | Deputy Associate Commissioner for Labor-Management and Employee Relations.
| Office of Budget, Finance, Quality and Management | Assistant Deputy Commissioner for Budget, Finance, Quality, and Management.
| Office of Financial Policy and Operations | Associate Commissioner, Office of Finance Policy and Operations.
|  | Deputy Associate Commissioner, Financial Policy and Operations.
| Office of Budget | Associate Commissioner for Budget.
|  | Deputy Associate Commissioner for Budget.
| Office of Acquisition and Grants | Associate Commissioner for Acquisition and Grants.
|  | Deputy Associate Commissioner for Acquisition and Grants.
| Office of Anti-Fraud Programs | Associate Commissioner for Anti-Fraud Programs.
| Office of Systems | Assistant Deputy Commissioner for Systems (Business Support).
| Office of Telecommunications and Systems Operations | Deputy Associate Commissioner for Telecommunications and Systems Operations.
|  | Deputy Associate Commissioner for Telecommunications and Systems Operations (Telecommunications).
|  | Associate Commissioner for Telecommunications and Systems Operations.
|  | Assistant Associate Commissioner for Enterprise Information Technology Services Management.
| Office of Information Security | Associate Commissioner for Information Security.
| Office of General Law | Associate General Counsel for General Law.
|  | Deputy Associate General Counsel for General Law.
| Office of Program Law | Deputy Associate General Counsel for Program Law.
| Office of Privacy and Disclosure | Executive Director for Privacy and Disclosure.
SOCIAL SECURITY ADMINISTRATION, OFFICE OF THE INSPECTOR GENERAL | Immediate Office of the Inspector General Office of Counsel to the Inspector General | Deputy Inspector General. Counsel to the Inspector General.
| Office of External Relations | Assistant Inspector General for External Relations (2).
| Office of Audit | Assistant Inspector General for Audit.
|  | Deputy Assistant Inspector General for Audit (Financial Systems and Operations Audits).
|  | Deputy Assistant Inspector General for Audit (Program Audit and Evaluations).
| Office of Investigations | Assistant Inspector General for Investigations.
|  | Deputy Assistant Inspector General for Investigations (Western Field Operations).
|  | Deputy Assistant Inspector General for Investigations (Eastern Field Operations).
| Office of Communications and Resource Management | Deputy Assistant Inspector General for Communications and Resource Management.
|  | Assistant Inspector General for Communications and Resource Management.
DEPARTMENT OF STATE | Office of Civil Rights | Deputy Director.
| Office of the Under Secretary for Management | Ombudsman.
| Bureau of Administration | Director, Office of Acquisitions.
|  | Procurement Executive.
| Bureau of Human Resources | Principal Deputy Assistant Secretary.
|  | Human Resources Officer.
| Bureau of International Security and Nonproliferation | Office Director (2).
| Bureau of Arms Control, Verification, and Compliance | Director, Office of Strategic Negotiations and Implementation.
DEPARTMENT OF STATE, OFFICE OF THE INSPECTOR GENERAL | Office of Inspector General | Assistant Inspector General for Inspections. Deputy Assistant Inspector General for Management.
|  | Assistant Inspector General for Evaluations and Special Projects.
|  | Deputy Assistant Inspector General for Inspections.
|  | Deputy General Counsel.
|  | Assistant Inspector General for Management.
|  | Coordinator for Overseas Contingency Operations.
|  | Deputy Assistant Inspector General for Middle East Regional Office.
|  | Deputy Assistant Inspector General for Investigations.
|  | Deputy Assistant Inspector General for Audits.
|  | Assistant Inspector General for Audits.
|  | Assistant Inspector General for Investigations.
|  | General Counsel to the Inspector General.
|  | Deputy Inspector General.
TRADE AND DEVELOPMENT AGENCY | Office of the Director | Assistant Director for Policy and Programs. Deputy Director.
| Office of the General Counsel | General Counsel.
DEPARTMENT OF TRANSPORTATION | Office of the Secretary | Executive Director for the Office of the Under Secretary of Transportation for Policy.
|  | Senior Advisor.
| Office of Intelligence, Security and Emergency Response | Deputy Director. Director, Office of Intelligence, Security and Emergency Response.
| Office of Chief Information Officer | Chief Information Security Officer.
|  | Chief Technology Officer.
|  | Deputy Chief Information Officer.
| Office of Safety, Energy and Environment | Director.
| Office of Assistant Secretary for Budget and Programs | Deputy Chief Financial Officer. Deputy Assistant Secretary for Budget and Programs.
|  | Chief Financial Officer.
| Office of Budget and Program Performance | Director of Budget and Program Performance.
| Office of Assistant Secretary for Administration | Deputy Assistant Secretary for Administration.
| Office of the Senior Procurement Executive | Senior Procurement Executive.
| Office of the Administrator | Executive Director (4).
|  | Chief Financial Officer (2).
|  | Executive Secretary, Committee on Marine Transportation Systems.
|  | Assistant Administrator/Chief Safety Officer.
| Office of the Associate Administrator for Railroad Safety | Associate Administrator for Railroad Safety/Chief Safety Officer.
| Office of the Chief Counsel | Deputy Chief Counsel.
| Office of the Associate Administrator for Strategic Sealift | Deputy Associate Administrator for Federal Sealift. Deputy Associate Administrator for Maritime Education and Training.
| Office of the Associate Administrator for Environment and Compliance | Associate Administrator for Environment and Compliance. Deputy Associate Administrator for Environment and Compliance.
|  | Director of Innovative Program Delivery.
| Office of the Chief Financial Officer | Deputy Chief Financial Officer and Chief Budget Officer.
|  | Director, Office of Acquisition Management.
|  | Chief Financial Officer.
| Office of Real Estate Services | Director, Office of Real Estate Services.
| Office of the Associate Administrator for Safety | Associate Administrator for Safety.
| Office of Safety Research and Development | Director, Office of Safety Research, Development and Technology.
| Office of Licensing and Safety Information | Director, Office for Licensing and Safety Information.
| Office of Bus and Truck Standards and Operations | Director, Office of Bus and Truck Standards and Operations.
| Office of Enforcement and Compliance | Director, Office of Enforcement and Compliance.
| Office of the Associate Administrator for Injury Control Operations and Resources | Associate Administrator for Injury Control Operations and Resources.
| Office of the Associate Administrator for Enforcement | Associate Administrator for Enforcement. Director, Office of Vehicle Safety Compliance.
|  | Director, Office of Defects Investigation.
| Office of Proceedings | Deputy Director—Legal Analysis.
| Office of the Managing Director | Managing Director.
| Immediate Office of the Administrator | Staff Director.
| Office of Chief Safety Officer | Assistant Administrator and Chief Safety Officer.
| Office of Pipeline Safety | Deputy Associate Administrator for Policy and Programs.
|  | Deputy Associate Administrator for Field Operations.
|  | Associate Administrator for Pipeline Safety.
| Office of Hazardous Materials Safety | Associate Administrator for Hazardous Materials Safety.
DEPARTMENT OF TRANSPORTATION, OFFICE OF THE INSPECTOR GENERAL | Office of the Deputy Inspector General Office of Auditing and Evaluation | Deputy Inspector General. Principal Assistant Inspector General for Auditing and Evaluation.
|  | Deputy Principal Assistant Inspector General for Auditing and Evaluating.
|  | Principal Assistant Inspector General for Auditing and Evaluation.
| Office of Financial and Information Technology Audits | Assistant Inspector General for Financial and Information Technology Audits.
| Office of Acquisition and Procurement Audits | Assistant Inspector General for Acquisition and Procurement Audits.
| Office of Aviation Audits | Assistant Inspector General for Aviation Audits (2).
| Office of Surface Transportation Audits | Assistant Inspector General for Surface Transportation Audits.
| Office of the Principal Assistant Inspector General for Investigations | Principal Assistant Inspector General for Investigations.
| Office of Assistant Inspector General for Investigations | Deputy Assistant Inspector General for Investigations.
| Office of Administration | Assistant Inspector General for Administration.
| Office of Legal, Legislative and External Affairs | Assistant Inspector General for Legal, Legislative and External Affairs.
| Office of Surface Transportation Audits | Assistant Inspector General for Surface Transportation Audits.
| Office of Aviation Audits | Assistant Inspector General for Aviation Audits.
DEPARTMENT OF THE TREASURY | Office of the Secretary of the Treasury | Director, Office of Small and Disadvantaged Business Utilization.
| Office of the Under Secretary for Domestic Finance | Director of Policy.
| Office of the Fiscal Assistant Secretary | Fiscal Assistant Secretary. Deputy Assistant Secretary (Accounting Policy).
|  | Deputy Assistant Secretary for Fiscal Operations and Policy.
| Bureau of the Fiscal Service | Director, Regional Financial Center (Philadelphia).
|  | Director, Regional Financial Center (Kansas City).
|  | Deputy Assistant Commissioner (Debt Management Services).
|  | Assistant Commissioner, Governmentwide Accounting.
|  | Assistant Commissioner (Public Debt Accounting).
|  | Assistant Commissioner, Debt Management Services.
|  | Assistant Commissioner, Federal Finance.
|  | Director, Revenue Collection Group.
|  | Assistant Commissioner, Management (Chief Financial Officer).
|  | Executive Director, Government Securities Regulations.
|  | Director, Regional Financial Center (San Francisco).
|  | Assistant Commissioner (Financing).
|  | Executive Director (Administrative Resource Center).
|  | Director, Debt Management Services Operations, East.
|  | Executive Director (Myra).
|  | Executive Director (Do Not Pay Business Center Staff).
|  | Deputy Assistant Commissioner, Compliance and Reporting Group.
|  | Deputy Assistant Commissioner (Shared Services).
|  | Assistant Commissioner, Information and Security Services (Chief Information Officer).
|  | Deputy Assistant Commissioner (Fiscal Accounting Operations).
|  | Deputy Assistant Commissioner for Information Services.
|  | Commissioner, Bureau of the Fiscal Service.
|  | Deputy Commissioner, Financial Services and Operations.
|  | Deputy Commissioner, Finance and Administration.
|  | Deputy Commissioner, Accounting and Shared Services.
|  | Director, Debt Management Services Operations, West.
|  | Deputy Assistant Commissioner, Office of Retail Securities.
|  | Deputy Assistant Commissioner, Payment Management.
|  | Director, Cash Management Infrastructure Group.
|  | Assistant Commissioner, Payment Management.
|  | Deputy Assistant Commissioner for Infrastructure and Operations (Office of Information and Security Services).
|  | Deputy Assistant Commissioner for Program Solutions and Support (Treasury Securities Services).
|  | Deputy Assistant Commissioner, Governmentwide Accounting.
|  | Assistant Commissioner (Office of Management Services).
|  | Deputy Chief Information Officer.
| Bureau of the Public Debt | Deputy Executive Director, Administrative Resources Center.
| Office of the Assistant Secretary for Financial Markets | Director, Capital Markets.
| Office of the Assistant Secretary for Financial Institutions | Deputy Director, Federal Insurance Office. Director, Federal Insurance Office.
| Office of the Assistant Secretary for Terrorist Financing | Director, Executive Office for Asset Forfeiture.
| Financial Crimes Enforcement Network | Associate Director, Technology Solutions and Services Division/Chief Information Officer.
|  | Associate Director, Regulatory Policy and Programs Division.
|  | Associate Director, Liaison Division.
|  | Deputy Director.
|  | Director, Financial Crimes Enforcement Network.
|  | Chief Counsel, Financial Crimes Enforcement Network.
|  | Associate Director, Policy Division.
|  | Associate Director, Enforcement Division.
|  | Associate Director, Intelligence Division.
|  | Executive Advisor.
|  | Deputy Associate Director, Compliance and Enforcement Programs.
|  | Associate Director, International.
|  | Associate Director, Management Programs Division.
| Office of the Assistant Secretary for Intelligence and Analysis | Deputy Assistant Secretary for Security.
| Office of the General Counsel | Special Counsel, Asset Forfeiture.
| Office of the Assistant Secretary (Tax Policy) | Director, Economic Modeling and Computer Applications.
| Alcohol and Tobacco Tax and Trade Bureau | Assistant Administrator Information Resources/Chief Information Officer.
|  | Deputy Administrator, Alcohol and Tobacco Tax and Trade Bureau.
|  | Assistant Administrator, Field Operations.
|  | Administrator, Alcohol and Tobacco Tax and Trade Bureau.
|  | Assistant Administrator, Management/Chief Financial Officer.
|  | Assistant Administrator, Headquarter Operations.
| Office of the Assistant Secretary for Management | Director Office of Minority and Women Inclusion. Director, Office of Procurement.
|  | Deputy Chief Financial Officer.
| Internal Revenue Service | Director, Strategy and Finance, Appeals.
|  | Director, Strategy and Finance.
|  | Deputy Chief, Appeals.
|  | Director, Business Systems Planning—Large and Mid-Size Business.
|  | Industry Director—Financial Services—Large and Mid-Size Business.
|  | Director, Equal Employment Opportunity and Diversity.
|  | Director, Tax Exempt Bonds.
|  | Director, Government Entities.
|  | Accounts Management Field Director, Austin—Wage and Investment.
|  | Deputy Director, Submission Processing.
|  | Deputy Division Commissioner, Tax Exempt and Government Entities.
|  | Executive Director, Office of Equity, Diversity, and Inclusion.
|  | National Director of Appeals.
|  | Director, Research, Analysis and Statistics of Income.
|  | Director, Field Assistance—Wage and Investment.
|  | Director, Strategy and Finance—Wage and Investment.
|  | Director, Communication, Assistance, Research and Education.
|  | Director, Customer Account Services—Wage and Investment.
|  | Director, Submission Processing (Cincinnati)—Wage and Investment.
|  | Accounts Management Field Director—Andover.
|  | Deputy National Taxpayer Advocate.
|  | Commissioner, Tax Exempt and Government Entities Division.
|  | Chief, Management and Finance—Large and Mid-Size Business.
|  | Director, Exempt Organizations.
|  | Director, Human Resources—Wage and Investment.
|  | Director, Employee Plans.
|  | Director, Communications, Technology and Media Industry—Large and Mid-Size Business.
|  | Director, Field Operations, Communications, Technology and Media—Northwest.
|  | Special Agent In Charge, Los Angeles.
|  | Commissioner, Wage and Investment.
|  | Director, Human Resources—Small Business and Self Employed.
|  | Director, Real Estate and Facilities Management.
|  | Director of Research.
|  | Director, Operations.
|  | Director, Exempt Organizations, Rulings and Agreements.
|  | Director of Compliance, Atlanta—Wage and Investment.
|  | Director, Procurement.
|  | Director, Media and Publications.
|  | Director, Internet Development Services.
|  | Director, Statistics of Income.
|  | Associate Chief Financial Officer for Internal Financial Management—National Headquarters.
|  | Director, Pre-Filing and Technical Guidance.
|  | Associate Chief Information Officer, Cybersecurity.
|  | Project Director.
|  | Accounts Management Field Director.
|  | Director, Information Technology Security Engineering.
|  | Director, Field Operations.
|  | Director, Office of Communications.
|  | Director, Whistleblower Office.
|  | Director, Portal Program Management.
|  | Special Agent In Charge.
|  | Director, Reporting Compliance.
|  | Deputy Commissioner, Services and Enforcement.
|  | Director, Enterprise Systems Testing.
|  | Director, Corporate Data.
|  | Director, Internal Management.
|  | Director, Submission Processing.
|  | Deputy Director, Submission Processing.
|  | Business Modernization Executive.
|  | Deputy Commissioner, Large and Mid-Size Business, International.
|  | Industry Director, Natural Resources and Construction.
|  | Director, Examination Planning and Delivery.
|  | Director, Workforce Progression and Management.
|  | Director, Customer Relationship and Integration.
|  | Director, Research.
|  | Director, Communications and Stakeholder Outreach.
|  | Director, Data Management.
|  | Deputy Director, Accounts Management.
|  | Chief, Agency-Wide Shared Services.
|  | Director, Employee Plans, Rulings, and Agreements.
|  | Director, Campus Collection Compliance.
|  | Director, Examination Area.
|  | Accounts Management Field Director.
|  | Submission Processing Field Director.
|  | Director, Compliance Campus Operations.
|  | Director, Campus Reporting Compliance.
|  | Director, Specialty Programs.
|  | Director, Examination Area (2).
|  | Director, Collection Area (2).
|  | Director, Collection.
|  | Deputy Chief Human Capital Officer, Internal Revenue Service.
|  | Director, Joint Operations Center.
|  | Director of Field Operations.
|  | Director, Advisory, Insolvency and Quality.
|  | Deputy Commissioner, Small Business/Self-Employed.
|  | Deputy Director, Procurement.
|  | Special Agent In Charge.
|  | Director, Office of Information Technology Acquisition.
|  | Deputy Director, Enterprise Operations Services.
|  | Assistant Deputy Commissioner for Services and Enforcement.
|  | Deputy Chief Financial Officer.
|  | Chief, Communications and Liaison.
|  | Director of Field Operations.
|  | Director, Technical Services.
|  | Chief, Criminal Investigation.
|  | Chief Financial Officer, Internal Revenue Service.
|  | Director, Operations Policy and Support.
|  | Director, Stakeholder, Partnership, Education and Communications.
|  | Chief Human Capital Officer, Internal Revenue Service.
|  | Commissioner, Large and Mid-Sized Business Division.
|  | Commissioner, Small Business and Self Employed.
|  | Director, Accounts Management, Wage and Investment.
|  | Deputy Chief, Criminal Investigation.
|  | Accounts Management Field Director.
|  | Director, Customer Service and Stakeholders.
|  | Deputy Associate Chief Financial Officer for Financial Management.
|  | Director, Business Services and Management.
|  | Director, Portfolio Control and Performance.
|  | Director, Real Estate and Facilities Operations.
|  | Executive Director, Systems Advocacy.
|  | Director, Examination—Specialty Tax.
|  | Area Director, Field Assistance (Area 2).
|  | Director, Network Engineering.
|  | Director, Business Modernization.
|  | Director, Examination Area Midwest.
|  | Director, Implementation Oversight.
|  | Director, Examination Area.
|  | Director, Enterprise Collection Strategy.
|  | Director, Return Preparer Office.
|  | Deputy Director, Strategy and Finance.
|  | Director, Operations Service Support.
|  | Deputy Commissioner, Operations Support.
|  | Deputy Associate Chief Information Officer for Applications.
|  | Deputy Associate Chief Information Officer for Enterprise Networks.
|  | Area Director, Stakeholder Partnership, Education, and Communication.
|  | Area Director, Stakeholder Partnership, Education, and Communication.
|  | Director, Refund Crimes.
|  | Area Director, Field Assistance.
|  | Director, International Operations.
|  | Deputy Director, Research, Analysis, and Statistics.
|  | Director, Field Operations, Retailers, Food, Transportation and Healthcare—East.
|  | Director, International Business Compliance.
|  | Director, Collection Area.
|  | Deputy Associate Chief Information Officer for Enterprise Services.
|  | Accounts Management Field Director.
|  | Director, Customer Service.
|  | Director, Examination Area.
|  | Area Director, Field Assistance.
|  | Field Director, Compliance Services.
|  | Field Director, Compliance Services (Atlanta).
|  | Director, Collection Area, Gulf States.
|  | Director, Financial Management Services.
|  | Deputy Chief of Staff.
|  | Associate Chief Information Officer for Enterprise Operations.
|  | Director, Management Services.
|  | Project Director.
|  | Director, Business Systems Planning.
|  | Associate Chief Information Officer, Strategy and Planning.
|  | Director, Appeals Policy and Valuation.
|  | Counselor.
|  | Project Director, Customer Account Data Engine.
|  | Deputy Director, Submission Processing.
|  | Director, Collection Policy.
|  | Deputy Division Counsel #2 (Operations)/Small Business and Self Employed.
|  | Director, Collection Area.
|  | Deputy Chief Information Officer for Operations.
|  | Director, Field Operations East.
|  | Director, Retail, Food, Pharmaceutical, and Health Care.
|  | Special Agent In Charge—Criminal Investigation.
|  | Director, Reporting Compliance.
|  | Director, Data Strategy Implementation.
|  | Associate Chief Information Officer, End User Equipment and Services.
|  | Deputy Associate Chief Information Officer, Enterprise Operations.
|  | Deputy Commissioner (Domestic), Large Business and International.
|  | Director, Campus Compliance Services.
|  | Field Director, Accounts Management.
|  | Director, Office of Privacy, Information Protection and Data Security.
|  | Director, Enterprise Networks Operations.
|  | Director, Executive Services.
|  | Director, Foreign Account Tax Compliance Act—Program Management Office.
|  | Senior Director for Operations, Affordable Care Act.
|  | Associate Chief Information Officer, Enterprise Information Technology Program Management.
|  | Director, E-File Services.
|  | Chief of Staff.
|  | Director of Field Operations Southern Area.
|  | Director, Shared Support.
|  | Director, Field Operations, Engineering.
|  | Director of Field Operations, Heavy Manufacturing and Pharmaceuticals, Southeast.
|  | Director, Collection Strategy and Organization.
|  | Executive Director, Business Modernization.
|  | Area Director, Stakeholder, Partnership, Education, and Communication.
|  | Director, Business Planning and Risk Management.
|  | Director, Implementation and Testing.
|  | Director, Campus Operations.
|  | Director, Business Reengineering.
|  | Director, Campus Compliance Operations.
|  | Compliance Services Field Director.
|  | Director, Service Delivery Management.
|  | Director, Detroit Program Management Office.
|  | Director, Privacy and Information Protection.
|  | Director, International Data Management.
|  | Director, Strategy, Research and Program Planning.
|  | Director, Program Strategy and Integration.
|  | Director, Compliance Strategy and Policy.
|  | Director, Technical Services.
|  | Project Director.
|  | Director, Data Delivery Services.
|  | Director, Examination Policy.
|  | Director, Strategic Supplier Management.
|  | Director, Transfer Pricing Operations.
|  | Director, Infrastructure and Portal Programs.
|  | Director, Collection Area—California.
|  | Director, Exempt Organizations Examination.
|  | Director, Business Relationship and Service Delivery.
|  | Director, Examination Area—North Atlantic.
|  | Executive Director, Investigative and Enforcement Services.
|  | Executive Director, Investigative and Enforcement Operations.
|  | Director, Large Systems and Storage Infrastructure Division.
|  | Director, Filing and Payment Compliance.
|  | Director, Contact Center Support Division.
|  | Director, Field Operations, Retail Food, Pharmaceuticals, and Healthcare—West.
|  | Director, Cybersecurity Policy and Programs.
|  | Director, Return Integrity and Compliance Services.
|  | Director, Advanced Pricing and Mutual Agreement.
|  | Director, Product Management.
|  | Associate Chief Financial Officer, Corporate Planning and Internal Control.
|  | Director, International Individual Compliance.
|  | Director, Abusive Transactions and Technical Issues.
|  | Deputy Director, Office of Professional Responsibility Operations.
|  | Director, Examination Area.
|  | Director, Campus Compliance Operations.
|  | Director, Collection Area.
|  | Director, Field Operations, Natural Resources and Construction—West.
|  | Field Director, Submission Processing.
|  | Assistant Deputy Commissioner (International).
|  | Director, Filing and Premium Tax Credit.
|  | Director, Field Operations, International Business Compliance.
|  | Accounts Management Field Director.
|  | Deputy Director, Return Preparer Office.
|  | Deputy Commissioner for Support, Wage and Investment.
|  | Director, Filing and Payment Compliance.
|  | Director, Tax Forms and Publications.
|  | Submission Processing Field Director.
|  | Deputy Director, Submission Processing.
|  | Director, Campus Collection Fresno.
|  | Director, Affordable Care Act.
|  | Director, Filing Season Integration.
|  | Special Assistant to the Chief, Appeals.
|  | Director, Mainframe Support and Services.
|  | Director, Solution Engineering.
|  | Deputy Director, Return Integrity and Correspondence Services.
|  | Director, Technology Solutions.
|  | Deputy Commissioner, Wage and Investments.
|  | Director, Online Services.
|  | Director, Human Capital.
|  | Director, Enterprise Networks Operations.
|  | Associate Chief Information Officer, Affordable Care Act, Program Management Office.
|  | Director, Unified Communications.
|  | Director, Infrastructure Services.
| Office of the Internal Revenue Service Chief Counsel | Assistant Chief Counsel (Disclosure and Privacy Law). Assistant Chief Counsel (Collection, Bankruptcy and Summonses).
|  | Deputy Division Counsel/Deputy Assistant Chief Counsel (Criminal Tax).
|  | Associate Chief Counsel (Income Tax and Accounting).
|  | Deputy Associate Chief Counsel (Procedure and Administration).
|  | Associate Chief Counsel (Pass-through and Special Industries).
|  | Deputy Division Counsel (Large and Mid-Size Business).
|  | Deputy Associate Chief Counsel (Corporate).
|  | Deputy Associate Chief Counsel #2 (Pass-through and Special Industries).
|  | Division Counsel (Large and Mid-Size Business).
|  | Deputy Associate Chief Counsel #2 (Income Tax and Accounting).
|  | Area Counsel, Large and Mid-Size Business (Area 3) (Food, Mass Retailers, and Pharmaceuticals).
|  | Division Counsel (Small Business and Self Employed).
|  | Division Counsel/Associate Chief Counsel (Criminal Tax).
|  | Area Counsel (Small Business and Self Employed) (Area 7).
|  | Area Counsel (Small Business and Self Employed)—Los Angeles.
|  | Area Counsel (Small Business and Self Employed)—Denver.
|  | Area Counsel (Small Business and Self Employed).
|  | Area Counsel (Small Business and Self Employed)—Chicago.
|  | Area Counsel (Small Business and Self Employed)—Jacksonville.
|  | Area Counsel (Small Business and Self Employed)—Philadelphia.
|  | Area Counsel (Small Business and Self Employed)—New York.
|  | Deputy Division Counsel (Small Business and Self Employed).
|  | Area Counsel (Large Business and International).
|  | Area Counsel (Large and Mid-Size Business) (Area 4) (Natural Resources).
|  | Area Counsel (Large and Mid-Size Business) (Area 2) (Heavy Manufacturing, Construction and Transportation).
|  | Deputy Associate Chief Counsel (Finance and Management).
|  | Area Counsel (Large Business and International) (Area 1).
|  | Deputy Division Counsel/Deputy Associate Chief Counsel (Tax Exempt and Government Entities).
|  | Deputy Associate Chief Counsel (General Legal Services) (Labor and Personnel Law).
|  | Deputy Associate Chief Counsel (Strategic International Programs).
|  | Division Counsel (Wage and Investment).
|  | Deputy Associate Chief Counsel (Financial Institutions and Products).
|  | Deputy to the Special Counsel to the Chief Counsel.
|  | Special Counsel to the Chief Counsel.
|  | Area Counsel, Small Business and Self Employed, Area 9.
|  | Deputy Division Counsel (Technical), Large Business and International.
|  | Deputy Associate Chief Counsel (International Field Service and Litigation).
|  | Special Counsel to the Chief Counsel.
|  | Deputy Division Counsel and Deputy Associate Chief Counsel (Tax Exempt and Government Entities).
|  | Deputy Division Counsel/Deputy Associate Chief Counsel.
|  | Assistant Chief Counsel (International) (Litigation).
|  | Associate Chief Counsel (Financial Institutions and Products).
|  | Associate Chief Counsel (Finance and Management).
|  | Associate Chief Counsel (International).
|  | Deputy Chief Counsel (Operations).
|  | Deputy Chief Counsel (Technical).
|  | Associate Chief Counsel/Operating Division Counsel (Tax Exempt and Government Entities).
|  | Deputy Associate Chief Counsel (International Technical).
|  | Special Counsel to the National Taxpayer Advocate.
|  | Associate Chief Counsel (General Legal Services).
|  | Deputy Associate Chief Counsel (General Legal Services).
|  | Associate Chief Counsel (Corporate).
|  | Associate Chief Counsel (Procedure and Administration).
| United States Mint | Deputy Director for Management.
|  | Associate Director for Numismatics.
|  | Associate Director, Environment, Safety and Health.
|  | Director, Office of Coin Studies.
|  | Chief Administrative Officer.
|  | Associate Director for Information Technology (Chief Information Officer).
|  | Plant Manager, Philadelphia.
|  | Plant Manager.
|  | Associate Director for Manufacturing.
|  | Associate Director for Financial Management/Chief Financial Officer.
|  | Associate Director for Workforce Solutions.
DEPARTMENT OF THE TREASURY, OFFICE OF THE INSPECTOR GENERAL | Immediate Office of the Inspector General | Special Deputy Inspector General for Small Business Lending Fund. Deputy Inspector General.
| Office of Counsel | Counsel to the Inspector General.
| Office of Management | Assistant Inspector General for Management.
| Office of Audit | Deputy Assistant Inspector General for Audit (Financial Sector Audits).
|  | Deputy Assistant Inspector General for Audit (Program Audits).
|  | Assistant Inspector General for Audit.
|  | Deputy Assistant Inspector General for Audit (Financial Management).
| Office of Investigations | Assistant Inspector General for Investigations.
|  | Deputy Assistant Inspector General for Investigations.
|  | Deputy Assistant Inspector General for Investigations.
DEPARTMENT OF THE TREASURY SPECIAL INSPECTOR GENERAL FOR THE TROUBLED ASSET RELIEF PROGRAM | Department of the Treasury Special Inspector General for the Troubled Asset Relief Program | Chief Investigative Counsel. Assistant Deputy Special Inspector General for Audit and Evaluation. Deputy Special Inspector General Operations.
|  | Deputy Special Inspector General Audit.
|  | General Counsel for Special Inspector General for the Troubled Asset Relief Program.
|  | Deputy Special Inspector General, Investigations.
|  | Assistant Deputy Special Inspector General for Investigations.
DEPARTMENT OF THE TREASURY TAX ADMINISTRATION, OFFICE OF THE INSPECTOR GENERAL | Office of the Inspector General | Deputy Counsel to the Inspector General. Deputy Inspector General for Audit. Deputy Assistant Inspector General for Investigations—Field.
|  | Chief Information Officer.
|  | Assistant Inspector General for Audit, Compliance and Enforcement Operations.
|  | Deputy Assistant Inspector General for Investigations—Headquarters.
|  | Deputy Inspector General for Inspections and Evaluations.
|  | Principal Deputy Inspector General.
|  | Deputy Inspector General for Mission Support.
|  | Chief Counsel.
|  | Assistant Inspector General for Investigations—Headquarters.
|  | Deputy Inspector General for Investigations.
|  | Assistant Inspector General for Audit, Returns Processing and Accounting Services.
|  | Assistant Inspector General for Audit, Management Planning and Workforce Development.
|  | Assistant Inspector General for Audit, Security and Information Technology Services.
|  | Assistant Inspector General for Audit, Management Services and Exempt Organizations.
|  | Assistant Inspector General for Investigations—Field.
UNITED STATES AGENCY FOR INTERNATIONAL DEVELOPMENT | Office of the General Counsel | Deputy General Counsel. General Counsel, Chief Innovation Counsel. Assistant General Counsel, Ethics and Administration.
| Office of Security | Director, Office of Security.
| Office of Small and Disadvantaged Business Utilization | Director, Office of Small and Disadvantaged Business Utilization.
| Office of Civil Rights and Diversity | Equal Opportunity Officer.
| Bureau for Democracy, Conflict, and Humanitarian Assistance | Deputy Assistant Administrator. Deputy Director, Office of Foreign Disaster Assistance.
| Office of Afghanistan and Pakistan Affairs | Assistant Administrator.
| Office of Budget and Resource Management | Director, Budget and Resource Management.
| Bureau for Global Health | Deputy Assistant Administrator.
| Bureau for Africa | Deputy Assistant Administrator, Bureau for Africa.
| Bureau for Management | Deputy Chief Financial Officer.
|  | Deputy Controller.
|  | Director, Office of Management, Policy, Budget and Performance.
|  | Deputy Assistant Administrator.
|  | Deputy Director, Office of Acquisition and Assistance Operations.
|  | Deputy Director, Office of Management, Policy, Budget, and Performance.
|  | Deputy Director for Office of Acquisition and Assistance Policy, Support, and Evaluation.
|  | Deputy Director, Accountability, Compliance, Transparency and System Support.
|  | Director, Office of Administrative Service.
|  | Chief Information Officer.
| Human Capital Talent Management | Deputy Chief Human Capital Officer.
|  | Chief Human Capital Officer.
| Bureau for Economic Growth, Agriculture and Trade | Director.
| Bureau for Foreign Assistance | Senior Coordinator.
UNITED STATES AGENCY FOR INTERNATIONAL DEVELOPMENT, OFFICE OF THE INSPECTOR GENERAL | Office of the Inspector General | Assistant Inspector General for Overseas Contingency Operations. Deputy Assistant Inspector General for Investigations. Assistant Inspector General for Investigations.
|  | Deputy Inspector General.
|  | Assistant Inspector General for Management.
|  | Counselor to the Inspector General.
|  | Deputy Assistant Inspector General for Audit.
|  | Deputy Assistant Inspector General for Audit.
UNITED STATES INTERNATIONAL TRADE COMMISSION | United States International Trade Commission Office of External Relations | Director of Operations. Director, Office of External Relations.
| Office of Industries | Director Office of Industries.
| Office of Investigations | Director, Office of Investigations.
| Office of the Inspector General | Inspector General.
DEPARTMENT OF VETERANS AFFAIRS | Office of the Secretary and Deputy | Director, Office of Employment Discrimination Complaint Adjudication. Executive Director.
| Office of Acquisitions, Logistics and Construction | Director, Facilities Acquisition Support. Executive Director.
|  | Associate Chief Facilities Management Officer for Resource Management.
|  | Associate Executive Director, Office of Operations.
|  | Executive Director, Construction and Facilities Management.
|  | Associate Executive Director, Strategic Acquisition Center.
|  | Director, Facilities, Programs, and Plans.
|  | Executive Director.
|  | Associate Chief Facilities Management Officer for Strategic Management.
| Office of Acquisition and Materiel Management | Executive Director, Center for Acquisition Innovation. Deputy Assistant Secretary for Acquisition and Materiel Management.
|  | Associate Deputy Assistant Secretary for Acquisition Program Support.
|  | Executive Director, National Acquisition Center.
| Board of Veterans' Appeals | Vice Chairman.
|  | Deputy Vice Chairman (2).
|  | Principal Deputy Vice Chairman.
|  | Director, Management, Planning and Analysis.
| Office of the General Counsel | Regional Counsel (6).
|  | Chief Counsel, Personnel Law Group.
|  | Counselor to the General Counsel/Director Office of Accountability Review.
|  | Deputy General Counsel Legal Operations and Accountability.
|  | Deputy General Counsel, Legal Policy.
|  | Senior Advisor (Strategic Planning).
|  | Deputy General Counsel, Legal Operations.
|  | Executive Director, Management Planning and Analysis.
|  | Regional Counsel (14).
| Office of the Assistant Secretary for Management | Principal Deputy Assistant Secretary for Management.
| Office of Finance | Deputy Assistant Secretary for Finance.
|  | Director, Financial Services Center.
|  | Associate Deputy Assistant Secretary for Financial Business Operations.
|  | Associate Deputy Assistant Secretary for Finance.
|  | Director, Debt Management Center.
| Office of Acquisition and Materiel Management | Executive Director, Office of Acquisition Operations.
| Office of Asset Enterprise Management | Deputy Director, Asset Enterprise Management.
| Office of Business Oversight | Director, Office of Business Oversight.
| Office of Human Resources Management | Associate Deputy Assistant Secretary for Human Resources Management Policy.
| Office of Corporate Senior Executive Management | Executive Director.
| Office of the Assistant Secretary for Information and Technology | Executive Director for Quality and Performance. Deputy Assistant Secretary for Information Technology Resource Management.
|  | Associate Deputy Assistant Secretary for Policy, Privacy and Incident Management.
|  | Deputy Assistant Secretary for Information Security.
|  | Executive Director, Budget and Finance.
|  | Executive Director (Enterprise Operations).
|  | Associate Deputy Assistant Secretary for Security Operations.
| National Cemetery Administration | Deputy Under Secretary for Finance and Planning/Chief Financial Officer.
| Veterans Benefits Administration | Deputy Director for Operations.
|  | Deputy Director for Policy and Procedures.
|  | Deputy Chief Financial Officer.
|  | Chief Financial Officer.
| Veterans Health Administration | Chief Compliance and Business Integrity Officer.
|  | Chief Operating Officer, Veterans Canteen Service.
|  | Associate Chief Financial Officer.
|  | Chief Procurement and Logistics Officer.
|  | Associate Chief Financial Officer for Managerial Cost Accounting.
|  | Associate Chief Financial Officer, Financial Management and Accounting Systems.
|  | Director, Service Area Office (West).
|  | Director, Service Area Office (Central).
|  | Director, Service Area Office (East).
|  | Deputy Chief Procurement Officer.
|  | Deputy Chief Financial Officer.
|  | Executive Director Veterans Canteen Service.
|  | Chief Financial Officer.
| Medical Center Directors | Medical Center Director (Advisory).
| Office of Emergency Management | Deputy Assistant Secretary for Emergency Management.
| Office of Operations, Security and Preparedness | Director for Security and Law Enforcement.
DEPARTMENT OF VETERANS AFFAIRS, OFFICE OF THE INSPECTOR GENERAL | Immediate Office of the Inspector General | Counselor to the Inspector General. Deputy Counselor to the Inspector General. Deputy Inspector General.
| Office of the Assistant Inspector General for Investigations | Deputy Inspector General for Investigations (Field Operations). Assistant Inspector General for Investigations.
|  | Deputy Assistant Inspector General for Investigations (Headquarters Operations).
| Office of the Assistant Inspector General for Audits and Evaluations | Assistant Inspector General for Audits and Evaluations. Deputy Assistant Inspector General for Audits and Evaluations (Field Operations).
|  | Deputy Assistant Inspector General for Audits and Evaluations (Headquarters Management and Inspections).
| Office of the Assistant Inspector General for Management and Administration | Assistant Inspector General for Management and Administration. Deputy Assistant Inspector General for Management and Administration.
| Office of the Assistant Inspector General for Healthcare Inspections | Medical Officer (Deputy Director of Medical Consultation and Review).
|  | Deputy Assistant Inspector General for Healthcare Inspections (Clinical Consultation).
|  | Deputy Assistant Inspector General for Healthcare Inspections.
|  | Assistant Inspector General for Healthcare Inspections

Authority: 5 U.S.C. 3132.

U.S. Office of Personnel Management.
Beth F. Cobert,
Acting Director.

[FR Doc. 2016-11951 Filed 5-23-16; 8:45 am]

BILLING CODE 6325-39-P